DEPARTMENT OF HOMELAND SECURITY

Coast Guard

46 CFR Parts 401 and 402

[Docket No. USCG-2022-0025]

RIN 1625-AC79

Great Lakes Pilotage Modernization

AGENCY: Coast Guard, DHS.

ACTION: Notice of proposed rulemaking.

SUMMARY: The Coast Guard is proposing to amend certain Great Lakes Pilotage regulatory requirements to align with current Coast Guard and U.S. pilot association operations and pilotage practices. This proposed rule would clarify the different phases of training and types of registrations for pilots who work on the Great Lakes, eliminate outdated practices and redundant requirements, and adds much needed structure regarding the billing dispute process.

DATES: Comments and related material must be received by the Coast Guard on or before January 22, 2024.

ADDRESSES: You may submit comments identified by docket number USCG-2022-0025 using the Federal Decision Making Portal at www.regulations.gov. See the “Public Participation and Request for Comments” portion of the SUPPLEMENTARY INFORMATION section for further instructions on submitting comments.

FOR FURTHER INFORMATION CONTACT: For information about this document, call or email Mr. Vincent Berg, Coast Guard; telephone 202-906-0835, email vincent.f.berg@uscg.mil.

SUPPLEMENTARY INFORMATION:

Table of Contents for Preamble

I. Public Participation and Request for Comments

II. Abbreviations

III. Basis and Purpose

IV. Background

V. Discussion of Proposed Rule

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Public Participation and Request for Comments

The Coast Guard views public participation as essential to effective rulemaking and will consider all comments and material received during the comment period. Your comment can help shape the outcome of this rulemaking. If you submit a comment, please include the docket number for this rulemaking, indicate the specific section of this document to which each comment applies, and provide a reason for each suggestion or recommendation.

We encourage you to submit comments through the Federal Decision Making Portal at www.regulations.gov. To do so, go to www.regulations.gov, type USCG-2022-0025 in the search box and click “Search.” Next, look for this document in the Search Results column, and click on it. Then click on the Comment option. If you cannot submit your material by using www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the www.regulations.gov Frequently Asked Questions web page. That page also explains how to subscribe for email alerts that will notify you when comments are posted or if a final rule is published. We review all comments received, but we will only post comments that address the topic of the proposed rule. We may choose not to post off-topic, inappropriate, or duplicate comments that we receive.

Personal information. We accept anonymous comments. Comments we post to www.regulations.gov will include any personal information you have provided. For more about privacy and submissions in response to this document, see the Department of Homeland Security's eRulemaking System of Records notice (85 FR 14226, March 11, 2020).

We do not plan to hold a public meeting, but we will consider doing so if based on public comments we determine that a meeting would be helpful. We would issue a separate Federal Register notice to announce the date, time, and location of such a meeting.

II. Abbreviations

CFR Code of Federal Regulations

DHS Department of Homeland Security

Director Director, Great Lakes Pilotage

FR Federal Register

GLPAC Great Lakes Pilotage Advisory Committee

GT Gross tonnage

MMC Merchant Mariner Credential

MOU Memorandum of Understanding

NPRM Notice of proposed rulemaking

NAICS North American Industry Classification System

NTSB National Transportation Safety Board

OMB Office of Management and Budget

§ Section

TWIC Transportation Workers Identification Credential

U.S.C. United States Code

WWM-2 Coast Guard Great Lakes Pilotage Division

III. Basis and Purpose

The legal basis of this proposed rulemaking is Title 46 of the United States Code (U.S.C.) Chapter 93,¹ which requires each foreign vessel and each vessel of the U.S. operating “on register,” meaning U.S. vessels engaged in foreign trade, to use United States or Canadian pilots while transiting the U.S. waters of the St. Lawrence Seaway and the Great Lakes system.² For U.S. Great Lakes pilots, 46 U.S.C. 9303(a) requires the Secretary to prescribe, by regulation, standards of competency to be met by each applicant for registration as a Great Lakes pilot. Additionally, sections 9303(c) and (d) authorize the Secretary to prescribe regulations establishing the validity period of Great Lakes pilot's registration and other conditions for service respectively. The Secretary's duties and authority under 46 U.S.C. Chapter 93 have been delegated to the Coast Guard.³

¹ 46 U.S.C. 9301-9308.

² 46 U.S.C. 9302(a)(1).

³ Department of Homeland Security (DHS) Delegation No. 00170.1, Revision No. 01.3, paragraph II (92)(f).

The purpose of this notice of proposed rulemaking (NPRM) is to update the Great Lakes pilotage regulations in title 46 of the Code of Federal Regulations (CFR) parts 401 and 402 to reflect the current pilotage terms and practices used by the Coast Guard and U.S. pilot association operations. While the regulations in the current CFR do not conflict with our current practices, they do not fully reflect the current apprentice pilot training requirements and titles for pilot progression. Accordingly, the Coast Guard proposes to update the current CFR as follows:

1. To redefine the different phases of pilot registration, which would generally follow this progression: “Applicant,” “Applicant Trainee,” “Apprentice Pilot,” “Limited Registration,” “Full Registration,” and “Temporary Registered Pilot”;

2. To add “marine accident” to the definitions section to clarify a pilot's reporting requirements;

3. To clarify training benchmarks to ensure registration of qualified mariners and help retain experienced U.S. Registered Pilots.

4. To align medical requirements and radar observer training requirements for U.S. Registered Pilots with the Merchant Mariner Credential (MMC) and manning regulations in 46 CFR parts 10-15;

5. To clarify the pilotage billing dispute process with respect to when a vessel is and is not liable for charges; and

6. To remove outdated provisions, including dates and terms, from the Transportation Workers Identification Credential (TWIC), the foreign language requirements for navigation, the one-year time limit for applicants to complete training, and other regulations that were written when both the Department of Commerce and the Coast Guard had regulatory authority over U.S. pilotages services.

The Coast Guard believes that the updated registration process in this proposed rule would ensure that regulations reflect current training practices while keeping within the statutory mandate to prescribe standards of competency in 46 U.S.C. 9303(a). The proposed updates would also align with the program's goals of promoting competent, safe, efficient, and reliable pilotage service throughout the Great Lakes and St. Lawrence Seaway, promoting commerce, and protecting the marine environment.

IV. Background

Chapter 93 of Title 46 of the U.S.C. establishes a system of compulsory pilotage on the Great Lakes, requiring that each vessel of the United States operating “on register,” meaning United States vessels engaged in any commercial activity, and all foreign vessels, use a United States or Canadian Registered Pilot when operating in the Great Lakes.⁴

⁴ See The Great Lakes Pilotage Act of 1960, Public Law 86-555, June 30, 1960, as amended (codified at 46 U.S.C. 9301 et seq.).

Great Lakes pilots use in-depth local knowledge, seasoned navigational and ship handling expertise, and informed independent judgement to guide both U.S. and foreign oceangoing commercial vessels safely in and out of Great Lakes' ports and waterways. Congress made pilotage use compulsory in 1960, after becoming concerned that the 1959 opening of the St. Lawrence Seaway led to a surge in shipping traffic. Congress addressed such a definite threat to safe navigation by passing the Great Lakes Pilotage Act of 1960.

The regulations for pilot application and registration appear in 46 CFR parts 401 and 402. These regulations require that mariners applying for pilot registration meet minimum requirements and qualifications and file an application form with the Director. While the Coast Guard is responsible for publishing an annual rule that sets pilotage rates, 46 CFR parts 401 and 402 have not been otherwise substantively updated since the early 1960s. As a result, these regulations are not in alignment with current practices by the Coast Guard and the pilotage industry operating on the Great Lakes.

In 2017, the Coast Guard asked the Great Lakes Pilotage Advisory Committee (GLPAC) to help the Coast Guard identify existing regulations, guidance, and collections of information (that fall within the scope of the Committee's charter) for possible repeal, replacement, or modernization.⁵ In March 2018, GLPAC made several recommendations to update or remove outdated regulatory requirements from 46 CFR parts 401 and 402.⁶ In a September 10, 2018 meeting, GLPAC also recommended that the Coast Guard explore deadlines for contesting pilotage service invoices in part 402.⁷

⁵ 82 FR 34909, July 27, 2017.

⁶ See Meeting Minutes from the March 6, 2018, meeting of the GLPAC Regulatory Reform Sub-Committee, which can be found in the docket. To locate the docket for this rulemaking, see the Public Participation and Request for Comments portion of this preamble.

⁷ The recommendation is on page 171 of the September 10, 2018, GLPAC Meeting Transcript, which is available in the docket for this rulemaking.

In addition, the Coast Guard has identified several other areas that we propose revising. Ambiguities in regulatory text have caused confusion for pilots regarding training and registration instructions. A mariner qualifies for a given pilotage district in segments, allowing the Coast Guard to provide limited credentials as a mariner completes each stage of the pilot association's training program. This progression is in the best interest of the mariners who can gain responsibility during the training program while ensuring that safety is not compromised. As explained above, with this rulemaking, the Coast Guard proposes to clarify the different phases of training and types of registrations for pilots who work on the Great Lakes. This includes clarifying the differences between temporary and limited registrations, and which pilots are eligible for those registrations.

This proposed rule would affect approximately 51 United States Registered Pilots, 9 Apprentice Pilots, and 3 Temporary Registered Pilots on the Great Lakes as well as 3 district pilot associations and the owners and operators of approximately 293 vessels opting to use those pilots or statutorily required to use those pilots.

V. Discussion of Proposed Rule

A. Summary of Proposed Changes

This proposed rule would make several changes to 46 CFR parts 401 and 402 to clarify nomenclature and align these regulations with current practice and with other relevant regulations and plain language guidelines. The changes are summarized here and discussed in detail, section-by-section, below. The most substantial change that the Coast Guard is proposing in is to update the definitions section in part 401, subpart A, to clarify the phases of transition through the registration process, as well as adding definitions for miscellaneous terms to help clarify their application in other subparts. The Coast Guard is also proposing to change each instance of the affected terms based on the new definitions that appear elsewhere in parts 401 and 402. Additionally, the Coast Guard is proposing to change the application and training requirements for the different phases of pilotage registration in part 401, subpart B, that would generally follow this progression: “Applicant,” “Applicant Trainee,” “Apprentice Pilot,” “Limited Registration,” “Full Registration,” and “Temporary Registered Pilot.”

The Coast Guard proposes changing these regulations to align them with current pilotage training practices and to clarify the obligations that mariner applicants must fulfill before advancing to the next phase of registration.

The Coast Guard is also proposing to change the regulations covering the administration of registered pilots located in subparts B, C, D, E, and G. The Coast Guard is proposing these changes to bring the regulations into conformity with modern pilot administrative practices. Many of the specific requirements reference outdated locations, contact information, and procedures. These antiquated references make the regulations difficult to understand, and the proposed changes will bring much needed clarity to the regulations imposed on registered pilots.

The last category of changes that the Coast Guard is proposing is a series of technical amendments that will bring the regulations into conformity with the Plain Language Act and Information Network's Plain Language guidelines. One such proposed technical amendment, for example, is changing “The Coast Guard shall” to “The Coast Guard must.”

A section-by-section description of the proposed changes follows.

B. Definitions

The Coast Guard is proposing to make a number of changes to § 401.110 to update the phases of pilot registration, to add definitions to terms that are commonly used by industry members but not reflected in the CFR, to revise definitions for terms whose meaning has changed since the last update to these regulations, and to remove definitions for terms that are no longer used or applicable to these regulations.

Updated Phases of Pilot Registration

In § 401.110, the Coast Guard is proposing to redefine the different stages of pilot registration to clarify the transitions through the registration process. At the present, there are training phases that are commonly used by the pilots in practice but lack precise legal definitions. This can lead to confusion for pilot applicants as to what is required of them before advancing to the next phase.

The Coast Guard proposes to add the following terms and their definitions, currently used in practice, to the CFR: Applicant, Limited Registration, and Temporary Registered Pilot. The Coast Guard proposes to redefine the following terms already existing in the CFR: Apprentice Pilot and Applicant Trainee. The proposed general progression would be Applicant, Applicant Trainee, Apprentice Pilot, Limited Registration, Full Registration (which we also refer to as a United States Registered Pilot or U.S. Registered Pilot in the regulations), and Temporary Registered Pilot. This would help clarify the differences between the terms and phases. We describe these updates, in turn, below.

Applicant

The Coast Guard proposes to add the term Applicant and its definition to the CFR. Applicant would mean a person who has submitted an application (Form CG-4509) to the Director for consideration for placement in an approved U.S. Great Lakes pilotage training and qualification program at an association. The Director would review the application to see if the Applicant meets the minimum requirements per § 401.210.

Applicant Trainee

The Coast Guard proposes to redefine the term Applicant Trainee that currently appears in the CFR. Redefined, Applicant Trainee would mean a person who is approved by the Director and is participating in an approved U.S. Great Lakes pilot training and qualification program. The mariner would meet the minimum requirements of the pilotage regulations in proposed new § 401.214 for Applicant Trainees. These requirements are spelled out in further detail below in Section C., Updates to Training Requirements for Pilots. The Applicant Trainee does not have the necessary 6 months of service or experience on the Great Lakes or endorsement on their MMC to qualify as an Apprentice Pilot. The Director would issue the Applicant Trainee a U.S. Coast Guard Applicant Trainee Identification Card.

In practice, the Applicant Trainee would spend at least 6 months at the district becoming familiar with the area waters. The Applicant Trainee would conduct trips on vessels, accompanying a U.S. Registered Pilot or Temporary Registered Pilot, to gain pilotage experience on the Great Lakes. These trips, conducted as an Applicant Trainee, would not count toward the minimum number of round trips required for Full Registration. Once the Applicant Trainee completes the familiarization in the district waters, the association could request the Applicant Trainee become an Apprentice Pilot in the district's training and qualification program. The Applicant Trainee is not eligible for a Limited or Temporary Registration.

Apprentice Pilot

The Coast Guard proposes to redefine the term Apprentice Pilot that currently appears in the CFR. Redefined, Apprentice Pilot would mean a person who has been approved by the Director and is participating in an approved U.S. Great Lakes pilot training and qualification program. The mariner would meet the minimum requirements in revised § 401.211. The Director would issue the Apprentice Pilot a U.S. Coast Guard Apprentice Pilot Identification Card. The proposed requirements for an Apprentice Pilot are discussed further in the preamble with the proposed changes to § 401.211.

Apprentice Pilots would typically possess a minimum of 6 months of pilotage experience on the Great Lakes and have a First Class Pilot endorsement on their MMC for the waters in which Full Registration is sought. The Apprentice Pilot would be required to complete round trips until the Apprentice Pilot demonstrates proficiency, accompanying a U.S. Registered Pilot or Temporary Registered Pilot, upbound and downbound in the district's waters, and inbound to and outbound from ports, in accordance with their individual training plan.

Limited Registration

The Coast Guard would add the term Limited Registration and its definition to the CFR. Limited Registration would mean an authorization issued by the Director via letter to an Apprentice Pilot, upon the request of the pilotage association, that allows the Apprentice Pilot to provide pilotage service without direct supervision from a U.S. Registered Pilot or Temporary Registered Pilot in a specific area or waterway to facilitate the Apprentice Pilot's training. The proposed requirements for a Limited Registration are discussed with the proposed changes to § 401.211 in new paragraph (k).

Full Registration

The Coast Guard would add the term Full Registration and its definition to the CFR. Full Registration would mean the issuance of a Certificate of Registration ID card, by the Director, to an Apprentice Pilot, who meets and completes all the Coast Guard's proposed registration requirements in new §§ 401.210, 401.211, 402.210, and 402.220. These proposed requirements are discussed further below in Section C., Updates to Training Requirements for Pilots.

Generally, if the Apprentice Pilot satisfies all the Coast Guard's registration requirements and the pilotage association's requirements, and has maintained favorable performance evaluations during the training program, the Apprentice Pilot advances to Full Registration. The pilotage association could request that the Director consider an Apprentice Pilot for Full Registration as a United States Registered Pilot. The Director could approve or deny the request. If approved, the Director would issue the Apprentice Pilot a Certificate of Registration, making them a fully registered pilot. Full Registration would make the Apprentice Pilot a United States Registered Pilot who may provide pilotage services for the relevant pilotage association in accordance with the pilotage regulations.

Temporary Registered Pilot

The Coast Guard is proposing to add the term Temporary Registered Pilot and its definition to the CFR. A Temporary Registered Pilot means a person who is issued a Temporary Registration by the Director, in accordance with proposed new § 401.222. A Temporary Registration would apply to pilots who desire to provide pilotage services but who have either reached the age of 70, or previously retired from pilotage service. The Coast Guard would require that a Temporary Registered Pilot hold a valid MMC, have previously held a Full Registration, meet the requirements of proposed § 401.222, and have been requested to provide pilotage services by the pilotage association. The new requirements in proposed § 401.222 are discussed further below in Section C., Updates to Training Requirements for Pilots. The Director may make the Temporary Registration valid for a certain period of time, not to exceed 1 year from the date of issuance.

New Definitions

In addition to the updated phases of pilot registration, the Coast Guard also proposes to add definitions to the CFR for the following terms that currently appear in the CFR to better clarify their meanings: chemical test, gross tonnage, individual training plan, marine accident, minimum number of round trips, officer endorsement, round trip, and semi-annual performance evaluation report. These terms clarified in the following paragraphs.

Chemical Test

The Coast Guard proposes to add the definition of “chemical test” to the definitions in § 401.110 to clarify the kind of test that will comply with the proposed new reporting requirements. Chemical test would mean a scientifically recognized test that analyzes an individual's breath, blood, urine, saliva, bodily fluids, or tissues for evidence of dangerous drug, alcohol use, or any illegal substance, in alignment with the existing definition in 46 CFR 4.03-7. The definition of chemical test would apply to new requirements in parts 401 and 402 for mariners to submit chemical tests to the Coast Guard either at the Applicant phase of their application to be a pilot, or for marine accident reporting.

Gross Tonnage or GT

This proposed rule would add a definition for “gross tonnage or GT” to align with the gross tonnage measurement of the vessel under 46 U.S.C. chapter 143, Convention Measurement. Though 46 U.S.C. chapter 143 does not apply to a vessel of United States or Canadian registry or nationality, or a vessel operated under the authority of the United States or Canada, and that is operating only on the Great Lakes, unless the owner requests, the Coast Guard proposes to adopt the Convention Measurement's definition of gross tonnage to clarify which tonnage scheme the Great Lakes Pilotage regulations use. Parts 401 and 402 use gross tonnage in the context of determining whether Applicants or Apprentice Pilots (referred to as applicant pilots in the current CFR) have had comparable experience on other vessels or integrated tugs and tows on the Great Lakes or oceans to that of registered pilots on the Great Lakes. This is the same definition used in 46 CFR 10.107 for MMCs and in 46 CFR 69.57 for piloting regulations. As defined in parts 401 and 402, gross tonnage would require the mariner to obtain knowledge and previous performance that is equivalent to the knowledge and technical skills obtained by serving as an officer on vessels 4,000 GT or over.

Individual Training Plan

The Coast Guard proposes to add the term “individual training plan” and its definition to the CFR. This term and its definition are consistent with its use in current pilot association training programs. The individual training plan would outline the specific requirements of the association for an Apprentice Pilot, including the length of time to complete the training and the minimum number of round trips required to demonstrate proficiency. The individual training plan would communicate the qualifications and demonstrated skills that the Apprentice Pilot would be required to complete to meet the proficiency requirements for the training. The association would submit the individual training plan to the Director for review and approval, and the Director would then track the Apprentice Pilot's development through the training period. This is consistent with current practice. The association would establish an individual training plan's training requirements based on the association's determination of proficiency, the officer endorsement on the MMC, and the Apprentice Pilot's pilotage experience on the Great Lakes.

Marine Accident

The Coast Guard proposes to add a definition for the term “marine accident” that currently appears in the CFR. A marine accident would include any of the following incidents that occur while a U.S. Registered Pilot, Apprentice Pilot, Apprentice Pilot with Limited Registration, or Temporary Registered Pilot is providing pilotage services in U.S. or Canadian waters:

(i) Any allision or collision;

(ii) Any grounding;

(iii) A loss of main propulsion, primary steering, or any associated component or control system that, due to its duration or other circumstance, significantly impacts the maneuverability of the vessel;

(iv) An occurrence, directly related to the provision of pilotage services, involving significant harm to the environment as currently defined in 46 CFR 4.03-65, and including Canadian waters throughout the Great Lakes in addition to U.S. waters; or

(v) Any other incident, directly related to the provision of pilotage services, causing property damage in excess of $75,000 U.S. dollars (including the cost of labor and material to restore the property to its condition before the incident, but excluding the cost of such things as salvage, cleaning, gas-freeing, drydocking, or demurrage).

The outlined instances in this proposed definition are based on the definition in 46 CFR 4.05-1 for marine casualties, tailored for reporting marine accidents related to the Great Lakes pilotage program.

This definition would be used to identify events or occurrences where pilots must submit a marine accident report to the Director under revised § 401.260. Clearly defining marine accident would help ensure that certain marine accidents are reported to the Director in support of the Director's oversight. The reporting requirement would clarify that this obligation to report marine accidents to the Director does not alleviate any other marine casualty reporting requirements elsewhere in Coast Guard or other agency regulations. We propose adding the marine accident definition and reporting requirement to alleviate concerns about accidents related to Great Lakes pilotage not being reported to the Director.

Minimum Number of Round Trips

The Coast Guard proposes to add a definition for “minimum number of round trips” to have one term to define the number of successful round trips an Apprentice Pilot must complete to become eligible for Full Registration. The phrase minimum number of round trips would mean the fewest successful round trips that the Apprentice Pilot would be required to perform under the direct supervision of a U.S. Registered Pilot or Temporary Registered Pilot to demonstrate proficiency prior to advancing and completing training. The minimum number of round trips required would be prescribed in the Apprentice Pilot's approved individual training plan, discussed in revised § 401.211. Section 402.220 contains the minimum number of round trips for certain officer endorsements.

In practice, each round trip would be evaluated, and the evaluation form would be retained in the mariner's training record. If, after evaluation, the Apprentice Pilot does not satisfy the Director's or association's proficiency requirements, additional trips in that area or port could be required.

Officer Endorsement

Officer endorsement is currently used in the regulations governing MMCs in 46 CFR part 10 to mean an annotation on an MMC that allows a mariner to serve in the capacities listed in 46 CFR 10.109. We are proposing to add a definition for “officer endorsement” that matches the definition in 46 CFR part 10 to help ensure that the term is interpreted consistently.

Round Trip

The Coast Guard proposes to add a definition for “round trip” to clarify what is expected of the Apprentice Pilot, as outlined in their individual training plan. We propose to define round trip as providing pilotage service, in both directions, from one change point to another change point or inbound and outbound in a port designated by an authorized pilotage pool. This definition would also apply to the round trip in the proposed definition minimum number of round trips. Defining round trip would help clarify the minimum requirements for Apprentice Pilots in their training.

Semi-Annual Performance Evaluation Report

The Coast Guard proposes to add a definition for “Semi-annual Performance Evaluation Report.” Twice per shipping season, the association would be required to submit to the Director a progress report of how the Apprentice Pilot is progressing through their training. The report would assess an Apprentice Pilot's progress in the pilot association's training and qualification program, and the Apprentice Pilot's performance in completing their individual training plan.

Revised Definitions

We are also proposing to revise the definitions of association, Commandant, comparable experience, Director, person, pilotage pool, Rate computation definitions to determine Weighting Factors, Secretary, and United States Registered Pilot or U.S. Registered Pilot to align the regulatory definitions with industry usage and understanding. These proposed revisions are detailed below.

Association

The Coast Guard proposes to remove the words “or held” from the definition of “association.” This would clarify that if the Coast Guard revokes an association's Certificate of Authorization, they are no longer an association under the Act or Coast Guard regulations. In addition, the Coast Guard proposes to specify in the definition of association that the Director, instead of the Great Lakes Pilotage Branch, issues the Certificate of Authorization to the association.

Commandant

In the definition of “Commandant,” our only proposed change is to replace the outdated office symbol, CG-00, with the current office designation, CCG.

Comparable Experience

The Coast Guard proposes to change the first sentence in the definition of “comparable experience” to better define the requirements. Currently, the definition suggests that comparable experience is similar experience obtained by serving as an officer of a vessel. The proposed changes would state that comparable experience means knowledge and previous performance that is equivalent to the knowledge and technical skills obtained by serving as an officer on vessels of at least 4,000 GT or over. We propose adding this requirement, that comparable experience must be obtained on vessels of at least 4,000 GT, throughout the regulations to be consistent regarding comparable experience and the requirements to be a registered pilot in 46 U.S.C. 9303(a)(2). The existing regulations for qualifying for registration in 46 CFR 401.210(a)(1) require service to be accrued on vessels of 4,000 GT or over on the Great Lakes or oceans. This experience, on vessels of 4,000 GT or over, also applies to Apprentice Pilots (currently referred to as Applicant Pilots in the CFR) in existing § 401.211(a)(1).

Director

In the definition, this proposed rule would remove outdated reference to Commandant (CG-WWW-2) and replace it with Director, Great Lakes Pilotage. We would also update the mailing address for the Director within the definition.

Person

In the definition of “person,” we propose changing “pool” to “pilotage pool,” to align with the new definition of “pilotage pool” discussed below.

Pilotage Pool

The Coast Guard proposes to revise the current term and definition of “pool” by revising the term and amending the definition. First, we propose to revise the term pool by adding “pilotage” to identify it more clearly. Throughout parts 401 and 402, this proposed rule would update all references to “pool” to “pilotage pool.” In current practice, the Director provides the pilotage pool a Certificate of Authorization to operate as an association. Second, the definition of pool in the current CFR text is an organization authorized to provide pilotage services. We propose to revise the definition to account for the requirement that an organization must hold a Certificate of Authorization issued by the Director to provide pilotage services. The new definition would clearly indicate what is required for a pilotage pool authorization.

Rate Computation Definitions To Determine Weighting Factors

The Coast Guard proposes to add the words, “to determine Weighting Factors” to the existing phrase, “Rate computation definitions,” at § 401.110(a)(10) to indicate to the public the purpose for these rate computation definitions. The definitions of “length”, “breadth”, and “depth” at § 401.110(a)(10)(i)-(iii) themselves would remain unchanged. Weighting factors are used in the calculation of a vessel's pilotage rate to determine the appropriate fee for a vessel's pilotage services and are based on the size of the vessel.

Secretary

This proposed rule would revise the definition of “Secretary” to align with the definition used in 46 U.S.C. 2101. The revised definition would point to the Secretary of the department in which the Coast Guard is operating, instead of the Secretary of Homeland Security. This proposed change would promote consistency between definitions used throughout statutes and Coast Guard implementing regulations.

United States Registered Pilot or U.S. Registered Pilot

This rule proposes non-substantive changes to the definition of “United States Registered Pilot or U.S. Registered Pilot.” First, we propose to remove an outdated reference to “license” and revise the discussion of the authorization document to read “an MMC with an officer endorsement.” We propose to add the word “areas” to capture that the endorsements for pilotage on the Great Lakes can be for routes or areas. We also propose an edit to make clear that, under the newly proposed training stage nomenclature, a United States Registered Pilot currently holds a Certificate of Registration.

We would also update the outdated references to Title 52 of the Revised Statutes of the United States with references to Title 46 of the United States Code, which is where the Coast Guard's statutory authority exists for Great Lakes pilotage regulations.

Removed Definitions

The Coast Guard proposes to remove the definition of Movage because the ratemaking methodology no longer supports this action. Under the ratemaking methodology before 2016, pilot districts charged the vessel owners a defined movage fee to move a vessel from one place to another; for example, from an anchorage to inside the harbor, or dock to dock. Since the ratemaking methodology was updated in 2016, vessel owners are charged an hourly rate for any vessel movement by a United States Registered Pilot, rounded up or down to the nearest 15 minutes.

The Coast Guard also proposes to delete the definition of “other officer” from the definition section because we are proposing to delete the only reference to the term in § 401.510(b)(3). The definition would no longer be necessary because we would not reference the term anywhere in part 400.

Organizational Changes

The Coast Guard proposes to revise § 401.110 to list the existing and new definitions in alphabetical order to make it easier for the reader to find definitions. The changes to the definitions are described in the alphabetical order they would appear in the revised § 401.110 definition section.

The Coast Guard is also proposing to update each instance of affected terms in parts 401 and 402 to align with the new definitions.

C. Updates To Training Requirements for Pilots

The Coast Guard is proposing to update the regulations that govern the application and training requirements to bring the CFR into conformity with industry practice. These regulations, located in part 401, instruct an applicant pilot as to what specifically they must do in order to apply and progress through the newly clarified phases of pilot registration. Following is a section-by-section description of the updates being proposed to the Great Lakes Pilotage application and training requirements. These changes include formatting changes that will improve the usability and readability of the CFR.

§ 401.200 Application for Registration

In § 401.200, the Coast Guard proposes to add the email address, “GreatLakesPilotage@uscg.mil”, and physical mailing address, “Great Lakes Pilotage Office, 2703 Martin Luther King Jr. Ave. SE, Stop 7509, Washington, DC 20593-7509” to which Applicants for pilotage on the Great Lakes must submit the Application for Registration as a United States Registered Pilot (Form CG-4509). We propose allowing either physical mail or electronic submission of the Application for Registration as a United States Registered Pilot (Form CG-4509) form to the Director to provide flexibility to the mariners. This change would also provide clear guidance for where to submit the form.

In this section, the Coast Guard proposes to remove the requirement to submit two full-face photographs when submitting Application Form CG-4509. The passport photos are not needed at this stage of the process. Following the submission of an application and an interview process, passport-style photos would be requested from the Applicant if they are approved to be placed into a U.S. Great Lakes pilot training and qualification program. The requirement to submit the photos upon the request of the Director would be in § 401.211(e) for Apprentice Pilots, and in proposed new § 401.214(e) for Applicant Trainees.

In practice, if the Applicant does not submit the required application materials, the Coast Guard Great Lakes Pilotage Office works with the Applicant to obtain the required documentation to meet the minimum requirements. Once the Applicant provides additional information and meets the minimum requirements, the approved application is forwarded to the pilot district(s) requested by the applicant for consideration. The pilot associations maintain a list of Applicants who meet the minimum requirements, and conduct interviews based on the applications provided by the Great Lakes Pilotage Office and the need for more pilots. If the Applicant is selected by the association, the association submits a letter to the Director requesting that the Applicant be placed in that district's approved training and qualification program.

We are also proposing a formatting change to this section where we would remove the paragraph (a) designation. All the text within this section would be undesignated. Removing the paragraph (a) designation would remove the need for the unused reserved paragraph (b) within this section. There is no need for multiple paragraph designations within this short section.

§ 401.210 Requirements and Qualifications for Full Registration

In paragraph (a)(1), the Coast Guard proposes to clarify that the mariner must have an MMC with an officer endorsement issued in accordance with 46 CFR subchapter B, part 11. We propose to delete the outdated references to Title 52 of the Revised Statutes of the United States. We also propose to change applicants qualifying with “ocean service” to applicants qualifying with “other than Great Lakes service,” because mariners may have different endorsements on their MMC, such as Master Ocean or Master Inland Waters. This change would help clarify that applicants qualifying with an endorsement on their MMC other than Great Lakes service must obtain at least 6 months of service as a deck officer or comparable experience on the Great Lakes.⁸ We also propose to clarify in this section that the officer experience must be “deck” officer experience. Deck officer experience means the mariner is working on a vessel under the endorsement as per their MMC.

⁸ See Meeting Minutes from the March 6, 2018, meeting of the GLPAC Regulatory Reform Sub-Committee, which can be found in the docket.

The paragraphs in paragraph (a) of this section contain several requirements a pilot must meet to be eligible for full registration. We propose making the following changes to the paragraphs and redesignate the requirements in paragraphs (a)(1) through (8).

In paragraph (a)(4), the Coast Guard proposes to add a reference to 46 CFR part 10, subpart C, for the mariners to find the applicable medical requirements and standards prescribed by the Commandant.

In paragraph (a)(6), the Coast Guard proposes to remove the requirement for a U.S. Registered Pilot to have a valid TWIC because this requirement is duplicative of the TWIC requirement prescribed in 46 CFR 10.203 for obtaining an MMC. A mariner cannot be a U.S. Registered Pilot without holding an MMC. This non-substantive change is in accordance with GLPAC recommendation 1 from the GLPAC Subcommittee Teleconference Meeting Minutes from March 5, 2018. Because we propose to remove the text from paragraph (a)(6), we propose to redesignate the subsequent paragraphs. We propose to move the existing requirement that the mariner agrees to be available for service, currently in paragraph (a)(7), into paragraph (a)(6), without change.

In redesignated paragraph (a)(7), the Coast Guard proposes to change “Applicant Pilot” to “Apprentice Pilot” to conform to the proposed new definitions. Revised paragraph (a)(7) would require mariners seeking Full Registration to complete the requirements for an Applicant Pilot in § 401.220(b). We are also proposing to delete the text “if applying for registration for waters in which a pilotage pool is authorized” because the requirements in § 401.220(b) would apply to all Apprentice Pilots.

In 401.210(a)(8), the Coast Guard also proposes to add that Apprentice Pilots requesting full registration must meet chemical testing requirements as defined in 46 CFR part 16. Currently, all U.S. pilots on the Great Lakes are required to meet the chemical testing requirements in part 16. The purpose of this proposed addition is to clarify that this will also be part of the Apprentice Pilot qualifications.

§ 401.211 Training requirements for Apprentice Pilots and Limited Registration Authorization

The Coast Guard proposes to change the term “Applicant Pilot” to “Apprentice Pilot” throughout this section to align with the new definition of Apprentice Pilot. Use of the term Apprentice Pilot falls more in line with industry vernacular for this stage. We also propose to add “Limited Registration Authorization” to the section name because we propose to include the requirements for Apprentice Pilots to obtain this authorization as part of their training program.

This proposed rule would separate the requirements for Apprentice Pilots to be selected for training from existing paragraph (a) and put the list into new paragraph (b). In the requirements for Apprentice Pilots in redesignated paragraph (b)(1), this proposed rule would update the cross-reference from § 401.210(a)(7) to paragraph (a)(8) to conform with proposed redesignations in that section.

In revised paragraph (b)(3), the Coast Guard proposes to revise the radar observer requirement to state that the Apprentice Pilot must have a radar observer (unlimited) endorsement on their MMC. We would also include a cross-reference to the radar observer requirements in § 11.480 for the public's reference. By removing the obsolete radar competency certificate option, we would bring the regulations up to date with the current radar observer endorsement requirements in 46 CFR subchapter B, part 11. This conforming change would not be a new requirement for mariners, because they are already expected to have a radar endorsement issued by the Coast Guard.

In this section, we also propose to allow submission of the Application Form CG-4509 to the email address GreatLakesPilotage@uscg.mil in addition to the physical mailing address Great Lakes Pilotage Office, 2703 Martin Luther King Jr. Ave. SE, Stop 7509, Washington, DC 20593-7509. Emailing the form could reduce the administrative burden associated with submitting the form. We would also clarify that the Director will request a signed passport-style photograph from those applying to be an Apprentice Pilot, when needed. The photographs would not be required when submitting Form CG-4509, because the photos are not needed until the Coast Guard is ready to issue an identification card.

In this revised section, the Coast Guard proposes to clarify the issuance of the U.S. Coast Guard Apprentice Pilot Identification Card. If the applicant meets the requirements in this section and is selected to be placed in an association's training program, the association would submit a letter to the Director for approval. If the Director approves placing the applicant in the training program, the Coast Guard would issue the applicant an Apprentice Pilot Identification Card.

The Coast Guard proposes to expand the list of circumstances when an Apprentice Pilot Identification Card would become invalid to account for the Director's statutory authority to set validity periods in 46 U.S.C. 9303(c). At the time of issuance of the Identification Card, the Director would indicate a validity period for the card. For example, the Director could coincide the expiration dates of the identification card with the dates of the Semi-annual Performance Evaluation Reports, August 15 and January 15. The other three existing grounds for expiration for the Identification Card would remain substantively the same, including when the Apprentice Pilot is registered as a pilot under § 401.210, when the Apprentice Pilot withdraws from the training program, or when the card is ordered withdrawn by the Director.

In new paragraph (g), we propose to add a requirement that all Apprentice Pilots must have a Director-approved individual training plan. The associations currently provide Director-approved individual training plans to the Apprentice Pilots as guidance during the approved U.S. Great Lakes pilot training and qualification program. We intend to codify this current practice in the regulations. As stated in the proposed definition, an individual training plan would outline the specific requirements and expectations for each Apprentice Pilot. The individual training plan would provide clear direction for the Apprentice Pilot, association, and Director regarding the Apprentice Pilot's goals and progression through the training program. The Apprentice Pilot and the pilot association would record the round trips outlined in the individual training plan and provide this information to the Director for review.

In new paragraph (g) we also propose to clarify that round trips completed as an Apprentice Pilot would count toward the minimum number of round trips required for Full Registration. As a consequence of not defining round trips previously, there has been confusion for Applicant Trainees and Apprentice Pilots regarding when their trips do or do not count towards the Full Registration certification. The trips outlined in the Apprentice Pilot's individual training plan and conducted with a U.S. Registered Pilot or Temporary Registered Pilot would have to be recorded by the Apprentice Pilot and count towards Full Registration. If the association feels the Apprentice Pilot is not ready to provide pilotage services after completing the required minimum number of round trips outlined in their individual training plan, the association could require the Apprentice Pilot to continue conducting round trips until they meet the association's requirements. Trips completed while an Applicant Trainee would not count toward the minimum number of round trips.

In addition, the Coast Guard is proposing at new paragraph (h) to require that associations conduct Semi-annual Performance Evaluation Reports for their Apprentice Pilots to assess the Apprentice Pilots' progress in their training program. The associations currently provide evaluation reports to the Director to share the Apprentice Pilot's progress in the approved U.S. Great Lakes pilot training and qualification program at the District. We propose to codify this current practice in the regulations. The associations would submit these reports to the Director by August 15 and January 15 of each year.

The report would include recommendations to the Director on whether to keep the Apprentice Pilot in the training program. This report would be intended to evaluate the Apprentice Pilot's progression through their training and help keep the Director informed of that progress. The report would provide the Apprentice Pilot necessary feedback to stay on track with their individual training plan and association expectations. By requiring a semi-annual report submission to the Coast Guard, all parties would remain informed of the progression of the Apprentice Pilot's training throughout the Great Lakes. All requests for Apprentice Pilots and Limited Registrations must contain a positive endorsement from the pilot association's training committee or president for the Director's consideration. The positive endorsement does not guarantee issuance or renewal by the Director. The Director considers the Apprentice's training progress, traffic projections, and other relevant information when making the decision to issue a certification.

Another proposed requirement for this section at new paragraph (i) is that the Apprentice Pilot must be enrolled in the association's chemical testing program, commonly known as drug testing, that meets the requirements of 46 CFR part 16. We are proposing to add chemical testing requirements and compliance into these regulations to ensure Apprentice Pilots are being monitored by the associations in the interest of maritime safety on the Great Lakes.

In new paragraph (j), the Coast Guard proposes procedures for how an Apprentice Pilot may obtain a Limited Registration. Where the Director determines a need for the pilot in order to meet the needs of increased vessel traffic, a Limited Registration could be issued to an Apprentice Pilot who has completed the requirements in § 401.220(b) and maintained a favorable performance evaluation in their Semi-annual Performance Evaluation Reports.

Specifically, the Apprentice Pilot would be required to satisfy the association's requirements in a specific area or port of the district waters before being eligible for a Limited Registration, as set out in the Apprentice Pilot's training plan. Thereafter, the association would request approval for the Apprentice Pilot to provide pilotage services in these specific areas without supervision by a United States Registered Pilot or Temporary Registered Pilot. If approved, the Director would issue the Apprentice Pilot a letter authorizing Limited Registration for the area or port completed and requested by the association. The Apprentice Pilot would be able to provide pilotage services without supervision in the authorized area and would continue to complete round trips in other areas and ports as opportunities are provided by the association. Once all required round trips are completed per their individual training plan, only the association may make a request to the Coast Guard that the Apprentice Pilot take the pilot's written exam.

The Director could revoke the Limited Registration if the Director feels the Apprentice Pilot is not receiving the appropriate training time to complete the remaining trips left in the District waters. Limited registrations are valid for as long as the Director determines.

Last, we propose adding new paragraph (k), which would state requirements for when an Apprentice Pilot may be eligible for a Certificate of Registration. These requirements are distinct from the requirements for Applicant Trainees contained in § 401.210 and reflect the value of an Apprentice Pilot's experience. The four proposed requirements would be: completion of a Director-approved Great Lakes pilot association's training program, a positive endorsement from the association, successful completion of the Director's exam, and a determination by the Director that there is a need for an additional pilot in that association. These requirements exist in practice and are referenced throughout parts 401 and 402. We propose codifying them here so that it is clear to the Apprentice Pilot and associations what conditions are necessary to reach Full Registration.

§ 401.214 Training Requirements for Applicant Trainees

In this new section, we propose to outline all the requirements for Applicant Trainees, as we do for Full Registration and Apprentice Pilots in other sections. This section would codify the Director's authority to determine the number of Applicant Trainees needed to be in training at a time for each association to ensure a sufficient number of U.S. Registered Pilots in that district. This authority is exercised in the ratemaking update every year, but this proposed rule would codify it.

The requirements for Applicant Trainees would be similar to those of Apprentice Pilots but would not require any prior Great Lakes service experience. In the proposed requirements, the Applicant Trainee must be a U.S. citizen, of good moral character and temperate habits, physically competent, available for service, under the age of 60, in compliance with the chemical testing requirements, and have a radar observer (unlimited) endorsement on their MMC.

The Applicant Trainee would be required to obtain at least 6 months of service as a credentialed officer on the Great Lakes before being eligible to be considered for Apprentice Pilot. Training performed as an Applicant Trainee would be under the supervision of a U.S. Registered Pilot or Temporary Registered Pilot. This proposed section states that the Director must approve the pilots designated to provide training to Applicant Trainees, as an oversight measure. When an Applicant Trainee is conducting trips with a U.S. Registered Pilot or Temporary Registered Pilot to complete the 6-month familiarization requirement or comparable experience on the Great Lakes, the round trips would not count toward Full Registration certification.

In practice, Applicant Trainees would be required to receive a positive endorsement from the pilot association's training committee or president for the Director's consideration. The positive endorsement would not guarantee issuance or renewal by the Director. The Director would consider the Applicant Trainee's progress, traffic projections, and other relevant information when making the decision to issue a certification.

As we also propose in other sections, we propose clarifying that the Applicant Trainee may submit the Application Form CG-4509 to the to the email address GreatLakesPilotage@uscg.mil or the physical mailing address Great Lakes Pilotage Office, 2703 Martin Luther King Jr. Ave. SE, Stop 7509, Washington, DC 20593-7509. We also note that the Director would request the signed passport-style photographs when they are needed, but they would not need to be submitted with the application. The Coast Guard does not need the photos until issuing the identification card.

Applicant Trainees who are selected by the association and approved by the Director would be issued a U.S. Coast Guard Applicant Trainee Identification Card. The card would remain valid until the earliest of an expiration date set by the Director, the date the Applicant Trainee is registered as an Apprentice Pilot, the date the Applicant Trainee withdraws from the training program, or the date the Director orders the card returned.

§ 401.220 Registration of Pilots

The Coast Guard proposes to remove the 1-year time limit in §§ 401.220(b)(1) and 402.220(a) for Apprentice Pilots to complete their round trips, and instead allow the applicable time limit to be specified in an Apprentice Pilot's individual training plan. Due to limited vessel traffic in some districts and ports, some Apprentice Pilots are not able to complete the required number of training trips in 1 year. This change would allow Apprentice Pilots more time to complete these trips, in accordance with their individual training plan. Currently, training takes 2-to-3 years, on average, depending on which MMC endorsements the Apprentice Pilot holds and how quickly they satisfy the requirements set forth by the association. This proposed change is in accordance with GLPAC subcommittee recommendations 4 and 5, described in the GLPAC Subcommittee Teleconference Meeting Minutes from March 5, 2018, and adopted at the GLPAC Teleconference meeting on April 11, 2018.⁹

⁹ See Meeting Minutes from the March 6, 2018, meeting of the GLPAC Regulatory Reform Sub-Committee, which can be found in the docket.

The proposed revisions to § 401.220(b) would align the requirements in paragraphs (b)(1) through (3) with the new definition for Apprentice Pilots. In proposed paragraph (b)(3), the Coast Guard proposes to clarify when the written examination is to be taken by the Apprentice Pilot. The written examination is the final step before being considered for Full Registration. After all the requirements of the regulations and the individual training plan have been met, and the association is comfortable with the Apprentice Pilot's progress, the association would send a request to the Director for the administration of the written exam. The Director would then arrange for the Apprentice Pilot to take the written exam at the nearest Regional Exam Center or respective pilot association office. The proposed changes to paragraph (b)(3) would indicate that the Apprentice Pilot is eligible to take the exam after they complete their minimum number of round trips and complete their approved course of instruction prescribed by the association.

In paragraph (c), this proposed rule would provide that the pilot association's recommendation for registering the Apprentice Pilot can include reasons for or against their registration. Currently, the text only requires the association include reasons for the registration. We wish to clarify that the association should include any reasons, for or against registration, that are relevant to the Director's decision.

The Coast Guard proposes to clarify in paragraph (d) that a Certificate of Registration may be issued to an Apprentice Pilot who has completed all the requirements and has been found qualified.

Last, in § 401.220, this proposed rule would delete paragraph (e). This paragraph authorizes the Director to issue a temporary Certificate of Registration for a period of less than 1 year to qualified persons regardless of age. We propose deleting this because Temporary Registration is redefined and prescribed in new proposed § 401.222, discussed next.

D. Administration of Great Lakes Pilots

The Coast Guard is proposing to update various sections in parts 401 and 402 that govern the administration of Great Lakes pilots. The proposed changes included in this section will modernize the mechanisms and practices used by the Coast Guard to register, monitor, and ensure the compliance of Great Lakes pilots. Following is a section-by-section description of the proposed changes to each section.

§ 401.222 Temporary Registered Pilots on the Great Lakes

In conjunction with the new proposed definition for “Temporary Registered Pilot,” the Coast Guard proposes a new § 401.222 regarding the requirements and issuance of a Temporary Registration. The mandatory retirement age for United States Registered Pilots is 70 years old. However, if a pilot maintains their MMC and meets the medical requirements, they could, with the Director's approval, receive a Temporary Pilot Identification Card to continue providing services where the association requests their pilotage services and where there is a need for the pilot. Alternatively, if a United States Registered Pilot has previously retired and is requested by the association to again provide pilotage services, the Director could consider issuing a Temporary Registration for them as well.

A mariner seeking Temporary Registration under this section would be required to meet all the requirements of a United States Registered Pilot in § 401.210, except the age requirement. This Temporary Registration would be for pilots who have reached the age of 70 or who have retired, but who desire to provide pilotage services. The Temporary Registration would be valid for a period of time defined by the Director but would not exceed 1 year from the date of issuance. Current regulations in § 401.222(e) for Temporary Registration have the same 1-year validity period. Given the risks associated with piloting large vessels through the Great Lakes and rivers, an annual renewal requirement would continue to promote the safety goals on the Great Lakes while allowing flexibility to mariners who wish to continue to provide pilotage services after retirement or age 70.

§ 401.230 Certificates of Registration

In § 401.230(a), when describing the waters where the Certificate of Registration authorizes the pilot to perform pilotage services, the Coast Guard proposes to use “areas and routes” in place of “part or parts.” Using “areas and routes” better aligns with language used throughout the pilotage regulations.

In paragraph (c), the Coast Guard proposes to clarify that a Certificate of Registration may not be digitally reproduced or be used to make a facsimile, in addition to the current prohibitions against copying or Photostat. The original Certificate of Registration, issued by the Director, is the only document allowed to be carried by a U.S. Registered Pilot. These proposed changes would further clarify that no copies, printed or electronic, are allowed.

The Coast Guard proposes to require that requests for replacement of Certificates of Registration must be made on Form CG-4509, instead of simply in writing, as the Coast Guard requires all the information on the form be updated to issue a new Certificate of Registration. The Coast Guard also proposes in paragraph (d) to clarify the style of signed photographs needed to generate a replacement for a Certificate of Registration that has been lost, damaged, or defaced. Because the signature on the photo is needed to authenticate the certificate, the signature would need to be as close to the head as possible, so that the signature remains visible when the photo is trimmed to fit the certificate during creation.

§ 401.240 Renewal of Certificates of Registration

The Coast Guard proposes to clarify in § 401.240(a) that an applicant for a renewal of Certificate of Registration must submit the Application for Registration as a United States Registered Pilot, Form CG-4905.

The Coast Guard proposes to clarify the style of photographs needed to generate a Certificate of Registration for renewal. Specifically, we propose stating that the signature on the photograph needs to be as close to the head as possible, so that the signature remains visible when the photo is trimmed to fit the certificate during creation.

§ 401.260 Reports

In paragraph (a), the Coast Guard proposes to clarify that, when a marine accident occurs while a United States Registered Pilot, Apprentice Pilot, Apprentice Pilot with Limited Registration, or Temporary Registered Pilot is providing pilotage services, they must report the accident to the Director in writing. We propose adding the results of the pilot's post-casualty drug and alcohol test, if required, to the report's mandatory contents. The existing requirements would be put into a list format to better clarify what the pilot must include in the report.

We propose redesignating as new paragraph (b) the existing requirement from paragraph (a) that the report to the Director does not relieve the pilot or others of responsibility for submitting any report required by other government agencies of the United States or Canada. We also propose clarifying in new paragraph (b) that this reporting requirement does not affect any other reporting requirements in Coast Guard regulations.

We propose to remove the requirement in 46 CFR 401.260(c) for the pilotage pool to submit a monthly availability report to the Director. As per 46 U.S.C. 9303(a)(3), “the applicant will be available for service when required.” In 46 CFR 401.210(a)(6), pilots must agree to be available for service. The Coast Guard sees no use for this monthly availability report requirement because the associations notify the Director when a pilot is not available to provide pilotage services. In practice, the Director has not been requiring this monthly report. Accordingly, we propose to remove the requirement from the regulations.

§ 401.420 Cancellation, Delay, or Interruption in Provision of Services

In paragraph (a)(3) of this section, the Coast Guard proposes to remove the words “or movage” and replace them with “or transit,” because the ratemaking methodology does not account for this movage action. “Transit” aligns better with the terminology used in part 400.

In paragraph (c), the Coast Guard proposes revisions to the existing provisions specifying that, when pilotage delay is due to ice or weather, the vessel is not responsible for the additional charges invoiced by the association. The regulations currently only state that the vessel is not liable for charges under this part. We propose adding language to explicitly extend this exemption to vessel owners to more clearly establish the lack of liability for charges under this section.

We would also clarify that the decision to interrupt the voyage or detain the pilot as a result of ice or weather must be jointly determined by the vessel master and the United States Registered Pilot, Apprentice Pilot with Limited Registration, or Temporary Registered Pilot authorized to provide pilotage services to the vessel. This interruption of the voyage or the detention of the pilot would be in consideration of marine safety. Requiring them to reach this decision in agreement is an equitable solution to resolve when the vessel or owner is not liable for the pilotage charges. When possible, they should make the determination to interrupt, detain, or delay the vessel due to ice or weather prior to the pilot departing for the vessel. This additional guidance on when the determination should be communicated to the pilot would promote efficiency in the process of calling a pilot to a vessel.

We also propose removing interruption or detention due to traffic as a justification for this exemption for delayed pilotage charges. Vessel traffic is a normal occurrence on the waterways that can be expected during the normal course of business. On the other hand, weather and ice delays are made in response to maritime safety, and vessels should not be penalized for delays made in the interest of safety. These exemptions are intended to relieve vessels for charges brought on by forces outside of their control. While vessel traffic used to be difficult to predict, the availability of the Vessel Traffic System and Automated Information System data means that vessels are able to predict traffic. Therefore, the Coast Guard is removing this exemption and making vessels responsible for accurately predicting vessel traffic.

§ 401.425 Provision for Additional Pilot

The Coast Guard proposes to remove the text, “Great Lakes Pilotage Staff, U.S. Coast Guard, or the General Manager, Great Lakes Pilotage Authority, Ltd., Canada” and all references to Canada and other U.S. Coast Guard staff in this section to clarify who makes the decision as to when an additional U.S. Registered Pilot is required. We would clarify in the text that the Director makes this double pilotage determination, when necessary, for the safe navigation of the vessel.

We also propose removing the statement that the provisions for an additional pilot do not apply to a ship that is not required to have a pilot on board in undesignated waters of Lake Erie between Southeast Shoal and Port Colborne, because a pilot is always required in these waters. As this exemption is obsolete and no longer applies, we propose deleting it from the regulations.

Additional pilot determinations are currently made on a case-by-case evaluation and are usually authorized for the opening and closing of the shipping season. We propose noting in the regulations that this is a case-by-case evaluation and include the potential reasons for the need for additional pilots. The association or vessel representative could request an additional pilot on the vessel for a specific time, particular port or area, or situation. For example, an association or vessel could need an additional pilot due to seasonal removal of aids to navigation, ice conditions, weather forecasts, or other relevant situations.

§ 401.431 Disputed Charges

The Coast Guard proposes to update this section to simplify and streamline the billing dispute process. This would make it easier to understand Coast Guard requirements and how the vessel, owner, or master should provide the required data, such as via a written letter from an authorized officer of a company. We would also define the response time periods for the Coast Guard, the vessel owner or agent, and the pilot association, to both shorten the process and hold all involved stakeholders to regulatory timelines, per GLPAC recommendation 2 from the GLPAC 2018 Annual Meeting on September 10, 2018.¹⁰

¹⁰ See Meeting Minutes from the March 6, 2018, meeting of the GLPAC Regulatory Reform Sub-Committee, which can be found in the docket.

Under revised paragraph (a), a vessel master, owner, or agent who disputes the rate or charge for a pilot would be required to appeal to the Director within 60 days of the date the pilot association issues the bill. We propose clarifying that the pilot association may also apply the charge to the vessel owner, master, or agent thereof, because it is not always the pilot who applies the charge. The appeal would continue to be for the Director to issue an advisory opinion as to whether the disputed rate or charge is a prohibited charge or incorrectly assessed/calculated charge.

In proposed revisions to paragraph (b), the vessel owner, Master, an agent, or an employee empowered to speak on behalf of the owner or an agent would deliver the appeal to the Director in the form of official correspondence. The rule would require the appeal correspondence to describe the pilotage services, exact disputed charges, regulatory citation for the dispute, and requested resolution.

The proposed rule would also require the owner or agent to provide the pilot association with a copy of the appeal and inform them that the disputed charges have been sent to the Director for an advisory opinion.

The association would continue to have up to 20 days to provide the Director and the entity that provided the complaint with any further data or arguments in defense of the disputed charges. We propose clarifying that they have 20 business days, starting upon receipt of the notice of appeal from the charterer or owner. We also propose removing “rates” from the subject of a dispute because the pilots and associations do not create or set the rates; the Coast Guard sets the rates through an annual rulemaking.

In paragraph (e), we propose adding a timeline of up to 30 business days for the Director to issue an advisory opinion. We propose removing the express recital that the Director considered all relevant material. Per current paragraph (e), the advisory opinion must address the disputed rates and charges, discuss the facts and information provided by both parties, and include a statement of opinion, so a recital that the Director considered the material is unnecessary.

If the Director's advisory opinion finds the disputed rates or charges are prohibited, the association currently has a reasonable time, but not more than 30 days, to return the amount of disputed charges as per the advisory opinion. We propose revising the deadline to simply say the association must issue any refund according to the advisory opinion within 30 business days.

If the pilot association or the vessel owner feels the advisory opinion is incorrect, under proposed new paragraph (h), they would be able to appeal the advisory opinion to the Director of Marine Transportation Systems (CG-5PW). The pilot association would be able to submit an appeal for adjudication of the advisory opinion within 10 days of receiving the original advisory opinion.

§ 401.450 Pilot Change Points

In paragraph (b) of this section, the Coast Guard proposes to remove the effective date for the addition of change point Iroquois Lock. The change point went into effect on October 2, 2017, to provide enough time for the association to hire more pilots. Since the effective date has passed and the change point is currently in use, we propose removing the start of the effective date, per GLPAC recommendation 1 from the GLPAC 2017 Annual Meeting on September 26, 2017.¹¹ In paragraph (b), we also propose to update the location of the change point for the Iroquois Lock. The change no longer happens between Iroquois Lock and the area of Ogdensburg, NY on the St. Lawrence River; the pilot exchange now takes place in the Iroquois Lock.

¹¹ See Meeting Minutes from the March 6, 2018, meeting of the GLPAC Regulatory Reform Sub-Committee, which can be found in the docket.

In paragraph (i), the Coast Guard proposes to update change point “Gros Cap” to “Buoy 33” of the St. Marys River, Point Iroquois. The GLPAC created a subcommittee to discuss all the pilot change points in the St. Lawrence Seaway and Great Lakes system. They found that Gros Cap was too far out of the St. Marys River, and weather conditions created unsafe conditions for the pilot boat to transfer pilots. Buoy 33 of the St. Marys River is a better harbor to transfer pilots, as it is safer for the pilots as they transit up and down the ladders of the vessels. This proposed change is from GLPAC recommendation 1 from the GLPAC 2017 Annual Meeting on September 26, 2017, and conforms to current practice.¹²

¹² Ibid.

§ 401.510 Operation Without Registered Pilots

The Coast Guard proposes to remove outdated regulations in paragraphs (b)(3) through (7) of this section that were codified when both the Department of Commerce and the Coast Guard had regulatory authority over U.S. pilotage services. From 1960 to 1967, primary responsibility for Great Lakes pilotage resided with the Department of Commerce. As the Coast Guard is now the sole Federal agency responsible for enforcing the Great Lakes Pilotage Act, these regulations are unnecessary or cumbersome. And, because all the regulatory authority is now under the Coast Guard, we can coordinate more effectively and efficiently with Coast Guard District 9 than was possible when the authority was split between the Coast Guard and the Department of Commerce.

The regulations in § 401.510 addressing operation without registered pilots would be significantly streamlined to reflect the current operation requirements. For example, if a pilot is not available when needed, the Director's pilotage office can coordinate with Coast Guard District 9 much more effectively, because everything is under one agency. The 6-hour rule in current paragraphs (b)(3) and (4) has not been used since around the late-1980s or early-1990s. The 6-hour period was intended as a buffer to allow the Coast Guard time to evaluate a situation before concurring with the Department of Commerce's desire to pull a pilot off their rest period. The Coast Guard monitors traffic throughout the 2,300 nautical miles in the Great Lakes system for compulsory pilotage and is now able to make these decisions in real time.

We propose deleting paragraph (b)(5) because the language is obsolete and outlines practices that are no longer relevant to the modern pilotage industry. The decision as to whether a vessel can proceed without a pilot rests solely with the Director. It does not require the concurrence of the Coast Guard officer to whom the violation was reported. Removing this paragraph from the CFR will prevent confusion by removing instructions that are contrary to the practices being followed by modern-day pilots.

We also propose deleting paragraph (b)(6), which requires a pilotage pool to obtain verification from the Canadian Supervisor of Pilots that they do not have a pilot available, for the same reasons.

The parts we propose to retain in existing paragraphs (b)(1), (2), and (8) outline the Director's authority to allow a vessel to depart without a registered pilot and sufficiently articulate that the Director will make each decision on a case-by-case basis. The Director would continue to obtain Coast Guard District 9 concurrence before providing this information to the vessel.

§ 401.710 Operating Requirements for Holders of Certificates of Authorization

We propose updating the reference in this section to the Memorandum of Understanding (MOU) to reflect the most current issue of this Memorandum issued in conjunction with the Canadian Government. The updated version is the “Memorandum of Understanding, Great Lakes Pilotage, Between The United States Coast Guard and the Minister of Transport of Canada,” effective September 19, 2013, and can be found at www.dco.uscg.mil/Portals/9/DCO%20Documents/Office%20of%20Waterways%20and%20Ocean%20Policy/CG-WWM-2/2013%20MOU%20English.PDF?ver=2019-11-19-120352-133. The previous version mentioned in this section was issued in 1970 and is no longer current.

§ 402.210 Requirements and Qualifications for Registration (Medical Requirements)

The Coast Guard proposes to revise the language in this section to align the medical and vision requirements for Apprentice Pilots, United States Registered Pilots, and Temporary Registered Pilots with the existing MMC medical certification standards. There is no reason to duplicate the medical requirements in the pilot regulations that already exist in 46 CFR part 10 subpart C. Aligning these regulations would reduce the time and burden on pilots having to comply with regulations in two separate parts of the CFR, per GLPAC recommendation 7 from a subcommittee meeting on April 11, 2018.¹³ We propose revising the requirements in this section to say that United States Pilots, Apprentice Pilots, and Temporary Registered Pilots must pass the physical examination in accordance with 46 CFR, part 10 subpart C, and removing the requirements from paragraphs (b) regarding disease and impairment and from paragraph (c) regarding vision. 46 CFR part 10 subpart C sufficiently covers these medical requirements for pilots. Pilots would still be required to meet the annual physical examination requirements in 46 CFR 11.709.

¹³ See Meeting Minutes from the March 6, 2018, meeting of the GLPAC Regulatory Reform Sub-Committee, which can be found in the docket.

Table 1: Medical Regulations Comparison compares the newly proposed medical requirements under the two medical regulations addressing Great Lakes pilots and the medical requirements for mariners with a First Class Pilot endorsement on their MMC.

Table 1—Medical Regulations Comparison
Pilotage requirements 46 CFR 402.210 | Mariners' requirements/first class pilot endorsement 46 CFR 10.302 | Comments
Use Form CG-719K | Use Form CG-719K | Both pilots and mariners use the same form for the physical examination. This form is approved under OMB No. 1625-0040. No changes to the form would be required.
Examination performed by a medical doctor | Examination performed, witnessed, or reviewed by a licensed medical doctor, licensed physician assistant, licensed nurse practitioner, or a designated medical examiner | Great Lakes pilotage regulations allow only a medical doctor to perform their physical examination. This limits the number of practitioners eligible to perform the examinations. Many pilots on the Great Lakes live in remote areas where it is difficult to see a medical doctor and must travel to be seen by a medical doctor, which increases the cost of getting an exam.
46 CFR 402.210(c) An applicant for original registration must have a visual acuity either with or without glasses of at least 20/20 vision in one eye and at least 20/40 in the other. An applicant who wears glasses or contact lenses must also pass a test without glasses or lens of at least 20/40 in one eye and at least 20/70 in the other. Registered Pilots, however, must have either with or without glasses or lens visual acuity of at least 20/30 in one eye and at least 20/50 in the other. A Registered Pilot who wears glasses or lens must also pass a test without glasses or lens of at least 20/50 in one eye and at least 20/100 in the other. The color sense of original applicants and Registered Pilots must be tested by a pseudoisochromatic plate test. Passage of the Williams lantern test or its equivalent is an acceptable substitute for a pseudoisochromatic plate test | 46 CFR § 10.305 Vision requirements (a) Deck standard. (1) A mariner must have correctable vision to at least 20/40 in one eye and uncorrected vision of at least 20/200 in the same eye. The color sense must be determined to be satisfactory when tested by any of the following methods or an alternative test acceptable to the Coast Guard, without the use of color-sensing lenses: (i) Pseudoisochromatic Plates (Dvorine, 2nd Edition; Approved Color Vision Test (AOC); revised edition or Hardy Rand and Rittler (AOC-HRR); Ishihara 14-, 24-, or 38-plate editions) (ii) Farnsworth Lantern. (iii) Titmus Vision Tester/OPTEC 2000. (iv) Optec 900. (v) Richmond Test, 2nd and 4th edition. | The vision requirements for pilots on the Great Lakes are more restrictive than those for mariners holding an MMC. Aligning these vision requirements would meet the minimum requirements for pilotage.

§ 402.220 Registration of Pilots

In this section, we propose updating the terminology for “Apprentice Pilot” and “minimum number of round trips” to reflect changes made throughout part 401. In paragraph (a), we would clarify that the pilot association training committee, pilot association president, or Director may require additional round trips. The additional rounds trips would be as needed to demonstrate proficiency in a specific waterway or port to ensure maritime safety. We also propose removing the 1-year time limit to complete the round trips because of limited vessel traffic in some districts and ports, meaning that some Apprentice Pilots are not able to complete the required number of training trips within one year. We also propose including a caveat that the minimum number of round trips listed in the regulations or in an Apprentice Pilot's individual training plan does not guarantee advancement to Full Registration. This way, the pilot association and the Director would be able to reserve the discretion to require additional round trips when necessary.

The Coast Guard proposes to remove foreign language requirements from § 402.220(b)(5) and knowledge of foreign-made navigational equipment from § 402.220(b)(10). The pilotage regulations in paragraph (b)(5) require United States Registered Pilots to be able to provide “[instructions] in basic helm and engine telegraph orders in Greek, Spanish, German, and Italian languages.” These outdated foreign language requirements and instructions are no longer necessary or enforced because they have been superseded by international treaty requirements. Under Chapter 5, Regulation 14, paragraph 4 of the International Convention for the Safety of Life at Sea (SOLAS), all ships are required to use English as the working language for bridge-to-bridge and bridge-to-shore safety communications, as well as for communications between the pilot and the bridge watchkeeping personnel. This change is in accordance with GLPAC recommendations 2 and 3 from the subcommittee meeting on April 11, 2018.¹⁴

¹⁴ See Meeting Minutes from the March 6, 2018, meeting of the GLPAC Regulatory Reform Sub-Committee, which can be found in the docket.

In addition, we propose updating the reference to the 1977 version of the MOU referenced in this section to reflect the most current issue of this Memorandum. The updated version is the “Memorandum of Understanding, Great Lakes Pilotage, Between The United States Coast Guard and the Minister of Transport of Canada,” effective September 19, 2013. The MOU can be found online at https://www.dco.uscg.mil/Portals/9/DCO%20Documents/Office%20of%20Waterways%20and%20Ocean%20Policy/CG-WWM-2/2013%20MOU%20English.PDF?ver=2019-11-19-120352-133.

§ 402.320 Working Rules

The Coast Guard proposes to remove the working rule references in paragraphs (a)(1) through (4), and instead provide an email address where the public may request a copy of the approved working rules for each District. Each association updates its working rules frequently. It is impractical for the Coast Guard to issue regulations to update this section every time an association issues new working rules. To receive accurate information, the public can request the most current copy of the working rules by emailing the Coast Guard.

E. Technical Revisions Throughout Parts 401 and 402

Throughout parts 401 and 402, this proposed rule would change most instances of “shall” to “must” to conform to plain language guidelines. We propose changing instances where the regulations require the Director or the Coast Guard to act from “shall” to “will” to clearly indicate how the Coast Guard will respond. However, we propose changing instances where the Director or the Coast Guard needs to reserve discretion in issuing certain endorsements or decisions from “shall” to “may.”

We also propose changing uses of “registered pilot” within the text of the regulations to specify exactly which phases of pilot registration are meant and to align these references with defined terms. We propose updating all references to “pool” to “pilotage pool” to conform to the new definition for pilotage pool.

Additionally, in several sections, we propose updating the mailing addresses in the regulations for the Great Lakes Pilotage Office to our current address: 2703 Martin Luther King Jr. Ave. SE, Mail Stop 7509, Washington, DC 20593-7509.

In certain places in the regulations, we propose to replace “Commandant” with “Director” for decisions that are made, in practice, by the Director. This change would help clarify the procedures and expectations for the public. For example, we propose making this change in § 401.220(b), because the Director prescribes the minimum number of round trips and written examination for Full Registration. These changes would reflect current practice.

Another nomenclature change proposed throughout part 401 and 402 is changing instances of “his” to “they” or “their” to be gender inclusive.

We propose several technical revisions and nomenclature changes in the Administrative Law Judge decision sections in 46 CFR part 401, subpart F, including sections 401.645 and 401.650. There are no proposed substantive changes in subpart F.

This proposed rule also removes outdated references to Title 52 of the Revised Statutes and replaces them with the current statutory requirements for Great Lakes pilotage, Title 46 of the United States Code. Public Law 98-99, 97 Stat. 558 consolidated these statutory requirements into 46 U.S.C. on August 26, 1983.

VI. Regulatory Analyses

We developed this proposed rule after considering numerous statutes and Executive orders related to rulemaking. A summary of our analyses based on these statutes or Executive orders follows.

A. Regulatory Planning and Review

Executive Orders 12866 (Regulatory Planning and Review), as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility.

The Office of Management and Budget (OMB) has not designated this proposed rule a significant regulatory action under section 3(f) of Executive Order 12866, as amended by Executive Order 14094. OMB has not reviewed this regulatory action. A regulatory analysis (RA) follows.

Affected Population

The affected population for this proposed rule includes an average of 51 U.S. Great Lakes pilots, 9 Apprentice Pilots, and 3 Temporary Registered Pilots over the last five years (2018-2022) all represented by 3 pilot associations. Table 2 shows the population from 2018 to 2023, using projections provided by the pilotage associations published in the annual ratemaking for each year. Some of the changes detailed below impact a subset of this population, in which case we later detail the average of that subset along with the cost estimate. Unless otherwise noted, the change impacts the entire affected population equally.

Table 2—Affected Population 2018-2023
| Pilots | Temporary registered pilots | Apprentice pilots | Total
2023 | 56 | 3 | 6 | 65
2022 | 51 | 2 | 9 | 62
2021 | 54 | 3 | 8 | 65
2020 | 52 | 3 | 13 | 68
2019 | 51 | 3 | 8 | 62
2018 | 49 | 3 | 7 | 59
Average (2018-2022) | 51.4 | 2.8 | 9 | 63.2
* Note: Data provided above for each year (inclusive of Year 2023) are projections based on pilot association estimates. We have chosen to draw the average from the previous 5 years (2018-2022). Projected figures for 2023 are provided for transparency's sake.

Costs

Most of the cost impacts for this proposed rule have already been realized by industry. As a result of the 2018 ratemaking final rule, a new staffing model was established, and updates to the GLPMS data management system occurred. 2018 also saw the Director provide industry and associations informal guidance on many of the cost provisions found in this rulemaking. This informal guidance directly impacted current industry practices referenced in this proposed rulemaking.

Therefore, to provide a comprehensive estimate of the impacts of this proposed rulemaking, the Coast Guard utilizes two baselines, a “Pre-Guidance” baseline” and a “No Action” baseline. The “Pre-Guidance” baseline captures costs across two different time horizons. First, it provides transparency regarding costs realized from 2018-2022 due to informal guidance becoming industry practice. Second, it captures new cost impacts across a 10-year period of analysis from 2023-2032 that stem from this proposed rulemaking. Therefore, the entire period of analysis for the Pre-Guidance baseline is 2018-2032. The “No Action” baseline represents the current state of the world as if there were no proposed rulemaking. Quantifying costs against the No Action baseline entails including only costs directly attributable to this rule and excludes any costs derived from 2018 guidance. The period of analysis for costs relative to the No Action baseline is 2023-2032. See table 3 for a visual depiction of the baselines.

Table 4 shows the summary of net costs, broken down by each of the two baselines. The figures shown for each baseline are in 2022 dollars and are discounted at 7-percent.

Table 4—Summary of Net Costs by Baseline
[2022 Dollars]
| Pre-Guidance Baseline (2018-2032; discounted 7-percent) | No action baseline (2023-2032; discounted 7-percent)
Net Private Costs to Industry | Net Costs to Industry: ($720,755.13) Annualized Net Costs to Industry: ($56,422.19) | Net Costs to Industry: ($834,809.05). Annualized Net Costs to Industry: ($118,858.03).
Net Costs to Government | Net Costs to Government: $12,540.65 Annualized Net Costs to Government: $981.71 | Net Costs to Government: $0.00. Annualized Net Costs to Government: $0.00.
Total Net Costs | Total Net Costs: ($708,214.47) Annualized Net Costs: ($55,440.48) | Total Net Costs: ($834,809.05). Annualized Net Costs: ($118.858.03).
* Note: Components may not add to the totals due to rounding.

The no-cost category, summarized in table 5, includes changes that have no cost because the change is administrative, where the regulatory text needs revision for clarity to reflect reorganization of the text. It also includes proposed changes that result in no costs for either baseline, where the substantive action occurred prior to 2018 (through either existing regulatory text or long-standing guidance). For many of the cost items, the affected population already realizes the impact of the changes from prior ratemakings and general changes to industry's current practice. Certain items in table 5 solely represent information collection costs, rather than new regulatory costs. Note that information collection costs include any cost of ongoing reporting or recordkeeping that must be submitted to the Coast Guard.

Table 5—Summary of No-Cost Changes
CFR section | Description of change | Reason for no cost | Benefits
Purpose: § 401.100 | Adds the word “pilotage” to clarify the part relates to the creation of “pilotage pools” | This would be an administrative change; pilotage is an older term from the 60's whereas pilotage pools is more commonly used today but both refer to the same thing | Further clarifies the purpose of the section and reduces confusion.
Purpose: § 401.100 | Adds text to clarify that “Registered Pilots” refers to “United States Registered Pilots” | This would be an administrative change that makes explicit that the regulation does not include Canadian pilots, which is implicit based on the contextual language | Further clarifies the purpose of the section and reduces confusion.
Definitions: § 401.110 | Removes numbering of definitions and arrangement in alphabetical letter | This would be an administrative change | Eases finding definitions, increasing readability and clarity.
Definitions: § 401.110 | Adds the definition for “Applicant” to clarify that an “Applicant” is a person who has submitted a Form CG-4509 to the Director to be considered for placement in an approved U.S. Great Lakes pilot training and qualification program at one of the established pilotage pools | This would be an administrative change that distinguishes an applicant that is awaiting an acceptance decision from an applicant trainee that has been accepted into training | Further clarifies the differences between an “Applicant,” “Applicant Trainee,” and “Apprentice Pilot,” Which were previously not distinguished but all referred to synonymously as “applicant”.
Definitions: § 401.110 | Modifies the definition of “Applicant Trainee” to clarify that an Applicant Trainee is a person who is approved and certified by the Director who is participating in an approved U.S. Great Lakes pilot training and qualification program but does not qualify as an Apprentice Pilot | This would distinguish an applicant trainee that been accepted into training from an applicant that is awaiting an acceptance decision | Further clarifies the differences between an “Applicant,” “Applicant Trainee,” and “Apprentice Pilot.” Which were previously not distinguished but all referred to synonymously as “applicant”.
Definitions: § 401.110 | Removes the last sentence from the definition of Apprentice Pilot, “This definition is only applicable to determining which pilots may be included in the operating expenses, estimates, and wage benchmark in §§ 404.2(b)(7), 404.103(b), and 404.104(d) and (e)” | The base definition of Apprentice Pilot would be unchanged | Clarifies how this definition would be used in conjunction with the new definitions of Applicant and Applicant Trainee, which were not used when the term Applicant Pilot was first introduced.
Definitions: § 401.110 | Modifies the definition of “association” to clarify that the Director of Great Lakes Pilotage issues a Certificate of Authorization, not the Great Lakes Pilotage Branch | This would be an administrative change that does not change the method of authorization but clarifies the source of authority | Adds additional clarity to the source of the Director's authority and reduces confusion on what actions are the responsibility of the Coast Guard and what is the responsibility of the Director.
Definitions: § 401.110 | Updates the abbreviation of “Commandant” from CG-00 to CCG | This would be an administrative change | Adds additional clarity and reduces confusion.
Definitions: § 401.110 | Adds a definition for “chemical test” | This would be an administrative change. The new definition is the same as the existing definition in 46 CFR 4.03-7 | Adds additional clarity and reduces confusion.
Definitions: § 401.110 | Updates the address for the Director from “Commandant (CG-WWM-2), to Attn:” to “Director” | This would be an administrative change | Adds additional clarity and reduces confusion.
Definitions: § 401.110 | Updates the definition for “comparable experience” | This would be an administrative change. It clarifies that experience similar to experience on a vessel of 4,000 GT or over can be used to qualify as an applicant | It has the unquantifiable benefit of expanding the number of potential applicants using experience from other areas of the US to qualify as an applicant. To date, this has not occurred.
Definitions: § 401.110 | Adds the definition of “Full Registration” for additional clarity | This would be an administrative change that does not change the requirements to achieve full registration but distinguishes the different types of registration | Further clarifies the difference between Full, Limited, and Temporary Registrations.
Definitions: § 401.110 | Creates a definition for “Limited Registration” | This would be an administrative change that distinguishes from a temporary registration where previously “temporary” referred to multiple types of registration. This does not change the current requirements for receiving any of the types of registration | Further clarifies the difference between Full, Limited, and Temporary Registrations.
Definitions: § 401.110 | Creates a definition for “marine accident” | This would be an administrative change that distinguishes between reportable marine casualties that are sent to the Coast Guard under 46 CFR Part 4, and accident reports of those casualties that are sent to the Director in the event that the casualty would affect pilotage | Further clarifies 46 CFR 401.260(a), incident reporting requirements for pilots on the Great Lakes. The requirement to notify the Director is not new, but differentiating the kinds of reports makes it clearer to whom the notice must be given.
Definitions: § 401.110 | Creates a definition for “minimum number of round trips” | This would not change the existing minimum requirements which are detailed in 401.220(b). This addition clarifies that the number of trips applies to trips conducted by an Apprentice, not by an applicant trainee | Further clarifies round-trip requirements for Apprentice Pilots to be in line with added distinctions between apprentice pilots and applicant trainees.
Definitions: § 401.110 | Renames the term “pool” to “pilotage pool” and adds additional text to the definition | This would be an administrative change that better aligns with current authorization language | Further clarifies that pilotage pools are organizations holding a Certificate of Authorization issued by the Director, which are the three existing pilotage associations for each of the three districts.
Definitions: § 401.110 | Adds additional text to the term “rate computation definitions” to clarify that these definitions are used to determine the weighting factors in the rate | This would be an administrative change | Further clarifies how the weighting factors are calculated.
Definitions: § 401.110 | Adds definition for “round trip” | This would be an administrative change | Further clarifies what is considered a round trip.
Definitions: § 401.110 | Adds definition for “Semi-annual Performance Evaluation Report” | This would be an administrative change | Further clarifies the Semi-annual Performance Evaluation Report.
Definitions: § 401.110 | Adds definition for “Sponsoring Organization” | This would be an administrative change | Further clarifies what is considered a Sponsoring Organization for the chemical testing requirement.
Definitions: § 401.110 | Adds the additional text to the definition of “United States Registered Pilot” | This would be an administrative change | Updates text to reference current U.S. Code sections and mariner credentialing requirements.
Application for registration: § 401.200 | Adds email address and physical mailing address for submission of Form CG-4509 | This would be an administrative change | Adds email address and physical mailing address to make it easier for the regulated public to submit the form.
Application for registration: § 401.200 | Removes text requiring two photographs be submitted with Form CG-4509 | Form CG-4509 already requires the submission of two signed photographs. This change would merely remove duplicative text, not the requirement to submit the photographs | Adds clarity by removing duplicative text.
§ 401.210(a) | Changes “Requirements and qualifications for Registration” To “Requirements and qualifications for Full Registration” | This would be an administrative change | Further clarifies Full Registration in comparison to requirements for new definitions.
§ 401.210(a) | Adds the word “fully” | This would be an administrative change | Adds clarity by matching title to altered text in the body paragraph.
§ 401.210(a)(1) | Adds clarifying text updating authority from “revised statutes” to specify 46 CFR part 11, removing “license or MMC” to read “MMC with an officer endorsement”, and replacing “tows” with “barge” in “integrated tug and barge” | This change would remove outdated language and updates to the most current authority citations to provide clarity but does not change existing requirements | Adds clarity by making citation more specific Mariners are no longer issued licenses, but credentials with endorsements so this change removes outdated language and clarifies using more current language and authorities. The emphasis on barges clarifies that pilots must be credentialed deck officers and the tonnage requirements apply to an integrated tug and barge, not the aggregate tonnage of a tug and tow.
§ 401.210(a)(4) | Adds “applicable” to “applicable medical requirements and standards” and the CFR citation to the existing requirements | This would be an administrative change because the requirements in the cited CFR section are unchanged | Improves clarity of the source of requirements.
§ 401.210(a)(6) | Removes text specifying a requirement to hold a TWIC in addition to an MMC | TWICs are already required to hold an MMC so specifying both is redundant | Increases clarity and readability of the CFR by removing unnecessary text.
§ 401.210(a)(7) | Removes unnecessary text and changes the term “Applicant Pilots” to “Apprentice Pilots” | This would be an administrative change necessary to make text consistent with new definitions added in other sections that clarify between applicants, applicant trainees, and apprentices | Increases clarity and readability of the CFR by removing text specifying application for pilotage, which is already specified in the title of the section. Increases clarity by changing “Applicant Pilots” to “Apprentice Pilots” to be consistent with proposed definition changes.
§ 401.210(a)(8) | Adds new paragraph requiring the individual to meet the chemical testing requirements in 46 CFR part 16 for Full Registration | This would be an administrative change that integrates references to the existing source of requirements rather than restating requirements. This is an existing requirement for all mariners holding a MMC, per 46 CFR 10.209(h) and 46 CFR Part 16 | Adds clarity by making citation more specific and eliminating the need to update text when parts of 46 CFR part 16 change.
§ 401.211 | Changes text from “Applicant Pilots” to “Apprentice Pilots” to be consistent with new terms | This would be an administrative change necessary to make text consistent with new definitions added in other sections | Adds clarity and consistency for references to new definitions.
§ 401.211(b) | Creates new paragraph (b) containing current text | This would be an administrative change necessary to detail changes in the organization of the text | Adds clarity and better readability by making requirement list stand out within the paragraph.
§ 401.211(b)(3) | Adds citation to 46 CFR part 11.480 to clarify requirements to obtain radar observer qualification, but does not change the existing requirement to hold a radar observer qualification | Pilots must already hold a radar observer qualification | Adds clarity by making citation more specific and eliminating the need to update text when parts of 46 CFR part 11.480 change.
§ 401.211(e) | Adds address for submission of Form CG-4509 | This would be an administrative change | Adds email and mailing address to make it easier for the regulated public to submit forms.
§ 401.211(e) | Adds text requiring two photographs be submitted with Form CG-4509 to provide clarity since § 401.200 would no longer require it | This would be an administrative change that does not alter the existing requirements of Form CG-4509 | Clarifies the requirements for submitting Form CG-4509 where methods of submission are discussed.
§ 401.211(f) | Modifies text to clarify who may be issued a U.S. Coast Guard Apprentice Pilot Identification Card. Replaces the terms “applicant” and “Applicant Pilot” with “Apprentice Pilot” | This would be an administrative change | Improves clarity and makes text consistent with proposed definitions.
§ 401.211(f)(1) | Adds new paragraph stating the Director may set an expiration date for the Apprentice Pilot Identification Card | This would be an administrative change | Improves clarity.
§ 401.211(g)(4) | Minor wording changes | This would be an administrative change | Improves clarity by specifying the identification card is withdrawn.
§ 401.211(j) | New paragraph requires Apprentice Pilots to be enrolled in the association's chemical testing program | This change would update text as this is already required as part of casualty reporting | Improves clarity of applicability to make all text consistent across new sections that specify requirements for applicants, applicant trainees, and apprentices.
§ 401.211(k) | New paragraph outlines requirements for Full Registration, including passing an exam, a positive endorsement from the association, and the determination by the Director of the need for an additional pilot | This change would update text to describe current practice. The impact of the change from prior text has already been realized in 401.220(b) | Creates clarity by detailing section title for Apprentice Pilot to be consistent with new terms.
§ 401.214 | Adds new section with requirements for Applicant Trainees | This would be an administrative change to separate requirements to Applicant Trainees and Apprentice Pilots in accordance with proposed definitions | Creates clarity by codifying requirements for Applicant Trainees in a separate new section distinct from apprentices so that requirements are in clearly distinct sections and consistent with new terms. The requirements themselves are not new, as they were in place when all stages of training were referred to indistinguishably as applicants.
§ 401.214(b) | New paragraph adding qualifications to be considered an Applicant Trainee | This would be an administrative change necessary to distinguish Applicants from Applicant Trainees. Use of this term is already common practice | Creates clarity by listing requirements in clearly distinct sections and consistent with new terms. The requirements themselves are not new, as they were in place when all stages of training were referred to indistinguishably as applicants.
§ 401.214(e) | New paragraph clarifies that Applicant Trainees must submit an application on Form CG-4509 | Applicant Trainees have already been submitting these forms, but the regulatory text did not reference Applicant Trainees specifically. This practice pre-dates any guidance issued in 2018 and is not a result of this proposed rulemaking. This new clarifying paragraph would codify a longstanding practice. Therefore, this would be a no-cost change in both our Pre-Guidance baseline (2018-2032) and our No Action baseline (2023-2032) | Improves clarity by codifying the requirement that Applicant Trainees must submit an application. The requirement itself is not new and is a long-standing practice.
§ 401.220(b) | Changes the term “Applicant Pilot” to “Apprentice Pilot” | This would be an administrative change necessary to make text consistent with new definitions added in other sections | Creates clarity by listing requirements in clearly distinct sections and consistent with new terms. The requirements themselves are not new, as they were in place when all stages of training were referred to indistinguishably as applicants.
§ 401.220(b)(2) | Clarifies that Apprentice Pilots, not Applicant Pilots, must complete the approved course of instruction prescribed by the association authorized to establish the pilotage pool | This would be an administrative change necessary to make text consistent with new definitions for applicant, applicant trainee, and apprentice | Increased clarity of the CFR to specify where “Apprentice Pilot” would replace the previous term “Applicant Pilot.”
§ 401.220(b)(3) | Minor wording changes to improve clarity and readability | This would be an administrative change necessary to make text consistent with new definitions added in other sections | Removes outdated and gendered references consistent with changes in other sections.
§ 401.220(c) | Changes wording to be consistent with new definitions of Apprentice Pilot and Applicant | This would be an administrative change necessary to make text consistent with new definitions added in other sections | Increased clarity of the CFR to specify where “Apprentice Pilot” would replace the previous term “Applicant Pilot.”
§ 401.220(d) | Changes wording to be consistent with new definitions | This would be an administrative change necessary to make text consistent with new definitions added in other sections | Increased clarity of the CFR to specify where “Apprentice Pilot” would replace the old language and remove gendered references.
§ 401.220(e) | Deletes paragraph | This would be an administrative change | Increased clarity of the CFR necessary to be consistent with new sections.
§ 401.222 | Moves Temporary Registration requirements to their own section for clarity | This would be an administrative that changes organization of the part | Creates clarity by making requirements clear and consistent with a section for each category of applicant, applicant trainee, apprentice, pilot, and temporary pilot.
§ 401.222(a) | New paragraph that clarifies who may hold a Temporary Registration | This would be an administrative alteration that changes organization of the text but does not change the requirements | Creates clarity by making requirements clear and consistent a section for each category of applicant, applicant trainee, apprentice, pilot, and temporary pilot.
§ 401.230(a) | Minor wording change, updates statutory reference | This would be an administrative change necessary to make text consistent with new definitions added in other sections | Updates text to reference U.S. Code to improve clarity.
§ 401.230(c) | Modifies to include more up-to-date terms and methods of copying documents | This would be an administrative change necessary to make text consistent with new definitions added in other sections | Increased clarity as “Photostat” is not a common term.
§ 401.240(d) | Minor wording changes, replaces the word “Commandant” with “Director” | This would be an administrative change | Improves clarity by better matching the language used by industry.
§ 401.250(d) | Removes the word “license” | This would be an administrative change that does not change the requirement to have an MMC | Improves clarity and eliminates confusion as to what “license” refers.
§ 401.260(a) | Clarifies reporting requirements also apply to pilots on a Limited or Temporary Registration and other minor wording changes | This would be an administrative change necessary to make text consistent with new definitions added in other sections | Creates clarity by making requirements clear and consistent with new terms.
§ 401.260(a) | Reformats report contents from a paragraph to a numbered list | This would be an administrative change reflecting organization of text | Improves clarity by making the list of requirements more legible.
§ 401.260(a) | Modifies 401.260(a) to add clarity regarding the existing practice of receiving marine accident reports. It outlines that a written report is required when a marine incident occurs while an Apprentice Pilot, Apprentice Pilot with Limited Registration, United States Registered Pilot, or Temporary Registered Pilot is providing pilotage services | This practice predates any 2018 guidance. The Director's office already receives these reports and does not expect the trend in reports received to change as a byproduct of this rulemaking. The submission requirement for these reports is found in § 401.260 and originated in 31 FR 9065.¹⁵ Therefore, it is a no-cost change in both our Pre-Guidance baseline (2018-2032) and our No Action baseline (2023-2032) | Improves clarity on the format of the submission and when the marine accident report is required.
§ 401.260(a)(7) | Adds requirement for pilot to share the results of post-casualty drug and alcohol tests in the notice to the Director | This would not change the requirement for testing governed by 46 CFR § 4.06-3. Rather, § 401.260(a)(7) would detail what information must also be shared with the Director in the event that a reportable casualty affects pilotage | Improves clarity by making requirements easier to find in an explicit list.
§ 401.420(c) | Minor wording changes, clarifies that a vessel master and a pilot authorized to provide pilotage service to the vessel determine weather delays jointly | This would be an administrative change since this is already industry practice | Further clarifies who determines whether an interruption is caused by weather.
§ 401.425 | Removes provisions governing Canadian approval of double pilotage | This would be an administrative change since the Director does not have to confer with the Canadians to approve pilotage and has not had to. The reference to Canada was erroneous | Adds additional clarity, as the Director approves double pilotage for the U.S. pilots but has no jurisdiction over Canadian pilots. The Canadian pilots base their decisions on different criteria, though both countries may notify each other of their decision to approve double pilotage to assist in pilotage assignments.
§ 401.425 | Removes the undesignated waters of Lake Erie from the Southeast Shoal to Colborne restrictions and states the director will evaluate dual pilotage on a case-by-case basis | This change would update text as the Director can already require double pilotage as the situation dictates. The regulatory text was outdated, and double pilotage is allowed in this area when needed | Improves clarity by removing outdated language.
§ 401.431(a) | Establishes 60-day billing dispute deadline, minor word changes | There has only been one instance of a dispute longer than 60 days. We do not expect any further impacts | Improves clarity and reduces the likelihood of a dispute occurring after the books have been closed.
§ 401.431(d) | Minor wording changes to clarify that the pilot association is the respondent, and they have 20 business days to defend disputed charges starting from when they receive the notice of appeal. Previous text listed 20 days without specifying business days or when those days would begin counting | This process predates the 2018 guidance. The ability to appeal (§ 401.431(d)) was initially added to the CFR via 29 FR 10467 (July 28, 1964).¹⁶ No changes to this behavior occurred over 2018-2022. The Coast Guard does not expect wording changes in the proposed rulemaking to alter behavior from the pilot association. Therefore, it is a no-cost change in both our Pre-Guidance baseline (2018-2032) and our No Action baseline (2023-2032) | Improves clarity on who is considered the respondent and the exact timeline for any pilot association wishing to defend disputed charges.
| No previous dispute exceeded 20 days. |  |
§ 401.431(e) | Minor wording changes to clarify that the Director would respond with an advisory opinion within 30 working days. Previous text did not specify a specific number of days | No cost. This process predates 2018 guidance. § 401.431(e) was initially added to the CFR via 29 FR 10467 (July 28, 1964).¹⁷ No changes to this behavior occurred over 2018-2022. The Coast Guard does not expect wording changes in the proposed rulemaking to alter the Director's behavior in responding with advisory opinions. The text simply clarifies a long-standing practice | Improves clarity for pilot associations submitting charge disputes as to when an advisory opinion can be expected from the Director.
§ 401.431(h) | Creates new paragraph (h) that codifies the existing practice of pilotage associations appealing the advisory opinion made by the Director. The proposed reg text specifies that the associations may do so within 10 days of receiving the opinion | This process predates any 2018 guidance. This proposed paragraph is codifying this long-standing practice performed by the pilotage associations. Neither 2018 guidance nor the proposed rulemaking substantively modifies this pilot association practice. Therefore, it is a no-cost change in both our Pre-Guidance baseline (2018-2032) and our No Action baseline (2023-2032) | Improves clarity by codifying the existing ability for pilotage associations to appeal the advisory opinion made by the Director. The practice itself is not new and is a long-standing practice.
§ 401.450(b) | Removes the effective date for the establishment of the pilot change point at Iroquois Lock | This would be an administrative change since the date has passed | Improves clarity as the text is outdated from when change point was first introduced.
§ 401.450(i) | Replaces Gros Cap with Buoy 33, St. Mary's River, Point Iroquois | This change would only move the change point to a more convenient location; it would not change the number of change points | Makes text consistent with change points currently used. This change point is a new location in the river, closer to the locks and a safer location to transfer pilots on and off the pilot boat. Gros Cap was too far out in the bay (about 2 nautical miles) and the transfers were affected by the weather and transit time.
§ 401.450(k) | Replaces Gros Cap with Buoy 33 | See above | See above.
§ 401.510(b)(3)-(7) | Deletes outdated text | This would be an administrative change removing outdated references that refer to old systems of communication in paragraph (3) and references to when the Coast Guard was part of the Department of the Treasury in paragraphs (4) through (7) | Improves clarity of the CFR by removing outdated text.
§ 401.710(b) | Updates Memorandum of Understanding reference and date | This would be an administrative change removing outdated references | Improves clarity of the CFR.
§ 402.220(a) | Adds discretion for the Director or association to require additional round trips in a particular area as part of meeting the overall minimum number of round trips requirement | This would codify an existing practice that would not change the total number of trips to meet the minimum but may change where those trips occur in order to ensure that the experience in training is representative of future operations | Improves clarity of the CFR.
§ 402.220(a)(5) | Removes section describing requirement for training in foreign languages | This would be an administrative change removing outdated references as these courses are no longer required under STCW | Improves clarity of the CFR.
§ 402.220(a)(7) | Updates Memorandum of Understanding reference | This would be an administrative change removing outdated references | Improves clarity of the CFR.
§ 402.220(a)(10) | Removes paragraph | This would be an administrative change removing outdated references | Improves clarity of the CFR.
§ 402.230(a) | Updates statutory references and makes minor wording changes to improve clarity and readability | This would be an administrative change removing outdated references | Improves clarity of the CFR.
§ 402.320(a) | Removes reference to each working rule individually and instead makes all rules available electronically by email request | This would be an administrative change as the same information remains available and the Coast Guard has never received a request for a paper copy of a working rule | Improves clarity and electronic access of information by the public and eliminates the need to provide a technical amendment whenever the date of a working rule changes.

The information collections in this proposed rule are actions that the affected population of pilots and pilot associations have already complied with in prior years. Prior to this proposed rulemaking, the Coast Guard had not codified the burden for these collections into the information collection request for the Great Lakes Pilotage Rate Methodology (OMB Control Number 1625-0086).¹⁸ We present details on past reporting and estimated future regulatory costs to industry in table 6, broken down by each of the two baselines. Table 6 also details relevant regulatory costs that concurrently act as information collection costs.

¹⁵ To access 31 FR 9065, please see https://archives.federalregister.gov/issue_slice/1966/7/1/9063-9067.pdf. Note that while the requirement is not new, a definition for “marine accident” is being proposed for § 401.110 in this NPRM.

¹⁶ § 401.431(d) was initially added to the CFR via 29 FR 10467 (July 28, 1964). To read the referenced final rule, see https://archives.federalregister.gov/issue_slice/1964/7/28/10461-10468.pdf#page=7. For more information on the history of how the requirement was redesignated and amended through the years, see https://www.ecfr.gov/current/title-46/chapter-III/part-401/subpart-D/section-401.431.

¹⁷ § 401.431(e) was initially added to the CFR via 29 FR 10467 (July 28, 1964). To read the referenced final rule, see https://archives.federalregister.gov/issue_slice/1964/7/28/10461-10468.pdf#page=7. For more information on the history of how the requirement was redesignated and amended through the years, see https://www.ecfr.gov/current/title-46/chapter-III/part-401/subpart-D/section-401.431.

¹⁸ To access the Great Lakes pilotage Rate Methodology ICR, please see www.reginfo.gov/public/do/PRAViewICR?ref_nbr=201709-1625-004.

Table 6—Summary of Costs by Baseline
[2022 Dollars, discounted at 7%]
CFR section | Description of change | Pre-guidance baseline (2018-2032) | No action baseline (2023-2032)
Definitions: § 401.110 | Creates a definition for “individual training plan.” Prior to 2018, associations used the same template plan for the entire district, rather than individualizing plans | The Coast Guard began receiving individualized training plans in 2018. Beginning in 2018, assume that individualized training plans take 2 hours to prepare. This hour burden per training plan is expected to remain consistent (2 hours) across 2018-2032 Total Cost to Industry 2018-2032: $10,015.59. Annualized Cost: $784.04. | No cost. No expected changes in cost from this rule when compared with cost of informal guidance issued in 2018. Our No Action baseline excludes any costs directly attributed to the guidance.
§ 401.211(g) | Adds new paragraph that codifies existing practice of requiring Apprentice Pilots to have The Director approve their individual training plan | The Coast Guard began requiring The Director approve these individual training plans in 2018 (same year the agency began receiving the individualized training plans). Beginning in 2018, assume that it takes the Director 30 minutes to review. This hour burden per training plan is expected to remain consistent (0.5 hours) across 2018-2032 Total Cost to Government 2018-2032: $3,899.46. Annualized Cost: $305.26. | No cost. No expected changes in cost stemming from this rule when compared with informal guidance issued in 2018. Our No Action baseline excludes any costs directly attributed to the guidance.
Definitions: § 401.110 | Adds definition for “Temporary Registered Pilot” | 2018-2022: In the 2023 annual ratemaking, the Coast Guard utilized the definition of temporary pilot to reduce the number of temporary pilots projected 2023-2032: Any further impacts would be realized through a ratemaking. | Any further impacts would be realized through a ratemaking.
§ 401.211(h) | Adds new section that codifies existing practice of requiring Apprentice Pilots to have a Semi-annual Performance Evaluation Report | This requirement began via informal guidance in 2018. Average of 5 Apprentice Pilots annually submitting 18 reports on average. Submission requires 6 hours per report. Review of these reports at the Director's office takes 20 minutes (0.33 hours) per report. These hourly burdens remain unchanged across 2018-2032 Total Cost to Industry 2018-2032: $99,875.41. Annualized Cost: $7,818.45. | No cost. No expected changes in cost stemming from this rule when compared with informal guidance issued in 2018. Our No Action baseline excludes any costs directly attributed to the guidance.
|  | Total Cost to Government 2018-2032: $8,641.19.
|  | Annualized Cost: $1,053.61.
§ 401.230(d) and § 401.240(a) | Adds additional text to clarify the nature of photos submitted to the Coast Guard. Provides clarity by using common language for “passport style” photographs that would be more easily understood. The Coast Guard requires a signed photo inserted into Certificates of Registration as the photo with the signature is used in making certificates. In some cases, the photo submitted is too far away from the face of the subject, and in order to capture the signature a portion of the person may be cut off. This change would help eliminate these issues and needing new photos to be submitted | 2018-2022: Applicants have been asked to resubmit photos only a handful of times since 2018 2023-2032: No cost. Potential for cost savings if the number of photos retaken is reduced. This cost saving could not be quantified given the limited number of times a cost has been incurred to retake photos and that cost was never quantified. | No additional cost stemming from rulemaking. Potential for cost savings if the number of photos retaken is reduced. This cost saving could not be quantified given the limited number of times a cost has been incurred to retake photos and that cost was never quantified.
§ 401.260 | Removes paragraph (d) which required submission of monthly availability reports | 2018-2022: No cost savings. This process pre-dates 2018 guidance and has not changed in scope during 2018-2022 due to guidance. The requirement to provide these originates in 31 FR 9065 (July 1, 1966).¹⁹ From 2018-2022, associations kept record of approximately 672 monthly availability reports each year during the 10 months of the shipping season, for each pilot and apprentice on roster 2023-2032: If Coast Guard continued to require these reports, we would expect to receive 650 annually. It estimated that each monthly report takes 2.5 hours to submit. Removing this required submission results in cost savings over 2023-2032. Total Cost Savings to Industry (2018-2032): $(835,065.99). Annualized Cost Savings: $(65,370.68). | Cost savings over 2023-2032 are attributed only to this rulemaking and are not a byproduct of any guidance over the 2018-2022 timeframe. Therefore, our cost savings in the No Action baseline equate to those in our Pre-Guidance baseline. Removing the submission requirement results in cost savings over the No Action Baseline period of analysis (2023-2032). Total Cost Savings to Industry (2023-2032): $(835,065.99). Annualized Cost Savings: $(118,894.61).
§ 401.431(b) | Changes “in writing” to “official correspondence” and adds requirements for what information must be in the appeal, rather than Coast Guard receiving disputes in varying formats | 2018-2022: No cost. The appeal process did not originate from 2018 guidance. The ability to appeal (§ 401.431(b)) was initially added to the CFR via 29 FR 10467 (July 28, 1964).²⁰ 2018 guidance did not alter any aspect of this existing requirement 2023-2032: With the proposed changes, the Coast Guard estimates that forthcoming submissions will take one hour each, an additional 30 minutes per report. To avoid double counting an existing regulatory cost associated with these reports, the Pre-Guidance baseline uses 0.5 hours for the time burden. The Coast Guard estimates receiving one of these reports annually over 2023-2032.
|  | Total Cost to Industry 2018-2032: $256.94.
|  | Annualized Cost: $20.11. | Costs over 2023-2032 are attributed only to this rulemaking and are not a byproduct of any guidance over the 2018-2022 timeframe. Therefore, our cost savings in the No Action baseline equate to those in our Pre-Guidance baseline. The proposed changes result in costs over our No Action baseline period of analysis (2023-2032). Total Cost to Industry 2023-2032: $256.94. Annualized Cost: $36.58.
§ 402.210(a) | Adds Apprentice Pilots and Temporary Registered Pilots. Adds citation to current CFR requirements for all pilots to pass a physical examination. Given this edition, it equates to more than an editorial change | This requirement began via informal guidance in 2018 This change impacts mariners who submit Apprentice Pilot applications to the Director. From 2018-2022, the Coast Guard received an average of 15 such applications annually. Each medical certificate takes about 18 minutes (0.3 hours) to draft and submit. The Coast Guard expects no change in behavior or burden over 2023-2032 as a result of this rulemaking. | No cost. No expected changes in cost stemming from this rule when compared with informal guidance issued in 2018. Our No Action baseline excludes any costs directly attributed to the guidance.
|  | Total Cost to Industry 2018-2032: $4,162.92.
|  | Annualized Cost: $325.88.
§ 402.210(b) | Removes paragraph | Cost included in change to § 402.210(a) | No cost.
§ 402.210(c) | Removes paragraph | Cost included in change to § 402.210(a) | No cost.

Costs: Pre-Guidance Baseline

¹⁹ To access 31 FR 9065, please see https://archives.federalregister.gov/issue_slice/1966/7/1/9063-9067.pdf.

²⁰ § 401.431(b) was initially added to the CFR via 29 FR 10467 (July 28, 1964). To read the referenced final rule, see https://archives.federalregister.gov/issue_slice/1964/7/28/10461-10468.pdf#page=7.

This section outlines regulatory costs in accordance with the Pre-Guidance baseline. Therefore, costs from 2018-2022 stemming from the 2018 guidance are included, as applicable. The Coast Guard estimates that the annual time burden over the 2018-2022 period is zero in cases where the proposed rulemaking is (1) instituting a brand-new requirement; (2) making a substantive change to an industry practice that pre-dates 2018; or (3) makes a substantive change to an existing regulatory requirement that pre-dates 2018. This is to avoid including new costs in 2018-2022 that are not attributable to guidance and therefore out of scope for this portion of the Pre-Guidance baseline's timeframe. The Coast Guard estimates costs specifically stemming from this proposed rulemaking in the 2023-2032 portion of the Pre-Guidance period of analysis. The overall period of analysis for the Pre-Guidance timeframe is 2018-2032.

Individual Training Plans for Apprentice Pilots

One proposed addition to the Definitions portion of § 401.110 is the creation of a definition for “individual training plan.” Moreover, the proposed creation of paragraph (g) in § 401.211 would codify the existing requirement for individual training plans to be submitted to the Coast Guard for each Apprentice Pilot. The Coast Guard has been receiving individualized plans since 2018 but did not previously specify in the regulatory text that plans must be individualized. Mentor pilots generate these plans and summarize the training that Apprentice Pilots undergo to ensure that they are gaining experience in all relevant transit areas. This is to ensure they are qualified for Full Registration at the end of their training. From 2018 to 2022, the Coast Guard received an average of 5 individual training plans annually, as shown in table 7. The Coast Guard estimates that it took 2 hours to generate and submit these plans during 2018-2022. The loaded wage of pilot submitters is $73.17 from a base wage of $50.09 and a load factor of 1.46.²¹

²¹ The base wage of captains, mates, and pilots of water vessels is $50.09 as of May 2022, per https://www.bls.gov/oes/2022/may/oes535021.htm. The load factor of 1.46 is obtained by dividing total hourly compensation for Transportation and Material Moving Occupations of $33.07 by hourly wages (CMU2010000520000D) and salaries of $22.64 (CMU2020000520000D). Access these series by searching the series number at https://beta.bls.gov/dataQuery/search. Last accessed August 2023.

Going forward, the Coast Guard expects to receive six plans annually, one for each of the Apprentice Pilots authorized in the 2023 annual ratemaking (88 FR 12226, Feb. 27, 2023).²² Given the Coast Guard is simply codifying this requirement, these individualized plans will still each take 2 hours to generate and submit from 2023-2032. With six submissions annually, the Coast Guard estimates the annual cost of requiring individual training plans for apprentices over 2023-2032 to be $877.99 (6 submissions × 2 hours × $73.17). For the Pre-Guidance period of analysis (2018-2032), we estimate the grand total cost to be $10,015.59 discounted to 7 percent and $784.04 annualized as summarized in table 7.

²² https://www.federalregister.gov/documents/2023/02/27/2023-03212/great-lakes-pilotage-rates-2023-annual-ratemaking-and-review-of-methodology.

Table 7—Cost of Submitting Individual Training Plans for Apprentice Pilots
[Pre-guidance; 2022 dollars]
Year | Plans | Total pre-guidance hours | Wage of submitter | Pre-guidance baseline cost | 7-Percent | 3-Percent
| [A] | [B] | [C] | [D = A * B * C] |  |
2018 | 4 | 2 | $73.17 | $585.33 | $767.24 | $658.79
2019 | 5 | 2 | 73.17 | 731.66 | 896.31 | 799.50
2020 | 5 | 2 | 73.17 | 731.66 | 837.68 | 776.22
2021 | 3 | 2 | 73.17 | 439.00 | 469.73 | 452.17
2022 | 6 | 2 | 73.17 | 877.99 | 877.99 | 877.99
2023 | 6 | 2 | 73.17 | 877.99 | 820.55 | 852.42
2024 | 6 | 2 | 73.17 | 877.99 | 766.87 | 827.59
2025 | 6 | 2 | 73.17 | 877.99 | 716.70 | 803.49
2026 | 6 | 2 | 73.17 | 877.99 | 669.82 | 780.08
2027 | 6 | 2 | 73.17 | 877.99 | 626.00 | 757.36
2028 | 6 | 2 | 73.17 | 877.99 | 585.04 | 735.30
2029 | 6 | 2 | 73.17 | 877.99 | 546.77 | 713.89
2030 | 6 | 2 | 73.17 | 877.99 | 511.00 | 693.09
2031 | 6 | 2 | 73.17 | 877.99 | 477.57 | 672.91
2032 | 6 | 2 | 73.17 | 877.99 | 446.33 | 653.31
Total |  |  |  | 12,145.54 | 10,015.59 | 11,054.11
Annualized |  |  |  |  | 784.04 | 798.75
* Note: Components may not add to the totals due to rounding.

The Coast Guard estimates that it takes 30 minutes (0.5 hours) for the Director's office to review these plans. This estimate remains consistent across 2018-2022 and 2023-2032. With 6 submissions annually, using a loaded wage of $113.95 for a GS-14 in-government worker,²³ the Coast Guard estimates the annual cost to government of reviewing individual training plans for apprentices over 2023-2032 to be $341.84 (6 submissions × 0.5 hours × $113.95). For the Pre-Guidance period of analysis (2018-2032), we estimate the grand total cost to be $3,899.46 discounted to 7 percent and $305.26 annualized as summarized in table 8.

²³ The loaded wage of $113.95 (rounded) comes from the base hourly wage of $68.55 for a GS-14 Step 5 from the DC region multiplied by a load factor of 1.66, per https://www.opm.gov/policy-data-oversight/pay-leave/salaries-wages/salary-tables/pdf/2022/DCB_h.pdf. To calculate the load factor of 1.66, we divide total hourly compensation for workers with master's degrees as shown in table 4, $74.80, by the average hourly wage for workers with master's degrees as shown in table 2, or $45.00. $74.80 ÷ $45.00 = 1.6622. See “Comparing the Compensation of Federal and Private Sector Employees, 2011-2015,” https://www.cbo.gov/system/files/115th-congress-2017-2018/reports/52637-federalprivatepay.pdf.

Table 8—Cost to Government of Reviewing Individual Training Plans for Apprentice Pilots
[Pre-guidance; 2022 dollars]
Year | Plans | Total pre-guidance hours | Wage of reviewer | Pre-guidance baseline cost | 7-Percent | 3-Percent
| [A] | [B] | [C] | [D = A * B * C] |  |
2018 | 4 | 0.5 | $113.95 | $227.89 | $298.72 | $256.49
2019 | 5 | 0.5 | 113.95 | 284.86 | 348.97 | 311.28
2020 | 5 | 0.5 | 113.95 | 284.86 | 326.14 | 302.21
2021 | 3 | 0.5 | 113.95 | 170.92 | 182.88 | 176.05
2022 | 6 | 0.5 | 113.95 | 341.84 | 341.84 | 341.84
2023 | 6 | 0.5 | 113.95 | 341.84 | 319.47 | 331.88
2024 | 6 | 0.5 | 113.95 | 341.84 | 298.57 | 322.21
2025 | 6 | 0.5 | 113.95 | 341.84 | 279.04 | 312.83
2026 | 6 | 0.5 | 113.95 | 341.84 | 260.79 | 303.72
2027 | 6 | 0.5 | 113.95 | 341.84 | 243.72 | 294.87
2028 | 6 | 0.5 | 113.95 | 341.84 | 227.78 | 286.28
2029 | 6 | 0.5 | 113.95 | 341.84 | 212.88 | 277.94
2030 | 6 | 0.5 | 113.95 | 341.84 | 198.95 | 269.85
2031 | 6 | 0.5 | 113.95 | 341.84 | 185.94 | 261.99
2032 | 6 | 0.5 | 113.95 | 341.84 | 173.77 | 254.36
Total |  |  |  | 4,728.73 | 3,899.46 | 4,303.79
Annualized |  |  |  |  | 305.26 | 407.61
* Note: Components may not add to the totals due to rounding.

Semi-Annual Performance Evaluation Reports for Apprentice Pilots

The proposed creation of paragraph (h) in § 401.211 would require associations to submit Semi-annual Performance Evaluation Reports to the Director for Apprentice Pilots. The Coast Guard assumes that mentor pilots generate these evaluation reports, which summarize the Apprentice Pilot's training progress twice annually. These reports allow the Director and the associations to make informed decisions on Apprentice Pilot progress to better tailor what training is needed for an Apprentice Pilot to successfully complete training to become a United States Registered Pilot. Based on information from a United States Coast Guard SME, this industry practice began in 2018. The Coast Guard estimates that it takes 6 hours to generate and submit these reports. The loaded wage of pilot submitters is $73.17 from a base wage of $50.09 and a load factor of 1.46.²⁴

²⁴ The base wage of captains, mates, and pilots of water vessels is $50.09 as of May 2022, per https://www.bls.gov/oes/2022/may/oes535021.htm. The load factor of 1.46 is obtained by dividing total hourly compensation for Transportation and Material Moving Occupations of $33.07 by hourly wages (CMU2010000520000D) and salaries of $22.64 (CMU2020000520000D). Access these series by searching the series number at https://beta.bls.gov/dataQuery/search. Last accessed August 2023.

From 2018 to 2022 Coast Guard received an average of 18 reports annually, which is greater than the 12 reports the Coast Guard would expect for 6 Apprentice Pilots, assuming 2 reports submitted annually. Where Coast Guard initially received more reports than the number of active apprentices, some reports were backdated for mariners who had already completed apprentice training and become pilots. To be conservative, the Coast Guard uses the higher average of 18 to estimate ongoing costs. The Coast Guard estimates the annual cost of requiring individual training plans for apprentices over 2023-2032 to be $7,901.92 (18 submissions × 6 hours × $73.17).²⁵ For the Pre-Guidance period of analysis (2018-2032), we estimate the grand total cost to be $99,875.41 discounted to 7 percent and $7,818.45 annualized as summarized in table 9.

²⁵ The 6 hours to submit includes some time assumed for back-and-forth review between the apprentice and their approving manager.

Table 9—Cost of Submitting Semi-Annual Performance Reports for Apprentices
[Pre-guidance; 2022 dollars]
Year | Reports | Total pre-guidance hours | Wage of submitter | Pre-guidance baseline cost | 7-Percent | 3-Percent
| [A] | [B] | [C] | [D = A * B * C] |  |
2018 | 20 | 6 | $73.17 | $8,779.91 | $11,508.67 | $9,881.87
2019 | 18 | 6 | 73.17 | 7,901.92 | 9,680.19 | 8,634.64
2020 | 22 | 6 | 73.17 | 9,657.90 | 11,057.33 | 10,246.07
2021 | 9 | 6 | 73.17 | 3,950.96 | 4,227.53 | 4,069.49
2022 | 18 | 6 | 73.17 | 7,901.92 | 7,901.92 | 7,901.92
2023 | 18 | 6 | 73.17 | 7,901.92 | 7,384.97 | 7,671.77
2024 | 18 | 6 | 73.17 | 7,901.92 | 6,901.84 | 7,448.32
2025 | 18 | 6 | 73.17 | 7,901.92 | 6,450.32 | 7,231.38
2026 | 18 | 6 | 73.17 | 7,901.92 | 6,028.34 | 7,020.75
2027 | 18 | 6 | 73.17 | 7,901.92 | 5,633.96 | 6,816.26
2028 | 18 | 6 | 73.17 | 7,901.92 | 5,265.38 | 6,617.73
2029 | 18 | 6 | 73.17 | 7,901.92 | 4,920.92 | 6,424.98
2030 | 18 | 6 | 73.17 | 7,901.92 | 4,598.99 | 6,237.85
2031 | 18 | 6 | 73.17 | 7,901.92 | 4,298.12 | 6,056.16
2032 | 18 | 6 | 73.17 | 7,901.92 | 4,016.93 | 5,879.77
Total |  |  |  | 117,211.79 | 99,875.41 | 108,138.95
Annualized |  |  |  |  | 7,818.45 | 7,813.88
* Note: Components may not add to the totals due to rounding.

The Coast Guard estimates that it takes 20 minutes (0.33 hours) for the Director's office to review these reports, using a loaded wage of 113.95 for a GS-14 in-government worker.²⁶ Using the same metric of 18 submissions annually, the Coast Guard estimates the annual cost to Government of reviewing individual training plans for Apprentice Pilots over 2023-2032 to be $683.67. For the Pre-Guidance period of analysis (2018-2032), we estimate the grand total cost to be $8,641.19 discounted to 7 percent and $1,053.61 annualized as summarized in table 10.

²⁶ The loaded wage of $113.95 (rounded) comes from the base hourly wage of $68.55 for a GS-14 Step 5 from the DC region multiplied by a load factor of 1.66, per https://www.opm.gov/policy-data-oversight/pay-leave/salaries-wages/salary-tables/pdf/2022/DCB_h.pdf. To calculate the load factor of 1.66, we divide total hourly compensation for workers with master's degrees as shown in table 4, $74.80, by the average hourly wage for workers with master's degrees as shown in table 2, or $45.00. $74.80 ÷ $45.00 = 1.6622. See “Comparing the Compensation of Federal and Private Sector Employees, 2011-2015,” https://www.cbo.gov/system/files/115th-congress-2017-2018/reports/52637-federalprivatepay.pdf.

Table 10—Cost to Government of Reviewing Semi-Annual Performance Reports for Apprentices
[Pre-guidance; 2022 dollars]
Year | Reports | Total pre-guidance hours | Wage of reviewer | Pre-guidance baseline cost | 7-Percent | 3-Percent
| [A] | [B] | [C] | [D = A * B * C] |  |
2018 | 20 | 0.33 | $113.95 | $759.64 | $995.73 | $854.98
2019 | 18 | 0.33 | 113.95 | 683.67 | 837.53 | 747.07
2020 | 22 | 0.33 | 113.95 | 835.60 | 956.68 | 886.49
2021 | 9 | 0.33 | 113.95 | 341.84 | 365.76 | 352.09
2022 | 18 | 0.33 | 113.95 | 683.67 | 683.67 | 683.67
2023 | 18 | 0.33 | 113.95 | 683.67 | 638.95 | 663.76
2024 | 18 | 0.33 | 113.95 | 683.67 | 597.15 | 644.43
2025 | 18 | 0.33 | 113.95 | 683.67 | 558.08 | 625.66
2026 | 18 | 0.33 | 113.95 | 683.67 | 521.57 | 607.43
2027 | 18 | 0.33 | 113.95 | 683.67 | 487.45 | 589.74
2028 | 18 | 0.33 | 113.95 | 683.67 | 455.56 | 572.56
2029 | 18 | 0.33 | 113.95 | 683.67 | 425.76 | 555.89
2030 | 18 | 0.33 | 113.95 | 683.67 | 397.90 | 539.70
2031 | 18 | 0.33 | 113.95 | 683.67 | 371.87 | 523.98
2032 | 18 | 0.33 | 113.95 | 683.67 | 347.54 | 508.72
Total |  |  |  | 10,141.13 | 8,641.19 | 9,356.15
Annualized |  |  |  |  | 1,053.61 | 676.06
* Note: Components may not add to the totals due to rounding

Removing Monthly Availability Reports

This proposed rule would remove the requirement in § 401.260 that pilots and apprentices submit monthly availability reports. Often these availability reports do not communicate meaningful information because in practice pilots are listed as always available if they could be called in. Therefore, the Coast Guard no longer sees a benefit in requiring these reports. Based on information from a Coast Guard SME, these monthly reports have been submitted by industry since the mid-1960's.²⁷ To capture the recent burden these reports have had on industry, the Coast Guard has chosen to use data from the last 5 years (2018-2022). From 2018 to 2022, the Coast Guard received an average of 672 monthly availability reports. Each report takes an estimated 2.5 hours to submit. Given this practice did not begin in 2018 and is not a cost attributable to guidance, the Coast Guard has zeroed out the hours from 2018 to 2022. If the Coast Guard continued to require these reports, we could expect to receive 650 annually, one report for each of the 6 apprentice pilots, 56 pilots, and 3 temporary pilots for the 10 months of the active shipping season (650 reports = (6+56+3) × 10 months). The loaded wage of pilot submitters is $73.17 from a base wage of $50.09 and a load factor of 1.46.²⁸

²⁷ § 401.260(c) that deals with monthly availability reports was initially added to the CFR via 31 FR 9065 (July 1, 1966). To read the referenced final rule, see https://archives.federalregister.gov/issue_slice/1966/7/1/9063-9067.pdf#page=3. For more information on the history of how the requirement was redesignated and amended through the years, see https://www.ecfr.gov/current/title-46/chapter-III/part-401/subpart-B/section-401.260.

²⁸ The base wage of captains, mates, and pilots of water vessels is $50.09 as of May 2022, per https://www.bls.gov/oes/2022/may/oes535021.htm. The load factor of 1.46 is obtained by dividing total hourly compensation for Transportation and Material Moving Occupations of $33.07 by hourly wages (CMU2010000520000D) and salaries of $22.64 (CMU2020000520000D). Access these series by searching the series number at https://beta.bls.gov/dataQuery/search. Last accessed August 2023.

Continuing to require these reports would result in an hour burden of 2.5 hours per submission. By entirely removing this regulatory requirement, this acts as a marginal decrease in burden of 2.5 hours per submission. Since this marginal change in hour burden is based in a change to existing regulatory text rather than codifying or modifying industry practice stemming from 2018 guidance, our annual Pre-Guidance reduction in hourly burden in 2023-2032 is equal to that of our annual No Baseline hourly burden (2.5 hours). For the Pre-Guidance period of analysis (2018-2032), we estimate the total net cost savings to be $(835,065.99) discounted to 7 percent and $(65,370.68) annualized as summarized in table 11.

Table 11—Cost of Submitting Monthly Availability Reports
[Pre-guidance; 2022 dollars]
Year | Reports | Total pre-guidance hours | Wage of submitter | Pre-guidance baseline cost | 7-Percent | 3-Percent
| [A] | [B] | [C] | [D = A × B × C] |  |
2018 | 670 | * 0 | $73.17 | $0.00 | $0.00 | $0.00
2019 | 620 | * 0 | 73.17 | 0.00 | 0.00 | 0.00
2020 | 720 | * 0 | 73.17 | 0.00 | 0.00 | 0.00
2021 | 630 | * 0 | 73.17 | 0.00 | 0.00 | 0.00
2022 | 720 | * 0 | 73.17 | 0.00 | 0.00 | 0.00
2023 | 650 | 2.5 | 73.17 | (118,894.61) | (111,116.46) | (115,431.66)
2024 | 650 | 2.5 | 73.17 | (118,894.61) | (103,847.16) | (112,069.57)
2025 | 650 | 2.5 | 73.17 | (118,894.61) | (97,053.42) | (108,805.41)
2026 | 650 | 2.5 | 73.17 | (118,894.61) | (90,704.13) | (105,636.32)
2027 | 650 | 2.5 | 73.17 | (118,894.61) | (84,770.21) | (102,559.54)
2028 | 650 | 2.5 | 73.17 | (118,894.61) | (79,224.50) | (99,572.36)
2029 | 650 | 2.5 | 73.17 | (118,894.61) | (74,041.59) | (96,672.20)
2030 | 650 | 2.5 | 73.17 | (118,894.61) | (69,197.75) | (93,856.50)
2031 | 650 | 2.5 | 73.17 | (118,894.61) | (64,670.79) | (91,122.82)
2032 | 650 | 2.5 | 73.17 | (118,894.61) | (60,439.99) | (88,468.76)
Total |  |  |  | (1,188,946.11) | (835,065.99) | (1,014,195.15)
Annualized |  |  |  |  | (65,370.68) | (73,283.50)
Note: Components may not add to the totals due to rounding. Cited hours with “*” indicate that this practice did not begin with the onset of guidance in 2018. To avoid inappropriately categorizing this as a new cost attributable to 2018 guidance, the Coast Guard has opted to zero out hours in applicable cases.

Disputes

Under § 401.431(b), the Coast Guard changes “in writing” to “official correspondence” and specifies that the letter expressing the dispute must include the vessel name, date of service, and reference number for the invoice/bill, the exact amount of dispute, regulatory citation for dispute, and the requested resolution. Per a Coast Guard SME, disputes have been submitted long since the mid-1960's in accordance with § 401.431.²⁹ However, the Coast Guard previously received these disputes in varying formats. From 2018 to 2022, the Coast Guard received 6 unique disputes (some including multiple charges). Note that no unique disputes were submitted from 2019 to 2022. According to a Coast Guard SME, the agency expects one trip charge dispute submission per year starting in 2023. The loaded wage of pilot submitters is $73.17, from a base wage of $50.09 and a load factor of 1.46.³⁰

²⁹ § 401.431 was initially added to the CFR via 29 FR 10467 (July 28, 1964). To read the referenced final rule, see https://archives.federalregister.gov/issue_slice/1964/7/28/10461-10468.pdf#page=7. For more information on the history of how the requirement was redesignated and amended through the years, see https://www.ecfr.gov/current/title-46/chapter-III/part-401/subpart-D/section-401.431.

³⁰ The base wage of captains, mates, and pilots of water vessels is 50.09 as of May 2022, per https://www.bls.gov/oes/2022/may/oes535021.htm. The load factor of 1.46 is obtained by dividing total hourly compensation for Transportation and Material Moving Occupations of $33.07 by hourly wages (CMU2010000520000D) and salaries of $22.64 (CMU2020000520000D). Access these series by searching the series number at https://beta.bls.gov/dataQuery/search. Last accessed August 2023.

During 2018-2022, each dispute required 30 minutes to submit. However, given this practice did not begin in 2018 and is, therefore, not a cost attributable to guidance, the Coast Guard has zeroed out the hours from 2018 to 2022. With the proposed changes, the Coast Guard estimates that future submissions will take 1 hour each, an additional 30 minutes per report. Since this marginal change in hour burden is based in a change to existing regulatory text rather than codifying or modifying industry practice stemming from 2018 guidance, our annual Pre-Guidance hourly burden in 2023-2032 is equal to that of our annual No Baseline hourly burden (0.5 hours). For the Pre-Guidance period of analysis (2018-2032), we estimate the grand total cost to be $256.94 discounted to 7 percent and $20.11 annualized as summarized in table 12.

Table 12—Cost of Submitting Trip Charge Disputes
[Pre-guidance; 2022 dollars]
Year | Submissions | Total pre-guidance hours | Wage of submitter | Pre-guidance baseline cost | 7-percent | 3-percent
| [A] | [B] | [C] | [D = A × B × C] |  |
2018 | 6 | * 0 | $73.17 | $0.00 | $0.00 | $0.00
2019 | 0 | * 0 | 73.17 | 0.00 | 0.00 | 0.00
2020 | 0 | * 0 | 73.17 | 0.00 | 0.00 | 0.00
2021 | 0 | * 0 | 73.17 | 0.00 | 0.00 | 0.00
2022 | 0 | * 0 | 73.17 | 0.00 | 0.00 | 0.00
2023 | 1 | 0.5 | 73.17 | 36.58 | 34.19 | 35.52
2024 | 1 | 0.5 | 73.17 | 36.58 | 31.95 | 34.48
2025 | 1 | 0.5 | 73.17 | 36.58 | 29.86 | 33.48
2026 | 1 | 0.5 | 73.17 | 36.58 | 27.91 | 32.50
2027 | 1 | 0.5 | 73.17 | 36.58 | 26.08 | 31.56
2028 | 1 | 0.5 | 73.17 | 36.58 | 24.38 | 30.64
2029 | 1 | 0.5 | 73.17 | 36.58 | 22.78 | 29.75
2030 | 1 | 0.5 | 73.17 | 36.58 | 21.29 | 28.88
2031 | 1 | 0.5 | 73.17 | 36.58 | 19.90 | 28.04
2032 | 1 | 0.5 | 73.17 | 36.58 | 18.60 | 27.22
Total |  |  |  | 365.83 | 256.94 | 312.06
Annualized |  |  |  |  | 20.11 | 22.55
Note: Numbers may not sum due to rounding. Cited hours with “*” emphasize that this practice did not begin with the onset of guidance in 2018. To avoid inappropriately categorizing this as a new cost attributable to 2018 guidance, the Coast Guard has opted to zero out hours in applicable cases.

Submission of Medical Certificates

Medical certificates are already required as part of an application for an MMC under 46 CFR part 10, subpart C, which is an existing requirement to apply to be an Apprentice Pilot as noted in § 401.110 and § 401.210. The proposed change in text would clarify that the requirement applies to Apprentice Pilots, which was not specified before. This change would directly impact mariners who submit Apprentice Pilot applications to the Director. On average, the Coast Guard receives 15 such applications annually. According to a Coast Guard SME, this practice began in 2018 through informal program guidance. This guidance was issued following a recommendation from the Great Lakes Pilotage Advisory Committee in 2018.

The medical certificate part of the application takes approximately 18 minutes to draft and submit, as detailed in Information Collection Request OMB Control Number 1625-0040, “Applications for Merchant Mariner Credentials and Medical Certificate.” Given this information collection both accounts for all medical certificates that have been received and periodically updated, this uptick in medical certificates is already accounted for in 1625-0040. Therefore, this is a regulatory cost but not an information collection cost. The loaded wage of submitters is $73.17, from a base wage of $50.09 and a load factor of 1.46.³¹ For the Pre-Guidance period of analysis (2018-2032), we estimate the grand total cost to be $4,162.92 discounted to 7 percent and $325.88 annualized as summarized in table 13.

³¹ The base wage of captains, mates, and pilots of water vessels is 50.09 as of May 2022, per https://www.bls.gov/oes/2022/may/oes535021.htm. The load factor of 1.46 is obtained by dividing total hourly compensation for Transportation and Material Moving Occupations of 33.07 by hourly wages (CMU2010000520000D) and salaries of 22.64 (CMU2020000520000D). Access these series by searching the series number at https://beta.bls.gov/dataQuery/search. Last accessed August 2023.

Table 13—Total Cost of Medical Certificates for Apprentice Pilot Applications
[Pre-guidance; 2022 dollars]
Year | Submissions | Total pre-guidance hours | Wage of submitter | Pre-guidance baseline cost | 7-percent | 3-percent
| [A] | [B] | [C] | [D = A * B * C] |  |
2018 | 17 | 0.3 | $73.17 | $373.15 | $489.12 | $419.98
2019 | 15 | 0.3 | 73.17 | 329.25 | 403.34 | 359.78
2020 | 11 | 0.3 | 73.17 | 241.45 | 276.43 | 256.15
2021 | 15 | 0.3 | 73.17 | 329.25 | 352.29 | 339.12
2022 | 15 | 0.3 | 73.17 | 329.25 | 329.25 | 329.25
2023 | 15 | 0.3 | 73.17 | 329.25 | 307.71 | 319.66
2024 | 15 | 0.3 | 73.17 | 329.25 | 287.58 | 310.35
2025 | 15 | 0.3 | 73.17 | 329.25 | 268.76 | 301.31
2026 | 15 | 0.3 | 73.17 | 329.25 | 251.18 | 292.53
2027 | 15 | 0.3 | 73.17 | 329.25 | 234.75 | 284.01
2028 | 15 | 0.3 | 73.17 | 329.25 | 219.39 | 275.74
2029 | 15 | 0.3 | 73.17 | 329.25 | 205.04 | 267.71
2030 | 15 | 0.3 | 73.17 | 329.25 | 191.62 | 259.91
2031 | 15 | 0.3 | 73.17 | 329.25 | 179.09 | 252.34
2032 | 15 | 0.3 | 73.17 | 329.25 | 167.37 | 244.99
Total |  |  |  | 4,894.80 | 4,162.92 | 4,512.82
Annualized |  |  |  |  | 325.88 | 326.09
* Note: Components may not add to the totals due to rounding.

Costs: No Action Baseline.

This section outlines regulatory costs relative to the No Action baseline scenario. The No Action analysis period is 2023-2032. Our No Action baseline differs from the Pre-Guidance baseline in its exclusion of any costs that are not directly stemming from the proposed rulemaking. In other words, the No Action baseline represents the current state of the world that exists solely under pre-existing regulatory text and prior guidance. This results in many items having non-zero costs in our Pre-Guidance baseline that are no-cost items in the No Action baseline. For example, the Coast Guard began receiving individualized training plans as a byproduct of informal guidance in 2018. While the proposed rulemaking codifies this practice through a proposed addition to the CFR (§ 401.110), there is no additional regulatory burden that results from said codification. In other words, all applicable costs across 2018-2032 for individualized training plans can be attributed specifically to the 2018 guidance. Therefore, this is a no-cost provision in our No Action baseline.

The following items had non-zero costs in our Pre-Guidance baseline but are no-cost provisions in the No Action Baseline: (1) Individual training plans for Apprentice Pilots (§ 401.110 and § 401.211(g)); (2) Semi-annual Performance Evaluation Report for Apprentice Pilots (§ 401.211(h)); and (3) Submission of Medical Certificates (§ 402.210(a)). These three-line items all began as a byproduct of informal guidance from 2018 and have no alteration in burden stemming from this rulemaking that differs from the guidance. See table 6 (the “No Action Baseline (2023-2032)” column) for more context on each of these items.

The following items have non-zero costs in our No Action Baseline: (1) Removing monthly availability reports (§ 401.260) and (2) Submitting Trip Charge Disputes (§ 401.431(b)). Both items have associated costs or cost savings that stem directly from changes made from this proposed rulemaking.

Removing Monthly Availability Reports

This proposed rule would remove the requirement in § 401.260 that pilots and apprentices submit monthly availability reports. Often these availability reports do not communicate meaningful information because in practice pilots are listed as always available if they could be called in. Therefore, the Coast Guard no longer sees a benefit in requiring these reports. Based on information from a Coast Guard SME, these monthly reports have been submitted by industry since the mid-1960's.³² If the Coast Guard continued to require these reports, we could expect to receive 650 annually, one report for each of the 6 apprentice pilots, 56 pilots, and 3 temporary pilots for the 10 months of the active shipping season (650 reports = (6+56+3) × 10 months).

³² § 401.260(c) that deals with monthly availability reports was initially added to the CFR via 31 FR 9065 (July 1, 1966). To read the referenced final rule, see https://archives.federalregister.gov/issue_slice/1966/7/1/9063-9067.pdf#page=3. For more information on the history of how the requirement was redesignated and amended through the years, see https://www.ecfr.gov/current/title-46/chapter-III/part-401/subpart-B/section-401.260.

Continuing to require these reports would result in an hour burden of 2.5 hours per submission. By entirely removing this regulatory requirement through this proposed rulemaking, this acts as a marginal decrease in burden of 2.5 hours per submission. The loaded wage of submitters is $73.17, from a base wage of $50.09 and a load factor of 1.46.³³ For the No Action period of analysis (2023-2032), we estimate the total net cost savings to be $(835,065.99) discounted to 7 percent and $(118,894.61) annualized as summarized in table 14.

³³ The base wage of captains, mates, and pilots of water vessels is $50.09 as of May 2022, per https://www.bls.gov/oes/2022/may/oes535021.htm. The load factor of 1.46 is obtained by dividing total hourly compensation for Transportation and Material Moving Occupations of $33.07 by hourly wages (CMU2010000520000D) and salaries of $22.64 (CMU2020000520000D). Access these series by searching the series number at https://beta.bls.gov/dataQuery/search. Last accessed August 2023.

Table 14—Cost of Submitting Monthly Availability Reports
[No action baseline; 2022 dollars]
Year | Reports | Total no action baseline hours | Wage of submitter | No action baseline cost | 7-percent | 3-percent
| [A] | [B] | [C] | [D = A * B * C] |  |
2023 | 650 | 2.5 | $73.17 | $(118,894.61) | $(111,116.46) | $(115,431.66)
2024 | 650 | 2.5 | 73.17 | (118,894.61) | (103,847.16) | (112,069.57)
2025 | 650 | 2.5 | 73.17 | (118,894.61) | (97,053.42) | (108,805.41)
2026 | 650 | 2.5 | 73.17 | (118,894.61) | (90,704.13) | (105,636.32)
2027 | 650 | 2.5 | 73.17 | (118,894.61) | (84,770.21) | (102,559.54)
2028 | 650 | 2.5 | 73.17 | (118,894.61) | (79,224.50) | (99,572.36)
2029 | 650 | 2.5 | 73.17 | (118,894.61) | (74,041.59) | (96,672.20)
2030 | 650 | 2.5 | 73.17 | (118,894.61) | (69,197.75) | (93,856.50)
2031 | 650 | 2.5 | 73.17 | (118,894.61) | (64,670.79) | (91,122.82)
2032 | 650 | 2.5 | 73.17 | (118,894.61) | (60,439.99) | (88,468.76)
Total |  |  |  | (1,188,946.11) | (835,065.99) | (1,014,195.15)
Annualized |  |  |  |  | (118,894.61) | (118,894.61)
* Note: Components may not add to the totals due to rounding.

Disputes

Under § 401.431(b), the Coast Guard proposes changing “in writing” to “official correspondence” and specifies that the letter expressing the dispute must include the vessel name, date of service, and reference number for the invoice/bill, the exact amount of dispute, regulatory citation for dispute, and the requested resolution. Per a Coast Guard SME, disputes have been submitted long since the mid-1960's in accordance with § 401.431.³⁴ However, the Coast Guard previously received these disputes in varying forms. According to a Coast Guard SME, the agency expects one trip charge dispute submission per year starting in 2023.

³⁴ § 401.431(b) was initially added to the CFR via 29 FR 10467 (July 28, 1964). To read the referenced final rule, see https://archives.federalregister.gov/issue_slice/1964/7/28/10461-10468.pdf#page=7. For more information on the history of how the requirement was redesignated and amended through the years, see https://www.ecfr.gov/current/title-46/chapter-III/part-401/subpart-D/section-401.431.

With the proposed 1changes, the Coast Guard estimates that forthcoming submissions will take one hour each. This is an increase in 30 minutes when compared to the Coast Guard's estimate for submission time associated with prior disputes that lack these new changes (30 minutes). The loaded wage of submitters is $73.17, from a base wage of $50.09 and a load factor of 1.46.³⁵ For the No Action period of analysis (2023-2032), we estimate the grand total cost to be 256.94 discounted to 7 percent and 36.58 annualized as summarized in table 15.

³⁵ The base wage of captains, mates, and pilots of water vessels is 50.09 as of May 2022, per https://www.bls.gov/oes/2022/may/oes535021.htm. The load factor of 1.46 is obtained by dividing total hourly compensation for Transportation and Material Moving Occupations of $33.07 by hourly wages (CMU2010000520000D) and salaries of $22.64 (CMU2020000520000D). Access these series by searching the series number at https://beta.bls.gov/dataQuery/search. Last accessed August 2023.

Table 15—Cost of Submitting Trip Charge Disputes
[No action; 2022 dollars]
Year | Submissions | Total no action baseline hours | Wage of submitter | No action baseline cost | 7-Percent | 3-Percent
| [A] | [B] | [C] | [D = A * B * C] |  |
2023 | 1 | 0.5 | $73.17 | $36.58 | $34.19 | $35.52
2024 | 1 | 0.5 | 73.17 | 36.58 | 31.95 | 34.48
2025 | 1 | 0.5 | 73.17 | 36.58 | 29.86 | 33.48
2026 | 1 | 0.5 | 73.17 | 36.58 | 27.91 | 32.50
2027 | 1 | 0.5 | 73.17 | 36.58 | 26.08 | 31.56
2028 | 1 | 0.5 | 73.17 | 36.58 | 24.38 | 30.64
2029 | 1 | 0.5 | 73.17 | 36.58 | 22.78 | 29.75
2030 | 1 | 0.5 | 73.17 | 36.58 | 21.29 | 28.88
2031 | 1 | 0.5 | 73.17 | 36.58 | 19.90 | 28.04
2032 | 1 | 0.5 | 73.17 | 36.58 | 18.60 | 27.22
Total |  |  |  | 365.83 | 256.94 | 312.06
Annualized |  |  |  |  | 36.58 | 36.58
* Note: Components may not add to the totals due to rounding.

Summary of Total Net Costs

To foster transparency, the Coast Guard has decided to summarize total net costs by each baseline Pre-Guidance and No Action. Table 16 accounts for net private costs to industry and the associations for our Pre-Guidance baseline. For the Pre-Guidance period of analysis (2018-2032), we estimate the net private cost to industry to be ($720,755.13) discounted to 7 percent and ($56,422.19) annualized as summarized in table 16.

Table 16—Net Private Costs to Industry
[Pre-guidance; 2022 dollars]
Year | Individual training plans for apprentice pilots | Semi-annual performance evaluation reports for apprentice pilots | Removing monthly availability reports | Disputes | Submission of medical certificates | Total net private costs | 7-Percent | 3-Percent
| [A] | [B] | [C] | [D] | [E] | [F = SUM(A:E)] |  |
2018 | $585.33 | $8,779.91 | $0.00 | $0.00 | $373.15 | $9,738.38 | $12,765.03 | $10,960.64
2019 | 731.66 | 7,901.92 | 0.00 | 0.00 | 329.25 | 8,962.82 | 10,979.85 | 9,793.92
2020 | 731.66 | 9,657.90 | 0.00 | 0.00 | 241.45 | 10,631.01 | 12,171.44 | 11,278.44
2021 | 439.00 | 3,950.96 | 0.00 | 0.00 | 329.25 | 4,719.20 | 5,049.55 | 4,860.78
2022 | 877.99 | 7,901.92 | 0.00 | 0.00 | 329.25 | 9,109.16 | 9,109.16 | 9,109.16
2023 | 877.99 | 7,901.92 | (118,894.61) | 36.58 | 329.25 | (109,748.87) | (102,569.04) | (106,552.30)
2024 | 877.99 | 7,901.92 | (118,894.61) | 36.58 | 329.25 | (109,748.87) | (95,858.91) | (103,448.84)
2025 | 877.99 | 7,901.92 | (118,894.61) | 36.58 | 329.25 | (109,748.87) | (89,587.77) | (100,435.76)
2026 | 877.99 | 7,901.92 | (118,894.61) | 36.58 | 329.25 | (109,748.87) | (83,726.89) | (97,510.45)
2027 | 877.99 | 7,901.92 | (118,894.61) | 36.58 | 329.25 | (109,748.87) | (78,249.43) | (94,670.34)
2028 | 877.99 | 7,901.92 | (118,894.61) | 36.58 | 329.25 | (109,748.87) | (73,130.31) | (91,912.95)
2029 | 877.99 | 7,901.92 | (118,894.61) | 36.58 | 329.25 | (109,748.87) | (68,346.08) | (89,235.88)
2030 | 877.99 | 7,901.92 | (118,894.61) | 36.58 | 329.25 | (109,748.87) | (63,874.84) | (86,636.77)
2031 | 877.99 | 7,901.92 | (118,894.61) | 36.58 | 329.25 | (109,748.87) | (59,696.11) | (84,113.37)
2032 | 877.99 | 7,901.92 | (118,894.61) | 36.58 | 329.25 | (109,748.87) | (55,790.76) | (81,663.47)
Total |  |  |  |  |  | (1,054,328.14) | (720,755.13) | (890,177.21)
Annualized |  |  |  |  |  |  | (56,422.19) | (64,322.24)
* Note: Components may not add to the totals due to rounding.

Table 17 accounts for net costs to government for our Pre-Guidance baseline. For the Pre-Guidance period of analysis (2018-2032), we estimate the net cost to government to be $12,540.65 discounted to 7 percent and $981.71 annualized.

Table 17—Net Costs to Government
[Pre-guidance; 2022 dollars]
Year | Individual training plans for apprentice pilots | Semi-annual performance evaluation reports for apprentice pilots | Total net government cost | 7-Percent | 3-Percent
| [A] | [B] | [C = A + B] |  |
2018 | $227.89 | $759.64 | $987.53 | $1,294.45 | $1,111.47
2019 | 284.86 | 683.67 | 968.54 | 1,186.50 | 1,058.34
2020 | 284.86 | 835.60 | 1,120.46 | 1,282.82 | 1,188.70
2021 | 170.92 | 341.84 | 512.75 | 548.65 | 528.14
2022 | 341.84 | 683.67 | 1,025.51 | 1,025.51 | 1,025.51
2023 | 341.84 | 683.67 | 1,025.51 | 958.42 | 995.64
2024 | 341.84 | 683.67 | 1,025.51 | 895.72 | 966.64
2025 | 341.84 | 683.67 | 1,025.51 | 837.12 | 938.49
2026 | 341.84 | 683.67 | 1,025.51 | 782.36 | 911.15
2027 | 341.84 | 683.67 | 1,025.51 | 731.17 | 884.61
2028 | 341.84 | 683.67 | 1,025.51 | 683.34 | 858.85
2029 | 341.84 | 683.67 | 1,025.51 | 638.63 | 833.83
2030 | 341.84 | 683.67 | 1,025.51 | 596.85 | 809.55
2031 | 341.84 | 683.67 | 1,025.51 | 557.81 | 785.97
2032 | 341.84 | 683.67 | 1,025.51 | 521.32 | 763.07
Total |  |  | 14,869.87 | 12,540.65 | 13,659.95
Annualized |  |  |  | 981.71 | 987.04
* Note: Components may not add to the totals due to rounding.

By aggregating values from table 16 and table 17, the Coast Guard estimates the total net costs associated with our Pre-Guidance baseline. For the Pre-Guidance period of analysis (2018-2032), we estimate the total net costs to be ($708,214.47) discounted to 7 percent and ($55,440.48) annualized as summarized in table 18.

Table 18—Total Net Costs
[Pre-guidance; 2022 dollars]
Year | Total net private costs | Total net government costs | Total net annual costs | 7-Percent | 3-Percent
| [A] | [B] | [C = A + B] |  |
2018 | 9,738.38 | 987.53 | 10,725.91 | 14,059.48 | 12,072.11
2019 | 8,962.82 | 968.54 | 9,931.36 | 12,166.34 | 10,852.27
2020 | 10,631.01 | 1,120.46 | 11,751.47 | 13,454.26 | 12,467.13
2021 | 4,719.20 | 512.75 | 5,231.96 | 5,598.19 | 5,388.91
2022 | 9,109.16 | 1,025.51 | 10,134.66 | 10,134.66 | 10,134.66
2023 | (109,748.87) | 1,025.51 | (108,723.36) | (101,610.62) | (105,556.66)
2024 | (109,748.87) | 1,025.51 | (108,723.36) | (94,963.20) | (102,482.20)
2025 | (109,748.87) | 1,025.51 | (108,723.36) | (88,750.65) | (99,497.28)
2026 | (109,748.87) | 1,025.51 | (108,723.36) | (82,944.53) | (96,599.30)
2027 | (109,748.87) | 1,025.51 | (108,723.36) | (77,518.26) | (93,785.73)
2028 | (109,748.87) | 1,025.51 | (108,723.36) | (72,446.97) | (91,054.11)
2029 | (109,748.87) | 1,025.51 | (108,723.36) | (67,707.45) | (88,402.04)
2030 | (109,748.87) | 1,025.51 | (108,723.36) | (63,277.99) | (85,827.23)
2031 | (109,748.87) | 1,025.51 | (108,723.36) | (59,138.31) | (83,327.40)
2032 | (109,748.87) | 1,025.51 | (108,723.36) | (55,269.44) | (80,900.39)
Total |  |  | (1,039,458.28) | (708,214.47) | (876,517.26)
Annualized |  |  |  | (55,440.48) | (83,014.78)
* Note—Components may not add to the totals due to rounding.

Now, we will repeat this process but for costs relative to our No Action baseline. Table 19 accounts for net private costs to industry and the pilotage associations relative to our No Action baseline. For the No Action period of analysis (2023-2032), we estimate the net private cost to industry to be ($834,809.05) discounted to 7 percent and ($118,858.03) annualized as summarized in table 19.

Table 19—Net Private Costs to Industry
[No action; 2022 dollars]
Year | Removing monthly availability reports | Disputes | Net private cost | 7-Percent | 3-Percent
| [A] | [B] | [C = A + B] |  |
2023 | ($118,894.61) | 36.58 | ($118,858.03) | ($111,082.27) | ($115,396.14)
2024 | (118,894.61) | 36.58 | (118,858.03) | (103,815.20) | (112,035.09)
2025 | (118,894.61) | 36.58 | (118,858.03) | (97,023.56) | (108,771.93)
2026 | (118,894.61) | 36.58 | (118,858.03) | (90,676.22) | (105,603.82)
2027 | (118,894.61) | 36.58 | (118,858.03) | (84,744.13) | (102,527.98)
2028 | (118,894.61) | 36.58 | (118,858.03) | (79,200.12) | (99,541.73)
2029 | (118,894.61) | 36.58 | (118,858.03) | (74,018.81) | (96,642.45)
2030 | (118,894.61) | 36.58 | (118,858.03) | (69,176.45) | (93,827.62)
2031 | (118,894.61) | 36.58 | (118,858.03) | (64,650.89) | (91,094.78)
2032 | (118,894.61) | 36.58 | (118,858.03) | (60,421.39) | (88,441.54)
Total |  |  | (1,188,580.28) | (834,809.05) | (1,013,883.09)
Annualized |  |  |  | (118,858.03) | (118,858.03)
* Note: Components may not add to the totals due to rounding.

Note that there are no costs to government relative to the No Action baseline, as costs associated with government review of both individual training plans and semiannual performance evaluation reports stem from 2018 informal guidance. Therefore, for the No Action period of analysis (2023-2032), we estimate the total net cost to be ($834,809.05) discounted to 7 percent and ($118,858.03) annualized as summarized in table 20.

Table 20—Total Net Costs
[No action; 2022 dollars]
Year | Net private costs | Net government costs | Total net annual costs | 7-Percent | 3-Percent
| [A] | [B] | [C = A + B] |  |
2023 | (118,858.03) | 0.00 | (118,858.03) | (111,082.27) | (115,396.14)
2024 | (118,858.03) | 0.00 | (118,858.03) | (103,815.20) | (112,035.09)
2025 | (118,858.03) | 0.00 | (118,858.03) | (97,023.56) | (108,771.93)
2026 | (118,858.03) | 0.00 | (118,858.03) | (90,676.22) | (105,603.82)
2027 | (118,858.03) | 0.00 | (118,858.03) | (84,744.13) | (102,527.98)
2028 | (118,858.03) | 0.00 | (118,858.03) | (79,200.12) | (99,541.73)
2029 | (118,858.03) | 0.00 | (118,858.03) | (74,018.81) | (96,642.45)
2030 | (118,858.03) | 0.00 | (118,858.03) | (69,176.45) | (93,827.62)
2031 | (118,858.03) | 0.00 | (118,858.03) | (64,650.89) | (91,094.78)
2032 | (118,858.03) | 0.00 | (118,858.03) | (60,421.39) | (88,441.54)
Total |  |  | (1,188,580.28) | (834,809.05) | (1,013,883.09)
Annualized |  |  |  | (118,858.03) | (118,858.03)
* Note: Components may not add to the totals due to rounding

Table 21 gives a summary of the total net costs by baseline. The figures shown for each baseline are in 2022 dollars and are discounted at 7-percent.

Table 21—Summary of Net Costs by Baseline
[2022 dollars]
| Pre-guidance baseline (2018-2032; discounted 7-percent) | No action baseline (2023-2032; discounted 7-percent)
Net Private Costs to Industry | Net Costs to Industry: ($720,755.13) Annualized Net Costs to Industry: ($56,422.19) | Net Costs to Industry: ($834,809.05). Annualized Net Costs to Industry: ($118,858.03).
Net Costs to Government | Net Costs to Government: $12,540.65 Annualized Net Costs to Government: $981.71 | Net Costs to Government: $0.00 Annualized Net Costs to Government: $0.00.
Total Net Costs | Total Net Costs: ($708,214.47) Annualized Net Costs: ($55,440.48) | Total Net Costs: ($834,809.05). Annualized Net Costs: ($118.858.03).
* Note: Components may not add to the totals due to rounding.

Benefits

The Coast Guard also considered the benefits of this proposed rule relative to both the Pre-Guidance and No Action baselines. The Pre-Guidance baseline refers to the state of the world prior to any 2018 informal guidance. This baseline captures provisions from both the 2018 informal guidance as well as the proposed rulemaking. Therefore, the Pre-Guidance period of analysis is 2018-2032. The No Action baseline refers to a world absent the proposed rulemaking. When referring to this baseline, we only measure the impact of new provisions stemming directly from the proposed rulemaking, relative to the current state of the world. The No Action baseline period of analysis is 2023-2032. For both baselines, the benefits are solely qualitative.

Benefits: Pre-Guidance Baseline

There are qualitative benefits associated with both the 2018 informal guidance as well as this proposed rulemaking. The overarching benefit is codifying current industry practices to foster transparency between Coast Guard regulations and the U.S. pilot associations. Many changes outlined in this rulemaking are meant to improve understanding by clarifying current CFR text or creating new regulatory text that outlines existing practices. This is especially true of the numerous administrative changes that result in no cost (outlined in table 5). Additionally, this rulemaking codifies and modifies some practices that predate 2018 guidance, to clarify the pilotage terms and practices used by the Coast Guard and U.S. pilot association operations. The Coast Guard outlines the qualitative benefits for items that have associated costs in our Pre-Guidance baseline.

Individual Training Plans

Prior to 2018, associations used the same template plan for the entire district, rather than individualizing plans. Individualized training plans better ensure that Apprentice Pilots are gaining experience in all relevant transit areas, when compared to the prior template plans. This improves safety for the pilots and supports pilots during the training program by ensuring that Apprentice Pilots are qualified for Full Registration at the end of their training.

Semi-Annual Performance Evaluation Reports

Requiring the associations to submit Semi-annual Performance Evaluation Reports allows the Coast Guard and the Director's office to better track the progression of the apprentice through the training program. The reports show (1) if an apprentice is meeting expectations and (2) if an apprentice is ultimately a good fit for the pilotage program. Where an apprentice does not meet these two conditions, reports help the Director more quickly determine if further training or dismissal from training is appropriate.

Removing Monthly Availability Reports

Often availability reports do not communicate meaningful information because in practice pilots are listed as always available if they need to be called in. Eliminating this requirement will benefit the pilots and apprentices through saved time, as shown in the discounted cost savings of ($835,065.99) over the 2018-2032 Pre-Guidance time horizon.

Disputes

By changing “in writing” to “official correspondence” in § 401.431(b) for disputes, the Coast Guard provides more flexibility in how a dispute can be formally submitted. The proposed revisions to the regulatory text more explicitly outline that the letter expressing the dispute must include the vessel name, date of service, and reference number for the invoice/bill, the exact amount of dispute, regulatory citation for dispute, and the requested resolution. Outlining these requirements should result in a more standardized, higher-quality submission that expedites the Director's decision on the dispute leading to a quicker resolution for the submitter of the dispute.

Submission of Medical Certificates

The proposed rulemaking aligns medical and vision requirements for Apprentice Pilots, United States Registered Pilots, and Temporary Registered pilots with the existing MMC medical certification standards. This proposed change was a recommendation from the Great Lakes Pilotage Advisory Committee in 2018. Therefore, this practice began in 2018. Alignment of these requirements would prevent confusion and avoid delays when submitting and processing an apprentice pilot's application.

The Coast Guard recognizes that, per Executive Order 13563,³⁶ agencies are called to quantify anticipated benefits “as accurately as possible” but may discuss benefits qualitatively when determining a numerical metric is not possible. Note that the proposed rulemaking does not inhibit the ability for industry, associations, or the Coast Guard to reap benefits that stem from prior guidance. The Coast Guard welcomes comments on any additional ways to evaluate these benefits.

³⁶ To access Executive Order 13573 (“Improving Regulation and Regulatory Review”), please see https://www.federalregister.gov/documents/2011/01/21/2011-1385/improving-regulation-and-regulatory-review.

Benefits: No Action Baseline

The No Action baseline highlights benefits that stem solely from the proposed rulemaking. Therefore, any benefits that are solely attributed to prior guidance will not be highlighted here. The No Action baseline refers to a world absent the proposed rulemaking. Since many provisions of this proposed rule codify industry practices that arose from previous guidance, the qualitative benefits of the No Action baseline are very similar to those of the Pre-Guidance baseline.

Removing Monthly Availability Reports

Often, availability reports do not communicate meaningful information because in practice pilots are listed as always available if they need to be called in. Eliminating this requirement would benefit the pilots and apprentices through saved time, as shown in the discounted cost savings of ($835,065.99) over the 2023-2032 No Action time horizon.

Disputes

By changing “in writing” to “official correspondence” in § 401.431(b) for disputes, the Coast Guard would provide more flexibility in how a dispute can be formally submitted. The proposed revisions to the regulatory text more explicitly outline that the letter expressing the dispute must include the vessel name, date of service, and reference number for the invoice/bill, the exact amount of dispute, regulatory citation for dispute, and the requested resolution. Outlining these requirements should result in a more standardized, higher-quality submission that expedites the Director's decision on the dispute leading to a quicker resolution for the submitter of the dispute.

The Coast Guard recognizes that, per Executive Order 13563,³⁷ agencies are called to quantify anticipated benefits “as accurately as possible” but may discuss benefits qualitatively when determining a numerical metric is not possible. Note that the proposed rulemaking does not inhibit the ability for industry, associations, or The Coast Guard to reap benefits that stem from prior guidance. The Coast Guard welcomes comments on any additional ways to evaluate these benefits.

³⁷ Ibid.

Alternatives Considered

Alternative 1. The primary alternative to this rulemaking would be to take no action and not alter any of the processes for issuing Limited Registration. The Coast Guard rejected this alternative because it would leave outdated text in the CFR and perpetuate confusion as industry practices continue to evolve past what is detailed in current regulations.

Alternative 2. The second alternative would require Apprentice Pilots to complete a test before receiving their Limited Registration. Currently, tests are only administered when a mariner tests to receive Full Registration, and tests are administered when test administrators are already in the area and can conduct a test for multiple Apprentice Pilots at once. Tests are administrated by the Great Lakes Pilotage Office at the nearest Coast Guard Regional Exam Center (REC) to the Apprentice Pilot, usually REC Toledo. The exam is administered individually to each Apprentice Pilot, and the answer sheet is returned to the Great Lakes Pilotage Office for grading.

Adding tests for each Limited Registration would require the Coast Guard to generate a test for each area in which a Limited Registration is requested, because Limited Registrations are issued for specific geographic areas. The Coast Guard would then need to administer the generated test, requiring travel for both the test administrator and the test taker. The Coast Guard estimates there are an average of 17 requests for Limited Registration annually. Each request would require 1.5 to 4 hours of testing for both the test taker and the test administrator, with an average of 2 hours for each test.³⁸ For both parties, the Coast Guard has decided to use the conservative estimate of 4 hours for the testing burden. In addition, both the test taker and test administrator must travel, which is an average of 2 hours for the test taker and 6 hours for the test administrator.³⁹ The Coast Guard estimates an annual cost of $7,462.92 for test takers, using a loaded wage of $73.17 for test takers and assuming 4 hours for testing, 2 hours for travel, and 17 tests annually.⁴⁰ For test administration, the Coast Guard estimates an annual cost of $19,370.71, using a loaded wage of $113.95 for test administrators and assuming 4 hours for testing, 6 hours for travel, and 17 tests annually.⁴¹

³⁸ Phone communication with Marine Transportation Specialist of the Great Lakes Pilotage Division.

³⁹ Ibid.

⁴⁰ The base wage of captains, mates, and pilots of water vessels is $50.09 as of May 2022, per https://www.bls.gov/oes/2022/may/oes535021.htm. The load factor of 1.46 is obtained by dividing total hourly compensation for Transportation and Material Moving Occupations of $33.07 by hourly wages (CMU2010000520000D) and salaries of $22.64 (CMU2020000520000D). Access these series by searching the series number at https://beta.bls.gov/dataQuery/search. Last accessed August 2023.

⁴¹ The loaded wage of $113.95 (rounded) comes from the base hourly wage of $68.55 for a GS-14 Step 5 from the DC region multiplied by a load factor of 1.66, per https://www.opm.gov/policy-data-oversight/pay-leave/salaries-wages/salary-tables/pdf/2022/DCB_h.pdf. To calculate the load factor of 1.66, we divide total hourly compensation for workers with master's degrees as shown in table 4, $74.80, by the average hourly wage for workers with master's degrees as shown in table 2, or $45.00. $74.80 ÷ $45.00 = 1.6622. See “Comparing the Compensation of Federal and Private Sector Employees, 2011-2015,” https://www.cbo.gov/system/files/115th-congress-2017-2018/reports/52637-federalprivatepay.pdf.

The Coast Guard rejected this alternative because it would increase the burden upon the pilots and the pilot associations without a commensurate increase in safety. The Coast Guard believes the documentation currently received from the pilots and the associations is adequate to determine if an Apprentice Pilot should be granted a Limited Registration.

Alternative 3. The Coast Guard also considered removing the requirement for Apprentice Pilots to submit Performance Evaluation Reports semi-annually (for example, once at the end of the shipping season and once mid-season) to obtain a Limited Registration. Instead, the Coast Guard would only require Apprentice Pilots to submit a Performance Evaluation Report annually (i.e., only once at the end of the shipping season). The Coast Guard rejected this option because we do not believe that annual reporting alone would allow us to accurately evaluate the performance of an Apprentice Pilot, which could potentially contribute to a decrease in safety. The Coast Guard receives annual evaluations once a year, by January 15th. If an Apprentice Pilot requested a Limited Registration that required evidence of trips completed that were not included in the most recent performance evaluation, then the Coast Guard could not issue the limited endorsement. Using Semi-annual Performance Evaluation Reports allows greater flexibility in issuing Limited Registrations, as the Semi-annual Performance Evaluation Reports are more likely to have relevant and timely information to evaluate qualifications for Limited Registration. The semi-annual evaluations also allow for greater tailoring of training resulting in safer operations because performance in a particular area or on a particular route can be evaluated while there is time to increase focus on that area for the remaining trips to be completed for the season.

Alternative 4. Preferred Alternative. The preferred alternative is the one put forth in this proposed rulemaking. The Coast Guard selected this alternative because it would be less costly than the other alternatives, give the Coast Guard more relevant and timely information to evaluate qualifications for Limited Registration, and update the CFR to remove outdated references.

B. Small Entities

Under the Regulatory Flexibility Act, 5 U.S.C. 601-612, we have considered whether this proposed rule would have a significant economic impact on a substantial number of small entities. The term “small entities” comprises small businesses, not-for-profit organizations that are independently owned and operated and are not dominant in their fields, and governmental jurisdictions with populations of less than 50,000.

The affected population for this proposed rule includes 51 U.S. Great Lakes pilots, 9 Apprentice Pilots, and 3 Temporary Registered Pilots, all represented by 3 pilot associations.

The three associations are the St. Lawrence Seaway Pilots Association representing District One, the Lakes Pilot Association representing District Two, and the Western Great Lakes Pilots Association representing District Three. Together, the associations are jointly referred to as the Lake Carriers' Association. All these associations classify under the North American Industry Classification System (NAICS) Code 81391002 for Business Associations.⁴² The size standard for Business Associations of $8 million was current during the development of the 2023 annual ratemaking and utilized in the final rule (88 FR 12226).⁴³ Based on revenue figures reported as part of the 2023 annual ratemaking, none of the associations have revenue under $8 million. To further analyze the impacts these associations may face, the Coast Guard is parsing this out based on the two baselines in the regulatory analysis. The figures referenced are discounted using a 7-percent discount rate.

⁴² NAICS codes were found using ReferenceUSA for the Lakes Pilot Association and the Lake Carrier's Association. Coast Guard assumes that the code for the joint association is representative of all associations.

⁴³ https://www.federalregister.gov/documents/2023/02/27/2023-03212/great-lakes-pilotage-rates-2023-annual-ratemaking-and-review-of-methodology.

Under the Pre-Guidance baseline, the annualized cost to industry from the proposed rulemaking amounts to $8,948.49. This is not more than 1 percent of revenue for any of the associations and would be offset by the annualized cost savings under the same baseline of ($65,370.68). Therefore, the annualized net cost to industry is ($56,422.19) for the Pre-Guidance baseline's period of analysis.

Relative to our No Action baseline, the annualized cost to industry from the proposed rulemaking amounts to $36.58. This is not more than 1 percent of revenue for any of the associations and would be offset by the annualized cost savings under the same baseline of ($118,894.61). Therefore, the annualized net cost to industry is ($118,858.03) for costs relative to the No Action baseline's period of analysis.

Therefore, the Coast Guard certifies under 5 U.S.C. 605(b) that this proposed rule would not have a significant economic impact on a substantial number of small entities. If you think that your business, organization, or governmental jurisdiction qualifies as a small entity and that this proposed rule would have a significant economic impact on it, please submit a comment to the docket at the address listed in the ADDRESSES section of this preamble. In your comment, explain why you think it qualifies and how and to what degree this proposed rule would economically affect it.

C. Assistance for Small Entities

Under section 213(a) of the Small Business Regulatory Enforcement Fairness Act of 1996, Public Law 104-121, we want to assist small entities in understanding this proposed rule so that they can better evaluate its effects on them and participate in the rulemaking. If the proposed rule would affect your small business, organization, or governmental jurisdiction and you have questions concerning its provisions or options for compliance, please call or email the person in the FOR FURTHER INFORMATION CONTACT section of this proposed rule. The Coast Guard will not retaliate against small entities that question or complain about this proposed rule or any policy or action of the Coast Guard.

D. Collection of Information

This proposed rule would call for a revision to an existing collection of information under the Paperwork Reduction Act of 1995, 44 U.S.C. 3501-3520. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering, and maintaining the data needed, and completing and reviewing the collection.

Title: Great Lakes Pilotage.

OMB Control Number: 1625-0086.

Summary of the Collection of Information: The Director requires that pilot associations provide data relating to bridge hours; vessel delay, detention, cancellation, and movage; pilot travel; revenues; and pilot availability. This proposed rule adds additional collections which includes the collection of individual training plans and Semi-annual Performance Evaluation Reports, codifies responses by Apprentice Pilots and Temporary Registered Pilots that were previously not detailed, and codifies disputes and dispute appeals on trip charges.

Need for Information: Pursuant to 46 CFR part 404, the Director of the Great Lakes Pilotage is required to set pilotage rates on the Great Lakes. In meeting this requirement, the Director requires that pilot associations provide data relating to bridge hours; vessel delay, detention, cancellation, and movage; pilot travel; revenues; and pilot availability. The new information proposed to be collected in this rule assists in estimating the number of pilots that may be available in a season by accurately tracking their progress through training (training plans and performance evaluations).

Proposed Use of Information: The Director of Great Lakes Pilotage uses the data stored in the Great Lakes Pilot Management System and on Form CG-4509 to carry out operational and ratemaking oversight of pilotage activities on the Great Lakes.

Description of the Respondents: The respondents are mariners and pilots operating on the Great Lakes, and employees of the pilot associations. The population of mariners and pilots varies year to year. There are three pilot associations, representing each of the three pilotage districts: St Lawrence Seaway Pilots Association, Lakes Pilot Association, and Western Great Lakes Pilots Association, with the collective Lake Carrier's Association representing the three associations together.

Number of Respondents: This proposed rule would increase the number of respondents by 9, comprising 6 Apprentice Pilots and 3 Temporary Registered Pilots.

Frequency of Response: Individualized training plans would be submitted annually. Semi-annual Performance Evaluation Reports would be submitted twice annually with follow-up as needed. Applicant trainee applications would be submitted as needed,⁴⁴ with 8 submitted annually on average. Written marine accidents would be submitted as necessary,⁴⁵ with 3 submitted annually on average. Disputes and dispute appeals ⁴⁶ would be submitted as necessary, with 1 anticipated annually per SME guidance.

⁴⁴ Applicant Trainees have already been submitting these, but the regulatory text did not reference Applicant Trainees specifically. These submissions pre-date any guidance issued in 2018 and are not a result of this proposed rulemaking. The clarifying text proposed in this rulemaking (acts to codify a long-standing practice. For these reasons, this line item is only an information collection cost and not a regulatory cost present in the cost model.

⁴⁵ The submission requirement for written marine accident reports found in § 401.260 originated in 31 FR 9065 (July 1, 1966). Therefore, this is a longstanding requirement which was not previously captured in ICR 1625-0086. For this reason, this line item is only an information collection cost and not a regulatory cost present in the cost model. To access 31 FR 9065, see https://archives.federalregister.gov/issue_slice/1966/7/1/9063-9067.pdf. Note the while reports of marine casualties are generally accounted for in ICR 1625-0001 (“Report of Marine Casualty & Chemical Testing of Commercial Vessel Personnel”), a Coast Guard SME confirmed the scope of the marine accident reports provided to the Director differs from those in 1625-0001. To access ICR 1625-0001, see https://www.reginfo.gov/public/do/PRAViewICR?ref_nbr=202204-1625-009.

⁴⁶ Dispute appeals (found in 401.431(b)) originated in 29 FR 10467 (July 28, 1964). Therefore, this is a longstanding requirement which was not previously captured in ICR 1625-0086. For this reason, this line item is only an information collection cost and not a regulatory cost present in the cost model. To access 31 FR 9065, see https://archives.federalregister.gov/issue_slice/1964/7/28/10461-10468.pdf#page=7.

Burden of Response: Individualized training plans would take 2 hours to submit, for an increased annual burden of 12 hours. Semi-annual Performance Evaluation Reports would take 6 hours to submit, for an increased annual burden of 108 hours. The additional applications for the Applicant Trainees would take 30 minutes each to submit, for an increased annual burden of 4 hours. Written marine accident reports would take an hour to submit. for an increased annual burden of 3 hours. Disputes would take 1 hour to submit, with an increased annual burden of 3 hours. Dispute appeals would take thirty minutes, with an increased annual burden of 1.5 hours.

Estimate of Total Annual Burden: The total increase in burden from this proposed rule is 138 hours.

As required by 44 U.S.C. 3507(d), we will submit a copy of this proposed rule to OMB for its review of the collection of information.

We ask for public comment on the proposed collection of information to help us determine, among other things—

• How useful is the information;

• Whether the information can help us perform our functions better;

• How we can improve the quality, usefulness, and clarity of the information;

• Whether the information is readily available elsewhere;

• How accurate our estimate is of the burden of collection;

• How valid our methods are for determining the burden of collection; and

• How we can minimize the burden of collection.

If you submit comments on the collection of information, submit them to the docket where indicated under ADDRESSES.

You need not respond to a collection of information unless it displays a currently valid control number from OMB. Before the Coast Guard could enforce the collection of information requirements in this proposed rule, OMB would need to approve the Coast Guard's request to collect this information.

E. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis follows.

In 46 U.S.C. 9303, Congress directs the Coast Guard to regulate Great Lakes pilot applicants' standards of competency, Certificates of Registration, duration of validity of registration, and the conditions for service by United States Registered Pilots, including availability for service. These regulations are issued pursuant to that statute and is preemptive of State law as specified in 46 U.S.C. 9306. Under 46 U.S.C. 9306, a “State or political subdivision of a State may not regulate or impose any requirement on pilotage on the Great Lakes.” As a result, States or local governments are expressly prohibited from regulating within this category. Therefore, this proposed rule is consistent with the fundamental federalism principles and preemption requirements described in Executive Order 13132.

While it is well settled that States may not regulate in categories in which Congress intended the Coast Guard to be the sole source of a vessel's reporting obligations, the Coast Guard recognizes the key role that State and local governments may have in making regulatory determinations. See Locke v. United States, 529 U.S. 89, 115-16 (2000). Additionally, for rules with implications and preemptive effect, Executive Order 13132 specifically directs agencies to consult with State and local governments during the rulemaking process. If you believe this rule has implications for federalism under Executive Order 13132, please contact the person listed in the FOR FURTHER INFORMATION section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988, (Civil Justice Reform), to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. A preliminary Record of Environmental Consideration supporting this determination is available in the docket. For instructions on locating the docket, see the ADDRESSES section of this preamble.

This proposed rule would be categorically excluded under paragraphs A3, L54 and L56 of Appendix A, table 1 of DHS Instruction Manual 023-01-001-01, Rev. 1. Paragraph A3 pertains to the promulgation of rules, issuance of rulings or interpretations, and the development and publication of policies, orders, directives, notices, procedures, manuals, advisory circulars, and other guidance documents of the following nature:

(a) Those of a strictly administrative or procedural nature;

(b) Those that implement, without substantive change, statutory or regulatory requirements;

(c) Those that implement, without substantive change, procedures, manuals, and other guidance documents;

(d) Those that interpret or amend an existing regulation without changing its environmental effect;

(e) Technical guidance on safety and security matters; or

(f) Guidance for the preparation of security plans.

Paragraph L54 pertains to regulations which are editorial or procedural. Paragraph L56 pertains to regulations concerning the training, qualifying, licensing, and disciplining of maritime personnel.

This proposed rule involves the potential amendment of certain Great Lakes Pilotage regulatory requirements to align them with current Coast Guard and U.S. pilot association operations and related pilotage practices. In particular, this proposed rule would add or amend definitions for pertinent terms in order to clarify the different phases of training and registrations for pilots who work on the Great Lakes. All of these changes are consistent with the Coast Guard's maritime safety missions. We seek any comments or information that may lead to the discovery of a significant environmental impact from this proposed rule.

List of Subjects

46 CFR Part 401

Administrative practice and procedure, Great Lakes, Navigation (water), Penalties, Reporting and recordkeeping requirements, Seamen.

46 CFR Part 402

Great Lakes, Navigation (water), Seamen.

For the reasons discussed in the preamble, the Coast Guard is proposing to amend 46 CFR parts 401 and 402 as follows:

Title 46—Shipping

PART 401—GREAT LAKES PILOTAGE REGULATIONS

1. The authority citation for part 401 is revised to read as follows:

Authority: 46 U.S.C. 2103, 2104(a), 6101, 7701, 8105, 9303, 9304; DHS Delegation No. 00170.1, Revision No. 01.3, paragraph (II)(92)(a), (92)(d), (92)(e), (92)(f).

§ 401.100 [Amended]

2. In § 401.100, remove the words “pools by voluntary associations of United States registered pilots and the establishment of rates, charges, and other conditions or terms for services performed by registered pilots” and add, in their place, the words “pilotage pools by voluntary associations of United States Registered Pilots and the establishment of rates, charges, and other conditions or terms for services performed by United States Registered Pilots”.

3. Revise § 401.110 to read as follows:

§ 401.110 Definitions.

As used in this chapter:

Act means the Great Lakes Pilotage Act of 1960, as amended (Pub. L. 86-555, 74 Stat. 259-262; 46 U.S.C. 216 through 216i).

Applicant means a person who has submitted a Form CG-4509 to the Director of Great Lakes Pilotage (“Director”), to be considered for placement in an approved U.S. Great Lakes pilot training and qualification program at one of the established pilotage pools.

Applicant Trainee means a person approved by the Director who is participating in an approved U.S. Great Lakes pilot training and qualification program. This individual meets the minimum requirements listed in 46 CFR 401.214 but does not have the necessary service or experience on their MMC in the Great Lakes to qualify as an Apprentice Pilot. The Applicant Trainee is not eligible for a Limited or Temporary Registration.

Apprentice Pilot means a person approved by the Director who is participating in an approved U.S. Great Lakes pilot training and qualification program. This individual meets all the minimum requirements listed in 46 CFR 401.211.

Association means any organization that holds a Certificate of Authorization issued by the Director to operate a pilotage pool on the Great Lakes.

Canadian Registered Pilot means a person, other than a member of the regular complement of a vessel, who holds an appropriate Canadian license issued by an agency of Canada, and is registered by a designated agency of Canada on substantially the same basis as registration under the provisions of Subpart B of this part.

Chemical test means a scientifically recognized test that analyzes an individual's breath, blood, urine, saliva, bodily fluids, or tissues for evidence of dangerous drug or alcohol use.

Commandant means Commandant (CCG), Attn: Commandant, U.S. Coast Guard Stop 7000, 2703 Martin Luther King Jr. Avenue SE, Washington, DC 20593-7000.

Comparable experience means knowledge and previous performance that is similar to the knowledge and technical skills obtained by serving as an officer on vessels of at least 4,000 gross tonnage. Training and experience while participating in a pilot training program of an authorized pilot organization is considered equivalent on a day for day basis to experience as an officer on a vessel. The training program of the authorized pilot organization must, however, include regularly scheduled trips on vessels of at least 4,000 gross tonnage or over in the company of a United States Registered Pilot.

Director means Director, Great Lakes Pilotage. Communications with the Director may be sent to the following address: Director, Great Lakes Pilotage, U.S. Coast Guard Stop 7509, 2703 Martin Luther King Jr. Avenue SE, Washington, DC 20593-7509.

Full Registration is the issuance of a Certificate of Registration, by the Director, to an Apprentice Pilot who meets all the requirements in 46 CFR 401.210 and 401.211 and completes all the requirements in 46 CFR 402.210 and 402.220 and so becomes a United States Registered Pilot.

Great Lakes means Lakes Superior, Michigan, Huron, Erie, and Ontario, their connecting and tributary waters, the St. Lawrence River as far east as Saint Regis, and adjacent port areas.

Gross Tonnage or GT means the gross tonnage measurement of the vessel under 46 U.S.C. chapter 143, Convention Measurement.

Individual Training Plan is an outline of specific requirements reviewed and approved by the Director for an Apprentice Pilot, including but not limited to the length of time to complete the training, the minimum number of round trips required, the association's determination of proficiency, the officer endorsement on the MMC, and the Apprentice Pilot's pilotage experience on the Great Lakes. The plan communicates the qualifications and demonstrates skills the mariners must complete to meet the proficiency requirements for which the mariner is training.

Limited Registration is an authorization issued by the Director, upon the request of the respective pilot association, to an Apprentice Pilot to provide pilotage service without direct supervision from a United States Registered Pilot or Temporary Registered Pilot in a specific area or waterway.

Marine accident is any of the following that occurs while a U.S. Registered Pilot, Apprentice Pilot, Apprentice Pilot with Limited Registration, or Temporary Registration Pilot is providing pilotage services in U.S. or Canadian waters:

(a) Any allision or collision;

(b) Any grounding;

(c) A loss of main propulsion, primary steering, or any associated component or control system that, due to its duration or other circumstance, significantly impacts the maneuverability of the vessel;

(d) An occurrence, directly related to the provision of pilotage services, involving significant harm to the environment as defined in 46 CFR 4.03-65 (including Canadian waters); or

(e) Any other incident, directly related to the provision of pilotage services, causing property damage in excess of $75,000 (including the cost of labor and material to restore the property to its condition before the incident, but excluding the cost of such things as salvage, cleaning, gas-freeing, drydocking, or demurrage).

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

Minimum number of round trips is the fewest number of successful round trips an Apprentice Pilot must perform under the direct supervision of a fully registered United States Registered Pilot or Temporary Registered Pilot, according to their individual training plan. 46 CFR 402.220 contains the minimum number of round trips for certain officer endorsements.

Officer endorsement means an annotation on an MMC that allows a mariner to serve in the capacities listed in 46 CFR 10.109.

Person means an individual, pilot, partnership, corporation, association, voluntary association, authorized pilotage pool, or public or private organization, other than a government agency.

Pilotage pool means an organization holding a Certificate of Authorization issued by the Director to provide pilotage services.

Rate computation definitions to determine Weighting Factors:

(a) Length means the distance between the forward and after extremities of the ship.

(b) Breadth means the maximum breadth to the outside of the shell plating of the ship.

(c) Depth means the vertical distance at amidships from the top of the keel plate to the uppermost continuous deck, fore and aft, and which extends to the sides of the ship. The continuity of a deck is not considered to be affected by the existence of tonnage openings, engine spaces, or a step in the deck.

Round trip means providing pilotage service, in both directions, from one change point to another change point, or inbound and outbound in a port designated by an authorized pilotage pool.

Secretary means the Secretary of the department in which the Coast Guard is operating.

Semi-annual Performance Evaluation Report is an assessment performed on an Apprentice Pilot twice a year, by the association, to report the Apprentice Pilot's progress in the approved U.S. Great Lakes pilot training and qualification program at the established pilotage pool.

Temporary Registered Pilot means a person who is issued a Temporary Registration by the Director in accordance with 46 CFR 401.222. A Temporary Registered Pilot holds a valid MMC, meets the requirements of § 401.222, has previously held a Full Registration, is requested to provide pilotage services by the pilotage association, and has either:

(a) Reached the age of 70 and desires to continue providing pilotage services; or

(b) Retired from pilotage service and desires to provide pilotage services.

United States Registered Pilot or U.S. Registered Pilot means a person, other than a member of the regular complement of a vessel, who holds an MMC with an officer endorsement authorizing navigation on the Great Lakes and suitably endorsed for pilotage on areas and routes specified therein, issued under the authority of the provisions of Title 46 of the United States Code, and who also currently holds a Certificate of Registration ID card under the provisions of Subpart B of this part.

§ 401.120 [Amended]

4. Amend § 401.120 as follows:

a. In the first sentence, remove the word “shall” and add, in its place, the word “may”.

b. In the second sentence, remove the word “Arrangements” and add, in its place, the word “Understanding”.

5. Revise § 401.200 to read as follows:

§ 401.200 Application for registration.

An application for registration as a U.S. Registered Pilot must be made on Form CG-4509, which must be submitted via email to: GreatLakesPilotage@uscg.mil; or by physical mail to: Great Lakes Pilotage Office, 2703 Martin Luther King Jr. Ave. SE, Stop 7509, Washington, DC 20593-7509. This form may be obtained from the Director.

6. Amend § 401.210 as follows:

a. Revise the section heading and paragraph (a); and

b. In paragraph (b), remove the word “shall” and add, in its place, the word “will”.

The revisions read as follows:

§ 401.210 Requirements and qualifications for to be fully registered.

(a) No person may be fully registered as a United States Registered Pilot unless:

(1) The individual holds an MMC with an officer endorsement as a master, mate, or pilot, issued under the provisions of subpart B of 46 CFR part 11, and has acquired at least twenty-four months service as a deck officer or comparable experience on vessels or integrated tug and barge, of at least 4,000 gross tonnage, operating on the Great Lakes or oceans. Those applicants qualifying with other than Great Lakes service must have obtained at least 6 months of service as a deck officer or comparable experience on the Great Lakes. Those applicants qualifying with comparable experience must have served a minimum of twelve months as a deck officer under the authority of their MMC.

(2) The individual is a citizen of the United States.

(3) The individual is of good moral character and temperate habits.

(4) The individual is physically competent to perform the duties of a U.S. Registered Pilot and meets the applicable medical requirements and standards prescribed by the Commandant in subpart C of 46 CFR part 10.

(5) The individual has not reached the age of 70.

(6) The individual agrees to be available for service under the terms and conditions as may be approved or prescribed by the Commandant.

(7) The individual has complied with the requirements set forth in § 401.220(b) for Apprentice Pilots.

(8) The individual meets the chemical testing requirements as defined in 46 CFR part 16.

(9) The individual agrees to comply with all applicable provisions of this part and amendments thereto.

* * * * *

7. Revise § 401.211, including the section heading, to read as follows:

§ 401.211 Requirements for training of Apprentice Pilots and Limited Registration Authorization.

(a) The Director will determine the number of Apprentice Pilots required to be in training by each association authorized to form a pilotage pool in order to assure an adequate number of United States Registered Pilots.

(b) No Apprentice Pilot will be selected for training unless:

(1) The individual meets the requirements and qualifications set forth in paragraphs (a)(1) through (4), (6), (8), and (9) of § 401.210.

(2) The individual must not have reached the age of 60.

(3) The individual possesses a radar observer (unlimited) endorsement on their MMC in accordance with § 11.480.

(c) For purpose of determining whether an applicant meets the experience requirements contained in § 401.210(a)(1), not more than twelve months of “comparable experience” may be used in fulfilling the twenty-four-month experience requirement.

(d) The Director must approve the United States Registered Pilots or Temporary Registered Pilots designated by the authorized pilot organization to provide training to those pilots in training to be United States Registered Pilots.

(e) Persons desiring to be considered as an Apprentice Pilot must file with the Director a completed Application Form CG-4509 by email to: GreatLakesPilotage@uscg.mil; or by mail to: Great Lakes Pilotage Office, 2703 Martin Luther King Jr. Ave. SE, Mail Stop 7509, Washington, DC 20593-7509. Upon the request of the Director, the person desiring to be considered as an Apprentice Pilot must submit two full-face passport style photographs, signed on the photo, vertically, as close to the head as possible.

(f) Applicants meeting the minimum requirements of this section who are both selected by the association and approved by the Director will be issued a U.S. Coast Guard Apprentice Pilot Identification Card. Such Card is valid until such time as:

(1) The expiration of a term determined by the Director;

(2) The Apprentice Pilot is registered as a pilot under § 401.210;

(3) The Apprentice Pilot withdraws from the training program; or

(4) The card is ordered withdrawn by the Director.

(g) The Apprentice Pilot must have a Director-approved individual training plan. The Apprentice Pilot, along with the pilotage association, will record all their round trips, as per their individual training plan, and provide this information to the Director for review. Round trips completed as an Apprentice Pilot will count toward Full Registration.

(h) The appropriate pilot association must perform a Semi-annual Performance Evaluation Report on the Apprentice Pilot twice a year, to assess the Apprentice Pilot's progress in the approved U.S. Great Lakes pilot training and qualification program at the established pilotage pool. The evaluation must be submitted to the Director by August 15 and January 15 of each year. The report should provide a recommendation to the Director on whether to keep the Apprentice Pilot in the training program.

(i) The Apprentice Pilot must be enrolled in the association's chemical testing program. The chemical testing program must meet the requirements of 46 CFR part 16. For the purposes of this Part, the association is deemed to be the Sponsoring Organization.

(j) To facilitate the training of the Apprentice Pilot, the Director may authorize Limited Registration to the Apprentice Pilot, upon the request from the pilot association. The Apprentice Pilot obtains a Limited Registration by completing and recording the requirements set forth in § 401.220(b)(1). Limited Registration periods will not exceed 6 months before the need to request a renewal; the specific period is determined by the Director per 46 CFR 401.110(9). The Apprentice Pilot must maintain a favorable performance evaluation via their Semi-annual Performance Evaluation Reports and the Director must determine a need for the pilot. At any time, this authorization may be revoked at the discretion of the Director.

(k) An Apprentice Pilot may be eligible for a Certificate of Registration, after:

(1) The mariner completes an approved U.S. Great Lakes pilot training and qualification program in one of the Great Lakes' pilot associations;

(2) The appropriate pilot association gives the mariner a positive endorsement;

(3) The mariner passes the Director's exam; and

(4) The Director determines that the association needs an additional pilot.

8. Add new § 401.214 to read as follows:

§ 401.214 Training requirements for Applicant Trainees.

(a) The Director will determine the number of Applicant Trainees required to be in training by each association authorized to form a pilotage pool in order to assure an adequate number of United States Registered Pilots.

(b) No Applicant Trainee may be selected for training unless:

(1) The individual meets the requirements and qualifications set forth in paragraphs (a)(2) through (4), (6), (8), and (9) of § 401.210.

(2) The individual must not have reached the age of 60.

(3) The individual possesses a radar observer (unlimited) endorsement on their MMC in accordance with § 11.480.

(c) An individual with other than Great Lakes service must obtain at least 6 months of service as a credentialed officer, or comparable experience, on the Great Lakes with the pilot association in the District waters assigned before they are eligible to become an Apprentice Pilot. Round trips and related activities completed during this training phase will not count towards Full Registration.

(d) The Director must approve the United States Registered Pilots or Temporary Registered Pilots that are designated by the authorized pilot organization to provide training to those pilots that are in training to be United States Registered Pilots.

(e) Persons desiring to be considered as an Applicant Trainee must file with the Director a completed Application Form CG-4509 via email to: GreatLakesPilotage@uscg.mil or by mail to: Great Lakes Pilotage Office, 2703 Martin Luther King Jr. Ave. SE, Mail Stop 7509, Washington, DC 20593-7509. Upon the request of the Director, the person desiring to be considered as an Applicant Trainee must submit two full-face passport style photographs, signed on the photo, vertically, as close to the head as possible.

(f) Applicants must meet the pre-employment chemical testing requirements as defined in 46 CFR 16.210.

(g) Applicants meeting the minimum requirements of this section who are both selected by the association and approved by the Director will be issued a U.S. Coast Guard Applicant Trainee Identification Card. Such Card is valid until such time as:

(1) The expiration of a term determined by the Director;

(2) The Applicant Trainee is registered as an Apprentice Pilot under § 401.211;

(3) The Applicant Trainee withdraws from the training program; or

(4) The card is ordered withdrawn by the Director.

9. Amend § 401.220 as follows:

a. In the introductory text of paragraph (a), remove the word “shall” and add, in its place, the word “must”;

b. Revise paragraphs (b), (c), and (d); and

c. Remove paragraph (e).

The revisions read as follows:

§ 401.220 Registration of pilots.

* * * * *

(b) Registration of pilots must be made from among those Apprentice Pilots who have:

(1) Completed the minimum number of round trips prescribed by the Commandant over the waters for which application is made on oceangoing vessels, in company with a United States Registered Pilot or Temporary Registered Pilot, and in accordance with the Apprentice Pilot's approved individual training plan;

(2) Completed the approved course of instruction for Apprentice Pilots prescribed by the association authorized to establish the pilotage pool; and

(3) After completing the requirements in paragraphs (b)(1) and (2) of this section, satisfactorily completed a written examination prescribed by the Director, evidencing their knowledge and understanding of the Great Lakes Pilotage Act of 1960, Great Lakes Pilotage Regulations, Rules and Orders; the Memorandum of Understanding, Great Lakes Pilotage, between the United States and Canada; and other related matters including the working rules and operating procedures of the district, given at such time and place as the Director may designate within the pilotage district of the Apprentice Pilot.

(c) The pilot association authorized to establish a pilotage pool in which an Apprentice Pilot has qualified for registration under paragraph (b) of this section must submit to the Director in writing its recommendations together with its reasons for or against the registration of the Apprentice Pilot.

(d) Subject to the provisions of paragraphs (a), (b), and (c) of this section, an Apprentice Pilot found to be qualified under this subpart may be considered fully registered and issued a Certificate of Registration, valid for a term of five (5) years or until the expiration of their master's, mate's, or pilot's endorsement, or until the pilot reaches age 70, whichever occurs first.

10. Add a new § 401.222 to read as follows:

§ 401.222 Temporary Registered Pilots on the Great Lakes.

(a) The Director may, when necessary to ensure safe, efficient, and reliable pilotage service for maritime commerce, issue a Temporary Registration to any person found qualified under this subpart who:

(1) Holds a valid MMC;

(2) Meets the requirements of 46 CFR 401.210 (except paragraph (a)(5));

(3) Has previously held a Full Registration;

(4) Meets the requirements of 46 CFR part 16;

(5) Is requested by the pilotage association; and

(6) Either:

(i) Has reached the age of 70 and desires to continue providing pilotage services; or

(ii) Has retired from pilotage service and desires to provide pilotage services.

(b) A Temporary Registration is valid for a length of time to be determined by the Director, but not to exceed one year from the date of issuance.

11. Revise § 401.230 to read as follows:

§ 401.230 Certificates of Registration.

(a) A Certificate of Registration must describe the areas and routes of the Great Lakes within which the pilot is authorized to perform pilotage services and such description must be consistent with the terms of the pilotage authorization in their masters, mates, or pilot's endorsement issued under the authority of Title 46 of the United States Code.

(b) A Certificate of Registration does not authorize the holder to board any vessel, or to serve as a pilot of any vessel, without the permission of the owner or master. A Certificate of Registration must be in the possession of a pilot at all times when they are in the service of a vessel, and must be displayed upon demand of the owner or master, any United States Coast Guard officer or inspector, or a representative of the Director.

(c) A Certificate of Registration evidencing registration of the holder is the property of the U.S. Coast Guard and it may not be pledged, deposited, or surrendered to any person except as authorized by this part. A Certificate of Registration may not be copied or digitally reproduced, or be used to make a facsimile or Photostat. A Certificate which has expired without renewal, or renewal of which has been denied under the provisions of this section, must be surrendered to the Director upon demand.

(d) An application for a replacement of a lost, damaged, or defaced Certificate of Registration must be submitted to the Director, on a Form CG-4509, together with two full-face passport style photographs, signed on the photo, vertically, as close to the head as possible. A replacement fee of five dollars ($5) by check or money order, drawn to the order of the U.S. Coast Guard, must accompany any such application. A Certificate issued as a replacement for a lost, damaged, or defaced Certificate will be marked so as to indicate that it is a replacement. Upon receipt of a Certificate issued as a replacement, the damaged or defaced Certificate must be surrendered to the Director.

(e) A Certificate of Registration may be voluntarily surrendered to the Director by a U.S. Registered Pilot at any time such pilot no longer desires to perform pilotage services; however, in the event such U.S. Registered Pilot has been served with a notice of hearing pursuant to § 401.250, a voluntary surrender of the Certificate of Registration will be at the option of the Director.

12. Amend § 401.240 as follows:

a. Revise paragraphs (a), (b), and (d); and

b. In paragraphs (c) and (e), remove the word “shall” wherever it appears and add, in its place, the word “must”.

The revisions read as follows:

§ 401.240 Renewal of Certificates of Registration.

(a) An application for renewal of a Certificate of Registration must be submitted to the Director, on a Form CG-4509, together with two full-face passport style photographs, signed on the photo, vertically, as close to the head as possible, at least 15 days before the expiration date of the existing Certificate. The form for renewal of Certificates of Registration may be obtained from the Director. A renewal fee of five dollars ($5) by check or money order, drawn to the order of the U.S. Coast Guard, must accompany an application for renewal of registration, which will be refunded if registration is not renewed. Failure of a U.S. Registered Pilot to comply with these requirements or file a complete and sufficient application may constitute cause for denying renewal of the Certificate of Registration.

(b) No Certificate of Registration will be renewed unless the applicant for renewal meets the requirements and qualifications set forth in § 401.210 for issuance of an original Certificate of Registration, excepting that compliance with § 401.210(a)(4) is not required if the examination was satisfactorily passed on a previous application for registration within six (6) months next preceding the date of application for renewal.

* * * * *

(d) In any case in which the applicant has made timely and sufficient application for renewal of his registration, no such registration will expire until such application has been finally determined by the Director unless the public health, interest, or safety requires otherwise.

* * * * *

13. Amend § 401.250 as follows:

a. In paragraph (a), add the word “A” before the word “Certificate”; and

b. Revise paragraph (d).

The revision reads as follows:

§ 401.250 Suspension and revocation of Certificates of Registration.

* * * * *

(d) Every U.S. Registered Pilot must, whenever their MMC officer endorsement is revoked or suspended under the provisions of part 5 of this title, deliver their Certificate of Registration simultaneously with their MMC to the U.S. Coast Guard. If the officer endorsement is suspended, the Certificate of Registration will be held with the suspended officer endorsement and returned to the holder upon expiration of the suspension period.

14. Revise § 401.260 to read as follows:

§ 401.260 Reports.

(a) A marine accident which occurs while a United States Registered Pilot, Apprentice Pilot, Apprentice Pilot with Limited Registration, or Temporary Registered Pilot is providing pilotage service to a vessel in U.S. or Canadian waters of the Great Lakes must be reported in writing by the pilot to the Director as soon as possible, but not later than 15 days after the accident. The written report must include:

(1) Name and description of the vessel or vessels involved;

(2) Description of the accident;

(3) Type of accident;

(4) Location;

(5) Time of occurrence;

(6) Prevailing weather;

(7) Results of the pilot's post-casualty drug and alcohol test, if required;

(8) Damage to the vessel or vessels or property; and

(9) Injury to persons or lives lost.

(b) The report in paragraph (a) of this section does not relieve the pilot or others of responsibility for submitting any report required by other Coast Guard regulations or other government agencies of the United States or Canada.

(c) Every United States Registered Pilot, Apprentice Pilot, Apprentice Pilot with Limited Registration, and Temporary Registered Pilot must file with the Director any change of their mailing address, email address, or phone number within 15 days after the change.

15. Amend § 401.300 as follows:

a. In paragraph (a), remove the text “U.S. registered pilots will be authorized to establish a pool” and add, in its place, the words “United States Registered Pilots will be authorized to establish a pilotage pool”; and

b. Revise the section heading and paragraph (b).

The revisions read as follows:

§ 401.300 Authorization for establishment of pilotage pools.

* * * * *

(b) The Director must determine the number of pilotage pools that will be authorized for establishment by voluntary associations of United States Registered Pilots in order to assure adequate and efficient pilotage services for the United States waters of the Great Lakes.

16. Revise the heading and introductory text to § 401.310 to read as follows:

§ 401.310 Application for establishment of pilotage pools.

An application by a voluntary association for authorization to establish a pilotage pool must be filed on the form to be obtained from the Director. The form must require, among other things, furnishing of the following information:

* * * * *

17. Amend § 401.320 as follows:

a. Revise the section heading, the introductory text, and paragraph (d)(6); and

b. In paragraph (d)(5), add the word “pilotage” before the word “pools”.

The revisions read as follows:

§ 401.320 Requirements and qualifications for authorization to establish pilotage pools.

No voluntary association will be authorized to establish a pilotage pool unless:

* * * * *

(d) * * *

(6) It will coordinate on a reciprocal basis its pilotage pool operations with similar pilotage pool arrangements established by the Canadian Government and pursuant to the provisions of the United States-Canada Memorandum of Understanding, Great Lakes Pilotage, or any other arrangements established by the United States and Canadian Governments.

18. Amend § 401.330 as follows:

a. In paragraph (a), add the word “pilotage” before the word “pool”; and

b. Revise paragraph (b).

The revision reads as follows:

§ 401.330 Certificates of Authorization.

* * * * *

(b) A Certificate of Authorization must be in such form as the Director may prescribe, but must describe the area of the Great Lakes in which the pilotage pool will perform pilotage services. A Certificate of Authorization must be posted in the principal place of business of an association in such manner so as to be available for examination by members of the association and the public.

§ 401.335 [Amended]

19. Amend § 401.335 as follows:

a. In paragraphs (c) and (e), remove the word “shall” and add, in its place, the word “must”; and

b. In paragraph (d), remove the word “shall” and add, in its place, the word “will”.

20. Amend § 401.340 as follows:

a. Revise the section heading and paragraphs (a) and (c); and

b. In paragraph (b), add the word “pilotage” before the word “pool” wherever it appears.

The revisions read as follows:

§ 401.340 Compliance with working rules of pilotage pools.

(a) United States or Canadian Registered Pilots utilizing the facilities and dispatching services of any authorized pilotage pool must comply with its working rules approved under § 402.320, except to the extent inconsistent with the dispatch orders of the Director under § 401.720(b), and with other rules of the pilotage pool that are related to those facilities and services.

* * * * *

(c) United States Registered Pilots who fail to execute such an authorization will not be considered members of the U.S. pilotage pool, and are not entitled to reciprocal dispatching and related services by United States and Canadian pilotage pools as provided for by the Memorandum of Understanding. A United States Registered Pilot who fails or refuses to avail themselves of the established facilities and services will be considered as not being continuously available for service pursuant to section 4(a) of the Great Lakes Pilotage Act of 1960 (46 U.S.C. 216 through 216i) and their agreement executed on the Application for Registration as a United States Registered Pilot, and may be subject to suspension or revocation proceedings as prescribed by § 401.250.

§ 401.400 [Amended]

21. In § 401.400, amend the introductory text by removing the word “shall” and adding, in its place, the word “must”.

22. Amend § 401.420 as follows:

a. In paragraph (a)(3), remove the word “movage” and add, its place, the word “transit”; and

b. Revise paragraph (c).

The revision reads as follows:

§ 401.420 Cancellation, delay, or interruption in rendition of services.

* * * * *

(c) Between the dates of May 1 and November 30, a vessel or owner is not liable for charges under paragraphs (a)(1) or (2) of this section, if the interruption or detention was caused by ice or weather as determined by the vessel master and the United States Registered Pilot, Apprentice Pilot with Limited Registration, or Temporary Registered Pilot authorized to provide pilotage services to the vessel. When possible, the determination to interrupt, detain, or delay the vessel due to ice or weather should be made prior to the pilot departing for the vessel.

* * * * *

23. Revise § 401.425 to read as follows:

§ 401.425 Provision for additional pilot.

The Director may require the assignment of two pilots to a ship upon request of the ship or when the Director deems it necessary for the safe navigation of the ship, because of anticipated long transit, uncommon ship size, adverse weather or sea conditions or other abnormal circumstances. The charge to the ship will be twice the appropriate charge provided for in §§ 401.405, 401.407, 401.410, and 401.420. Each situation will be evaluated on a case-by-case basis. This authorization may occur at the opening and closing of the shipping season for a defined time period based upon the availability of the aids to navigation, ice conditions, weather forecasts, and other relevant information.

§ 401.427 [Amended]

24. Amend § 401.427 by removing the word “shall” and adding, in its place, the word “must”.

25. Revise § 401.430 to read as follows:

§ 401.430 Prohibited charges.

No rate or charge may be applied against any vessel, owner or master thereof, by a United States Registered Pilot that differs from the rates and charges set forth in this part, nor may any rates or charges be made for services performed by a United States Registered Pilot, or for support services directly related to the provision of pilotage that a United States Registered Pilot requires a vessel to utilize, other than those for which a rate is prescribed in this part, without the approval of the Director.

26. Revise § 401.431 to read as follows:

§ 401.431 Disputed charges.

(a) Any rate or charge applied against any vessel, owner, or master thereof by a registered pilot or pilot association that the owner or master disputes as a charge prohibited by § 401.430 may be appealed to the Director, within 60 business days of the date the pilot association issues the bill, for an advisory opinion as to whether such rate or charge is a prohibited charge.

(b) The appeal must be official correspondence from either the vessel owner, vessel charterer, or an agent or employee empowered to speak on behalf of the owner or charterer. The appeal must be supported by evidence that a reasonable attempt has been made to resolve the matter between the parties and that a bona fide controversy exists. The correspondence must articulate the following:

(i) Vessel name, date of service, and reference number for the invoice/bill;

(ii) Exact amount of dispute;

(iii) Regulatory citation for dispute; and

(iv) Requested resolution.

(c) The pilot association must be furnished with a copy of the appeal and be notified by the owner or charterer that the matter has been appealed for an advisory opinion.

(d) The pilot association must be allowed 20 business days from receiving the notice of appeal in which to provide any data or arguments desired to be submitted in further defense of the disputed charges.

(e) The Director must consider all relevant matters presented and issue an advisory opinion within 30 business days of receiving the pilot association's submission(s) per paragraph (d) of this section. The advisory opinion must set forth the rates and charges in dispute, a discussion of the facts and relevant information considered, and a statement of opinion.

(f) When the opinion of the Director is that the disputed rates or charges are prohibited by § 401.430, the respondent must refund moneys, adjust invoices, and otherwise conform to the advisory opinion within thirty (30) business days.

(g) Failure or refusal to comply with the advisory opinion within the time allowed may form a basis for a determination that there is a violation of the Great Lakes Pilotage Regulations subject to the provisions of § 401.500.

(h) The pilot association or vessel owner may appeal the advisory opinion to the Director of Marine Transportation Systems (CG-5PW), no later than 10 business days after receiving the advisory opinion, for a final adjudication.

27. Amend § 401.450 as follows:

a. In the introductory text, remove the words “he is” and add, in their place, the words “the pilot is”;

b. Revise paragraph (b);

c. Revise paragraph (i); and

d. In paragraph (k), remove the words “Gros Cap” and add, in their place, the text “Buoy 33”.

The revisions read as follows:

§ 401.450 Pilot change points.

* * * * *

(b) Iroquois Lock, Ogdensburg, NY;

* * * * *

(i) “Buoy 33”, St. Marys River, Point Iroquois;

* * * * *

28. Revise § 401.451 to read as follows:

§ 401.451 Pilot rest periods.

(a) Except as provided in paragraph (b) of this section:

(1) Each United States Registered Pilot upon completing an assignment at a change point designated in § 401.450, and

(2) Each United States Registered Pilot upon completing a series of assignments totaling more than 10 hours with no more than 2 hours rest between assignments, must not perform pilotage services for at least 10 hours.

(b) In the event of an emergency or other compelling circumstances a pilotage pool may assign a United States Registered Pilot for service before their 10-hour rest period required under paragraph (a) of this section is completed. Pilotage pools must advise the Director of each assignment made under this paragraph.

29. Revise the heading of Subpart E to read as follows:

Subpart E—Penalties; Operations Without Registered Pilots

§ 401.500 [Amended]

30. Amend § 401.500 by removing the word “shall” and adding, in its place, the word “may”.

§ 401.510 [Amended]

31. Amend § 401.510 as follows:

a. In the introductory text to paragraph (b), add the word “only” between the word “Pilot” and the word “when”;

b. In paragraph (b)(1), remove the word “admit” and add, in its place, the word “permit”, and remove the word shall” and add, in its place, the word “must”;

c. In paragraph (b)(2), add the word “pilotage” before the word “pool”, and remove the words “U.S. Coast Guard” and add, in their place, the word “Director”;

d. Remove paragraphs (b)(3) through (b)(7);

e. Redesignate paragraph (b)(8) as paragraph (b)(3); and

f. In newly redesignated paragraph (b)(3), remove the word “shall” and add, in its place, the word “must”.

32. Revise § 401.615 to read as follows:

§ 401.615 Representation.

(a) The United States Registered Pilot, Apprentice Pilot, Apprentice Pilot with Limited Registration, or Temporary Registered Pilot designated “respondent” in a suspension or revocation hearing or “applicant” in a refusal-to-renew-registration hearing, may be represented before the Administrative Law Judge by any person who is a member in good standing of the bar of the highest court of any State, Commonwealth, Territory, Possession, or the District of Columbia, upon filing with the Administrative Law Judge a written declaration that they are currently qualified and are authorized to represent the particular party in whose behalf they act.

(b) Whenever a person acting in a representative capacity appears in person or signs a paper in practice before the Administrative Law Judge, Director, Commandant, the Administrator, or other official of the U.S. Coast Guard, their personal appearance or signature constitutes a representation that under the provisions of this subpart and applicable law they are authorized and qualified to represent the particular person in whose behalf they act.

(c) When any United States Registered Pilot, Apprentice Pilot, Apprentice Pilot with Limited Registration, or Temporary Registered Pilot is represented by an attorney at law, any notice or other written communication required or permitted to be given to or by such a pilot must be given to or by such attorney. If a pilot is represented by more than one attorney, service by or upon any one of such attorneys is sufficient.

§ 401.630 [Amended]

33. Amend § 401.630 as follows:

a. In the introductory text to paragraph (a), remove the word “his” and add, in its place, the word “her/his”;

b. In paragraphs (a)(1) and (2), and (b), remove the word “shall” wherever it appears and add, in its place, the word “must”.

§ 401.635 [Amended]

34. Amend § 401.635, including the heading, by removing the word “shall” wherever it appears and adding, in its place, the word “must”.

§ 401.640 [Amended]

35. Amend § 401.640 by removing the word “shall” wherever it appears and adding, in its place, the word “will”.

36. Revise § 401.645 to read as follows:

§ 401.645 Administrative Law Judge's decision; exceptions thereto.

At the conclusion of the hearing, the parties may submit briefs and recommended conclusions and findings within such time as the Administrative Law Judge determines appropriate. The Administrative Law Judge will thereafter issue a written initial decision in the case, which decision will be final and binding upon the Director, except as provided in § 401.650.

37. Revise § 401.650 to read as follows:

§ 401.650 Review of Administrative Law Judge's initial decision.

(a) The Commandant may, on their own motion, or on the basis of a petition filed by the United States Registered Pilot, Apprentice Pilot, Apprentice Pilot with Limited Registration, or Temporary Registration Pilot in the proceedings or the Commandant, review any initial decision of the Administrative Law Judge by entering a written order stating that they elect to review the action of the Administrative Law Judge. Copies of all orders for review, replies, and decisions must be served on all parties.

(b) A petition for review must be in writing and must state the grounds upon which the petition relies. A petition for review must be limited to the record before the Administrative Law Judge. A hard copy or electronic version of such a petition for review, together with proof of service on all parties, must be filed with the Commandant (CL) within fifteen (15) days after the date of service of the initial decision of the Administrative Law Judge. Parties may file replies, in writing, to a petition for review, with proof of service on other parties in the same manner and number of copies as is provided for filing of a petition for review and within ten (10) days after the date the petition for review is timely filed. A reply must be limited to the record before the Administrative Law Judge and the petition for review.

(c) The initial decision of an Administrative Law Judge will be made final;

(1) Fifteen (15) days after the timely filing of a petition to review unless a reply is filed thereto or the Commandant enters a written order granting the petition for review; or

(2) Twenty (20) days after the date of service of the Administrative Law Judge's decision if no petition for review is filed and the Commandant does not elect to review on his or her own motion.

(d) If the Commandant reviews the initial decision as provided in this section, they must issue a written order affirming, amending, overruling, or remanding the initial decision of the Administrative Law Judge within thirty (30) days after the date on which they take review. There is no other administrative remedy within the Department of Homeland Security.

(e) When the Commandant has sustained an order of suspension or revocation of a registration, the respondent may appeal to the National Transportation Safety Board under 49 CFR 825.5 within ten (10) days after service of the Commandant decision.

38. Amend § 401.700 as follows:

a. Revise the section heading and introductory text; and

b. In paragraph (a), remove the word “his” and add, in its place, the words “their pilotage”.

The revisions read as follows:

§ 401.700 Operating requirements for United States Registered Pilots.

Each United States Registered Pilot must—

* * * * *

39. Amend § 401.710 as follows:

a. In the introductory text, remove the word “shall” and add, in its place, the word “must”;

b. In paragraph (a), remove the word “his” and, add in its place, the word “their”; and

c. Revise paragraph (b).

The revisions read as follows:

§ 401.710 Operating requirements for holders of Certificates of Authorization.

* * * * *

(b) Coordinate on a reciprocal basis its pilotage pool operations with pilotage pool operations of the Canadian Government, under the “Memorandum of Understanding, Great Lakes Pilotage, Between The United States Coast Guard and The Great Lakes Pilotage Authority,” effective September 19, 2013;

* * * * *

PART 402—GREAT LAKES PILOTAGE RULES AND ORDERS

40. The authority citation for part 402 continues to read as follows:

Authority: 46 U.S.C. 2104(a), 8105, 9303, 9304.

41. Revise § 402.210 to read as follows:

§ 402.210 Requirements and qualifications for registration.

Pursuant to § 401.210(a)(4), each applicant for an original registration at the time of application and each Apprentice Pilot, United States Registered Pilot, and Temporary Registered Pilot is required to pass a physical examination in accordance with subpart C of 46 CFR part 10.

42. Amend § 402.220 as follows:

a. Revise paragraph (a);

b. In the introductory text to paragraph (b), remove the word “shall” and add, in its place, the word “will”;

c. Remove paragraph (b)(5);

d. Redesignate paragraphs (b)(6), (b)(7), (b)(8), and (b)(9) as paragraphs (b)(5), (b)(6), (b)(7), and (b)(8);

e. Revise newly redesignated paragraph (b)(7); and

f. Remove paragraph (b)(10).

The revisions read as follows:

§ 402.220 Registration of pilots.

(a) Each Apprentice Pilot must complete the minimum number of round trips specified in this section prior to registration as a United States Registered Pilot. The round trips must be made in company with a United States Registered Pilot or Temporary Registered Pilot, on oceangoing vessels that have a gross tonnage of at least 4,000. The pilot association training committee, pilot association president, or Director may require additional round trips to demonstrate proficiency for a given waterway or specific port in order to ensure maritime safety. The minimum number of round trips listed here is not intended to guarantee completion of a training plan or advancement towards Full Registration.

(1) If the Apprentice Pilot holds a master's endorsement, a minimum of five round trips are required over the waters for which registration is desired.

(2) If the Apprentice Pilot holds a chief mate's endorsement or a second mate's endorsement, or holds a first class pilot's endorsement with service in the capacity of first mate or second mate, a minimum of eight round trips are required over the waters for which registration is desired.

(3) If the Apprentice Pilot holds a first class pilot's endorsement or a third mate's endorsement, a minimum of twelve round trips are required over the waters for which registration is desired.

(b) * * *

(7) Instruction in the Great Lakes Pilotage Act of 1960; Great Lakes Pilotage Regulations; Presidential Proclamation of December 22, 1960; and Memorandum of Understanding, Great Lakes Pilotage, Between The United States Coast Guard and The Great Lakes Pilotage Authority, effective September 19, 2013.

* * * * *

43. Revise the heading of subpart C to read as follows:

Subpart C—Establishment of Pilotage Pools by Voluntary Associations of United States Registered Pilots

44. Revise § 402.320 to read as follows:

§ 402.320 Working rules.

Sections 401.320(d)(2) and (6) of this chapter require that voluntary associations of United States Registered Pilots authorized to establish pilotage pools agree to submit Working Rules for approval of the Director and that they will coordinate their pilotage pool operations with Canada on a reciprocal basis. The approved Working Rules of each pilot district are on file in the office of the Director and may request a copy of the Working Rules by emailing GreatLakesPilotage@uscg.mil.

Dated: November 9, 2023.
W.R. Arguin,
Rear Admiral, U.S. Coast Guard, Assistant Commandant for Prevention Policy.

[FR Doc. 2023-25425 Filed 11-20-23; 8:45 am]

BILLING CODE 9110-04-P